DEPARTMENT OF THE INTERIOR

Bureau of Safety and Environmental Enforcement

30 CFR Part 250

[Docket ID: BSEE-2021-0003; EEEE500000 245E1700D2 ET1SF0000.EAQ000]

RIN 1014-AA49

Oil and Gas and Sulfur Operations in the Outer Continental Shelf—High Pressure High Temperature Updates

AGENCY: Bureau of Safety and Environmental Enforcement, Interior.

ACTION: Final rule.

SUMMARY: The Department of the Interior (DOI or Department), through the Bureau of Safety and Environmental Enforcement (BSEE), is adding requirements for new or unusual technology, including equipment used in high pressure high temperature (HPHT) environments; revising and reorganizing the information submission requirements for a project's Conceptual Plans and Deepwater Operations Plan (DWOP); and requiring independent third parties to review certain information prior to submission to BSEE. This final rule will improve operational and environmental safety and human health, while providing consistency and clarity to industry regarding the equipment and operational requirements as well as the submissions that are necessary so that BSEE can review and consider for approval proposed projects that would use new or unusual technology.

DATES: This final rule is effective on October 29, 2024. The incorporation by reference of certain material listed in this rule is approved by the Director of the Federal Register as of October 29, 2024.

FOR FURTHER INFORMATION CONTACT: For questions, contact Kirk Malstrom, Regulations and Standards Branch, (202) 258-1518, or by email: regs@bsee.gov.

SUPPLEMENTARY INFORMATION:

Executive Summary

This final rule will improve operational safety and human health and environmental protections, while providing industry with clarity and consistency regarding the equipment, operational requirements, and submissions that are necessary for BSEE to review and approve operations using new or unusual technology. BSEE considers new or unusual technology to include equipment or procedures that the offshore oil and gas industry has not used previously or extensively under the anticipated operating conditions or has not used previously in a particular BSEE Outer Continental Shelf (OCS) Region, or that have operating characteristics outside the performance parameters established in 30 CFR part 250.

Currently, operations and equipment used in HPHT environments are relatively new on the United States OCS. In general, an HPHT environment is present when well conditions have pressures greater than 15,000 pounds per square inch absolute (psia) or have a temperature greater than 350 degrees Fahrenheit. Historically, most oilfield equipment has not been designed to withstand such high pressures and temperatures. Working in an HPHT environment therefore increases operational complexity because HPHT-associated operations require the use of equipment that exists at the limits of current technology and lacks a long operational history. Due to limited industry experience in HPHT environments, few industry standards directly address HPHT equipment and operations. Currently, BSEE carefully reviews HPHT projects on a case-by-case basis. To date, BSEE has received several applications for projects in HPHT environments and anticipates HPHT project interest to increase due to equipment technological advancements and industry capabilities to develop resources in these environments.

For new or unusual technology projects, including HPHT projects, BSEE regulations currently:

—Require submission of information in a sequence that is not conducive to BSEE's review and consideration for approval of new or unusual technology projects because these projects typically require a more immediate BSEE review and approval than the regulations currently allow; and

—Lack specific equipment requirements because the technology is new and there are few applicable industry standards.

To address these issues, this final rulemaking:

—Requires the submission of information in a sequence that provides both operators ¹ and BSEE the ability to evaluate whether a new or unusual technology project is economically and operationally feasible;

¹ BSEE administers the Departmental regulations at 30 CFR part 250, which generally apply to “a lessee, the owner or holder of operating rights, a designated operator or agent of the lessee(s). . . .” 30 CFR 250.105 (definition of “you”). For convenience, this preamble will refer to these regulated entities as “operators” unless otherwise indicated.

—Clarifies that equipment or procedures used for operations in an HPHT environment are considered new or unusual technology.

—Adds specific equipment requirements, particularly for barriers, through new regulations and the incorporation of applicable industry standards; and

—Requires Independent Third Party (I3P) review of operator submissions, in certain cases, or provides BSEE with the ability to require I3P review, to ensure project viability and safety.

Currently, the DWOP process requires information to be submitted in two distinct phases: the Conceptual Plan phase and the DWOP phase. This final rule maintains the two phase DWOP process and adds additional requirements to each phase that will enable BSEE to thoroughly review proposed new or unusual technology projects. The final rule defines three types of Conceptual Plans: a Project Conceptual Plan, a New or Unusual Technology Conceptual Plan, and a New or Unusual Technology Barrier Equipment Conceptual Plan. A Project Conceptual Plan will be required for any project planned in water depths greater than 1000 feet or that will include the use of subsea tieback development technology, regardless of water depth. A New or Unusual Technology Conceptual Plan will be required for any project or system involving New or Unusual Technology equipment or procedures. A New or Unusual Technology Barrier Equipment Conceptual Plan will be required for any project or system involving new or unusual technology identified as a primary or secondary barrier to isolate a hydrocarbon pressure source from people and the environment. An operator must submit the applicable Conceptual Plan(s) based on the specifics of the proposed project.

The information specific to HPHT projects submitted in the applicable Conceptual Plan(s) will be evaluated for adequacy prior to approval. The final rule's establishment of three new types of Conceptual Plans and the associated new timing requirements established in § 250.226 (e.g., BSEE must approve your Conceptual Plan(s) before the Bureau will approve any associated permit) will provide both operators and BSEE with the ability to evaluate early in the project planning process, before permit approval, whether a new or unusual technology project is economically and operationally feasible. In the final rule, the DWOP phase, during which the DWOP is reviewed, will take place after the Conceptual Plan(s) have been approved and the system design has been substantially completed.

In addition, this final rule revises 30 CFR part 250, subpart B (“Plans and Information”) and the DWOP process to incorporate BSEE's Barrier Concept into the requirements, including for new or unusual technology projects. The Barrier Concept is a holistic approach to the barrier system based on BSEE's determination that abnormal conditions and/or failures are potential risks in a well or pipeline system. When an abnormal condition or failure occurs, it must be detectable, and upon detection, its source must be isolated behind redundant barriers. BSEE considers a barrier or barrier system to be any engineered equipment, materials, component, or assembly that is intended to contain a hydrocarbon pressure source(s) to prevent harm to people or the environment. This final rule defines the types of equipment that BSEE considers to be sufficient barriers and how barriers must be used. The final rule also includes portions of the Barrier Concept in the DWOP process under the New or Unusual Technology Barrier Equipment Conceptual Plan as a means of ensuring that new or unusual technology projects include sufficient barriers, which will enhance protections for people and the environment. This rule incorporates into the regulations the existing BSEE policy on the Barrier Concept discussed in Notice to Lessees (NTLs) 2009-G36, Using Alternate Compliance in Safety Systems for Subsea Production Operations; 2019-G02, Guidance for Information Submissions Regarding Proposed High Pressure and/or High Temperature (HPHT) Well Design, Completion, and Intervention Operations; and 2019-G03, Guidance for Information Submissions Regarding Site Specific and Non-Site Specific HPHT Equipment Design Verification Analysis and Design Validation Testing.

Furthermore, this final rule revises the DWOP process to require I3P review of equipment or procedures identified in a New or Unusual Technology Barrier Equipment Conceptual Plan. This final rule also allows BSEE to require an operator to use an I3P to review certain equipment or procedures identified in a New or Unusual Technology Conceptual Plan. Independent third parties have been used as a longstanding industry practice to support verifications that ensure project viability and safety. I3P review provides an additional review in circumstances where proposed equipment or processes may be technically complex and require a high degree of specialized engineering knowledge, expertise, and experience to evaluate.

Table of Contents

I. Background

A. BSEE Statutory and Regulatory Authority and Responsibilities

B. Purpose and Summary of the Rulemaking

C. Summary of Documents Incorporated by Reference

II. Discussion of Public Comments on the Proposed Rule

III. Section-by-Section Summary and Responses to Comments on the Proposed Rule

IV. Derivation Table

V. Procedural Matters

I. Background

A. BSEE Statutory and Regulatory Authority and Responsibilities

The applicable authority for this rulemaking is the Outer Continental Shelf Lands Act (OCSLA), 43 U.S.C. 1331-1356a. OCSLA, enacted in 1953 and substantially revised it in 1978, authorizes the Secretary of the Interior (Secretary) to lease the OCS for mineral development and to regulate oil and gas exploration, development, and production operations on the OCS. The Secretary delegated authority to perform certain of these functions to BSEE.

To carry out its responsibilities, BSEE regulates offshore oil and gas operations to enhance the safety of exploration for and development of oil and gas on the OCS, ensure that those operations protect the environment, and implement advancements in technology. BSEE also conducts onsite inspections to ensure compliance with regulations, lease terms, and approved plans and permits. Detailed information concerning BSEE's regulations and guidance to the offshore oil and gas industry may be found on BSEE's website at: https://www.bsee.gov/guidance-and-regulations.

BSEE's regulatory program covers a wide range of OCS facilities and activities, including drilling, completion, workover, production, pipeline, and decommissioning operations. This rule is applicable to operations that involve deepwater development projects, subsea tieback development technology, or projects or systems that use new or unusual technology.

B. Purpose and Summary of the Rule

The purpose of this rule is to improve the requirements and information submission process for oil and gas operations in deepwater and for operations that propose the use of new or unusual technology equipment or procedures. The final rule achieves this purpose by adding requirements for new or unusual technology projects, including HPHT projects, reorganizing the deepwater project information submission process, and requiring I3P review of certain submissions.

Together, these regulations will better ensure that operators consider and submit sufficient information to BSEE at an early enough stage in the process so that operators and BSEE can adequately address any issues concerning equipment selection, design, and fabrication.

C. Summary of Documents Incorporated by Reference

The Office of the Federal Register has regulations concerning incorporation by reference. 1 CFR part 51. These regulations require that, for a final rule, agencies must discuss in the preamble to the rule the way in which materials that the agency incorporates by reference are reasonably available to interested persons and how interested parties can obtain the materials. Additionally, the preamble to the rule must summarize the material. 1 CFR 51.5(b). The text immediately below summarizes the documents incorporated by reference in 30 CFR 250.198 and the changes to the regulatory text. This section of the preamble concludes with a discussion regarding the availability of the documents that are incorporated by reference.

API Spec. 6A, Specification for Wellhead and Christmas Tree Equipment, Twentieth Edition, October 2010; Addendum 1, November 2011; Errata 2, November 2011; Addendum 2, November 2012; Addendum 3, March 2013; Errata 3, June 2013; Errata 4, August 2013; Errata 5, November 2013; Errata 6, March 2014; Errata 7, December 2014; Errata 8, February 2016; Addendum 4, June 2016; Errata 9, June 2016; Errata 10, August 2016.

This specification defines requirements for the design of valves, wellheads, and Christmas tree equipment that is used during drilling and production operations. This specification includes requirements related to dimensional and functional interchangeability, design, materials, testing, inspection, welding, marking, handling, storing, shipment, purchasing, repair, and remanufacture. This document is currently incorporated by reference elsewhere in 30 CFR part 250, and BSEE is adding a reference to this standard in existing §§ 250.518 and 250.619.

American National Standards Institute (ANSI)/API Specification (Spec.) 11D1, Packers and Bridge Plugs, Third Edition, April 2015, Errata 1, August 2019.

This specification provides minimum requirements and guidelines for packers and bridge plugs used downhole in oil and gas operations. The performance of this equipment is often critical to maintaining well control during drilling and production operations. This specification provides requirements for the design, design verification and validation, materials, documentation and data control, repair, shipment, and storage of packers and bridge plugs. This document is currently incorporated by reference, and BSEE is updating this standard from the second to the third edition.

API Spec. 17D, Design and Operation of Subsea Production Systems—Subsea Wellhead and Tree Equipment, Second Edition, Reaffirmed November 2018, Addendum 1, September 2015; Errata, September 2011; Errata 2, January 2012; Errata 3, June 2013; Errata 4, July 2013; Errata 5, October 2013; Errata 6, August 2015; Errata 7, October 2015.

This specification provides requirements for subsea wellheads, mudline wellheads, and drill-through mudline wellheads, as well as vertical and horizontal subsea trees. These devices are located on the seafloor, and, therefore, ensuring the safe and reliable performance of this equipment is extremely important. This specification identifies the tooling necessary to handle, test, and install the equipment. It also specifies the parameters for design, material, welding, quality control (including factory acceptance testing), marking, storing, and shipping for both individual sub-assemblies (used to build complete subsea tree assemblies) and complete subsea tree assemblies. This document is currently incorporated by reference elsewhere in 30 CFR part 250, and BSEE is adding references to this standard in existing §§ 250.518 and 250.619.

NACE Standard MR0175-2003, Standard Material Requirements, Metals for Sulfide Stress Cracking and Stress Corrosion Cracking Resistance in Sour Oilfield Environments, Revised January 17. 2003.

This standard describes general principles and provides requirements and recommendations for the selection and qualification of metallic materials for equipment used in oil and gas production, and in natural-gas sweetening plants, in hydrogen sulfide (H2S)-containing environments, where the failure of such equipment can pose a risk to the health and safety of the public and personnel or to the environment. Application of this standard can help avoid costly corrosion damage to equipment. This standard supplements, but does not replace, the material requirements contained in applicable design codes, standards, or regulations. This standard also addresses all mechanisms of cracking that can be caused by H2S, including sulfide stress cracking, stress corrosion cracking, hydrogen-induced cracking and stepwise cracking, stress-oriented hydrogen-induced cracking, soft zone cracking, and galvanically induced hydrogen stress cracking. This standard does not include and is not intended to include design specifications. This document is currently incorporated by reference elsewhere in 30 CFR part 250, and BSEE is adding references of this standard in existing §§ 250.518 and 250.619.

The American Petroleum Institute (API) provides free online public access to view read-only copies of its key industry standards, including a broad range of technical standards. All API standards that are safety-related and that are incorporated into Federal regulations are available to the public for free viewing online in the Incorporation by Reference Reading Room on API's website at: https://publications.api.org. In addition to the free availability of these standards for viewing on API's website, hardcopies and printable versions are available for purchase from API. The API website address to purchase standards is: https://www.api.org/products-and-services/standards/purchase.

NACE International (NACE) standards can be accessed through the American National Standards Institute (ANSI). The ANSI Incorporated by Reference (IBR) Portal provides access to many standards that have been incorporated by reference in the U.S. Code of Federal Regulations (CFR). These standards incorporated by the U.S. government in rulemakings are offered at no cost in “read only” format and are presented for online reading. However, there are no print or download options. The website can be accessed at: https://ibr.ansi.org.

For the convenience of the viewing public who may not wish to purchase or view the incorporated documents online, the documents may be inspected at BSEE's offices at: 1919 Smith Street, Suite 14042, Houston, Texas 77002 (phone: 1-844-259-4779), or 45600 Woodland Road, Sterling, Virginia 20166 (email: regs@bsee.gov), by appointment only. An appointment is required to ensure personnel are available to accommodate the request and to account for competing agency obligations or concerns, including those related to public health and natural disasters. Additional information about where these documents can be inspected or purchased can be found at § 250.198, Documents incorporated by reference, or by sending a request by email to regs@bsee.gov.

II. Discussion of Public Comments on the Proposed Rule

In response to the proposed rule, BSEE received 9 sets of submitted comments containing general statements, specific comments on the proposed provisions, and discussions of provisions not included in the proposed rule. Comments included submittals from the following entities: 1 manufacturer, 5 companies, 1 industry organization, 1 non-governmental organization, and 1 classification society. All relevant comments are posted at the Federal eRulemaking portal: https://www.regulations.gov. To access the comments at that website, enter BSEE-2021-0003 in the Search box. BSEE reviewed all comments submitted, and this section of the preamble contains brief summaries of the relevant comments, as well as BSEE's responses.

BSEE received multiple comments expressing general support for the proposed rule. Some of the commenters who expressed general support for the proposed rule also provided specific detailed comments, which we have addressed further in section III of this preamble. While these commenters voiced support broadly for certain proposed changes, some of them also disagreed with other specific proposals and provided suggested revisions. Multiple commenters also provided statements or comments that were not relevant to the proposed rule, and therefore BSEE is not addressing them in this final rule.

General Comments

Summary of comments related to incremental submission of plans: Multiple commenters suggested that BSEE clarify the regulations to allow for incremental submission of certain plans.

Response: BSEE disagrees with the commenters' suggestions to allow for incremental submission of certain plans. Incremental submission of plans would complicate the BSEE approval process and require additional BSEE time and resources to verify compliance with all requirements. This piecemeal approach increases the potential for errors or gaps within the plans, which may delay project implementation. The DWOP process is purposefully divided into multiple plans to allow BSEE approval of certain operations as the project is developed. For example, BSEE approval of certain Conceptual Plans would allow for the wells to be completed or the installation of certain equipment, while BSEE approval of the DWOP would allow for well production. BSEE requires all pertinent information associated with the applicable plans within the DWOP process to be submitted as required in §§ 250.220 through 250.248. Furthermore, the final rule provides clarity for the appropriate timing and submission requirements for all plans covered under the DWOP process (e.g., see revisions to §§ 250.201, 250.220, 250.225, and 250.226). This final rule also clarifies that not all projects will require the submittal of each of the three Conceptual Plans and a DWOP. Specifically, certain New or Unusual Technology Conceptual Plans or New or Unusual Technology Barrier Equipment Conceptual Plans may not be required to have an associated Project Conceptual Plan or DWOP.

Comments Related to the Independent Third Party (I3P)

Summary of comments: Multiple commenters expressed concerns that the proposed rule would substantially expand the role of I3Ps beyond the scope of expected duties. The commenters also requested clarification regarding the role and expected deliverables of I3Ps, including I3P actions concerning verification, validation, and certification and how those fit in with the terms “fit for purpose” and “fit for service.”

Response: BSEE agrees with the commenters that the I3P requirements should be clarified and throughout this rulemaking has revised the roles and expected responsibilities for I3Ps. For example, BSEE has provided supplemental regulatory text that clarifies the meaning of the terms “fit for purpose” and “fit for service” and to identify that an I3P makes a “fit for purpose” determination and an operator makes a “fit for service” determination. These added definitions are consistent with the guidance of BSEE NTL Nos. 2019-G02 and 2019-G03.

In response to the comments, BSEE has also removed the term “certification” as it pertains to determining what is “fit for purpose” and “fit for service” and is clarifying that a statement from the appropriate entity is sufficient instead of a certification statement.² BSEE has also removed the term “certification” as it pertains to I3Ps throughout Subpart B. See Section III of this preamble for a complete discussion regarding the updated I3P expectations and requirements.

² Notwithstanding this terminology change, operators and I3Ps should be aware that willfully and knowingly making materially false statements to the government are actionable under 18 U.S.C. 1001.

Summary of comment: A commenter acknowledged that I3Ps can be a powerful tool, but stated that BSEE must ensure that the criteria for third party reviewers is sufficient.

Response: BSEE agrees with the commenter that I3Ps can be a useful tool for added review and verifications. In this final rule, BSEE has clarified the I3P qualifications and expectations to help ensure appropriately qualified entities are performing this important work and that BSEE has clear oversight of the process.

Summary of comments related to continued use of NTLs: Multiple commenters expressed concerns with consistency between existing BSEE guidance (NTL No. 2019-G02 and NTL No. 2019-G03) and the proposed rule and were unsure as to whether BSEE intended to replace or supplement the BSEE guidance.

Response: BSEE has made many revisions throughout the final rule to provide consistency with existing BSEE guidance in the NTLs. For example, BSEE has added the definitions of “fit for purpose” and “fit for service” to the final rule to provide that consistency (see Section III of this preamble for discussions on consistency and clarification of the content of the guidance documents). If the NTLs conflict with this final rule, the final rule is controlling, and BSEE will revise the NTLs, as necessary.

Summary of comments related to significance determination: A commenter asserted that the rule was incorrectly identified as a non-significant action. The commenter asserted that the rule includes several significant alterations to the DWOP process currently used by both the oil and natural gas industry and BSEE, including a substantial expansion of the circumstances that would trigger the DWOP process, as well as an expansion of the circumstances that would require review by I3Ps. The commenter requested that BSEE reevaluate the significance analysis.

Response: The Office of Information and Regulatory Affairs (OIRA) in the Office of Management and Budget determined that this rule is not significant for purposes of Executive Order 12866, as amended. BSEE disagrees with the commenter's assertion that the rule should be considered significant. The DWOP process that is clarified in this rule is the same process that BSEE has been using to review new and unusual technologies and new and unusual technologies barriers for more than 20 years. Under its current regulations, BSEE has established conditions of approval through the DWOP process under the authority of § 250.141, “May I ever use alternate procedures or equipment?”, to enable it to review and approve applications using new technologies. In response to the commenters request to reevaluate the significance criteria, BSEE has conducted a final analysis of the regulations, and OIRA confirmed that this final rule is not a significant regulatory action. A summary of that analysis can be found in Section V of this preamble.

Summary of comments related to grandfathering ongoing approvals and actions: Multiple commenters expressed concerns that the proposed rule would impact and significantly delay ongoing approval for projects that have already been proposed and subject to BSEE review before the effective date of the rule, or for equipment that has already been reviewed by BSEE. The commenters identified that some of the projects have already undergone years of review.

Response: BSEE agrees with the commenters and revised § 250.201 by adding new paragraph (d) to clarify that all plans covered under the DWOP process that are initially submitted after the effective date of this rule must comply with the requirements of this subpart. DWOPs that were submitted to BSEE for approval prior to the effective date of this rule, including revised or amended DWOPs, do not have to follow the new DWOP process and may continue to follow the process that was in effect before the effective date of these final regulations. BSEE considers Conceptual Plans and DWOPs to be submitted when BSEE receives the initial submittal. BSEE will work on a case-by-case basis to ensure there are no significant delays for those ongoing projects or reviews. BSEE may allow review pursuant to the new regulations if such a review is requested by the operator.

Comments Related to the Use of New or Unusual Technology

Summary of comments: A commenter requested that BSEE not classify equipment or procedures used in an HPHT environment as new or unusual technology, as the HPHT technology is expanding and maturing.

Response: BSEE disagrees with the commenter and does not consider HPHT equipment to be fully mature. BSEE considers HPHT equipment to be potentially high risk because it requires complex material selection, material testing, design analysis, and validation testing. BSEE understands and supports many engineering standards that are being updated to address HPHT design. However, at this point BSEE intends for operations in an HPHT environment to be fully reviewed and approved to ensure safety and environmental protection. BSEE will continue to evaluate HPHT projects, and at an appropriate time may revise the regulations to remove HPHT from being considered new or unusual technology once BSEE determines that it is fully established.

Summary of comments: Multiple commenters recommended that BSEE provide means to communicate about equipment or procedures that are or are not considered new or unusual technology and a means for equipment or procedures initially deemed to be new or unusual technology to later be deemed as falling outside the definition of “new or unusual technology.”

Response: BSEE is not developing a list of equipment or procedures considered to be new or unusual technology. It is impractical for BSEE to list every potential piece of equipment or procedure that may fall under the definition of new or unusual technology as there may be an infinite number of variations of each type of equipment or procedure. Furthermore, BSEE reviews each piece of equipment and procedure individually to ensure that the equipment or procedure is appropriate for the specific project proposed. This rule sets the parameters of what is considered new or unusual technology. BSEE anticipates that over time, consistently successful implementation of certain new or unusual technologies will lead to BSEE revising the criteria for determining what is considered new or unusual technology. After appropriate experience and analysis of data, in a future rulemaking BSEE may decide to no longer treat certain equipment or procedures used in an HPHT environment as new or unusual technology. For example, BSEE has become familiar with the freestanding hybrid riser (FSHR) systems and does not consider that equipment new or unusual technology. In 2019, BSEE removed many of the FSHR prescriptive requirements and associated certifications from the DWOP (see 84 FR 21932).

Summary of comments: Multiple commenters expressed concerns that only operators can propose the use of new or unusual technology under the DWOP process.

Response: The current regulatory structure focuses on entities—such as lessees, operators, and grant holders—that submit permits to BSEE for review and approval; this final rule, therefore, focuses on regulation of those entities that use the permitting processes.

Summary of comments: Multiple commenters expressed concerns that the full DWOP process should not be required to facilitate review of new or unusual technology and recommended that BSEE provide clear expectations and timing for all plans covered under the DWOP process and actions or operations that can be taken during the process.

Response: In this final rule, BSEE has clarified the DWOP process and the timing associated with each Conceptual Plan and the DWOP, as applicable. BSEE has revised multiple sections to reflect the appropriate timing (including what actions or operations can be taken during the DWOP process) and submission requirements for all plans covered under the DWOP process (e.g., see revisions to §§ 250.201, 250.220, 250.225, and 250.226). BSEE has also clarified in other sections (see, e.g., § 250.220) that certain New or Unusual Technology Conceptual Plans or New or Unusual Technology Barrier Equipment Conceptual Plans (which may be used for drilling and decommissioning) may not be required to have an associated Project Conceptual Plan or DWOP. This clarification helps limit burdens on industry, as not every proposed use of new or unusual technology will require the submission of all plans defined in the DWOP process; only those plans that are applicable will be required. There is a difference between the DWOP process and submitting a DWOP. The DWOP process identifies the overarching requirements for all associated plans (i.e., the Project Conceptual Plan, New or Unusual Technology Conceptual Plan, New or Unusual Technology Barrier Equipment Conceptual Plan, and the DWOP). The DWOP itself is just one plan included within the DWOP process. BSEE expects operators to follow the DWOP process as appropriate, which may only require the submittal of a certain Conceptual Plan.

Summary of comments: A commenter expressed concerns that the proposed rule is overly prescriptive when identifying new or unusual technology and barriers. This commenter expressed that the proposed rule may limit or stifle innovation.

Response: BSEE disagrees with the commenter's concerns that the rule is overly prescriptive. These regulations outline the requirements and expectations for using new or unusual technology. These regulations will not limit or stifle innovation because BSEE uses the DWOP process to evaluate and approve new or unusual technology, not to limit the type of technology that may be submitted. BSEE has worked successfully with industry for many years to implement new or unusual technology, and BSEE will continue to work with any operator on the proposed use of any new or unusual technology, even if that use is not explicitly identified in the regulations. If an operator has any questions about the applicability of the regulations to any new or unusual technology or how the process will work for a specific equipment or process, that operator may contact the appropriate Regional Supervisor for guidance and actions on a case-by-case basis.

Summary of comments related to overlap between the contents of Conceptual Plans and the DWOP: Multiple commenters expressed concerns that there is significant overlap among the Conceptual Plans and the DWOP requirements for the submission of information.

Response: BSEE agrees in part that the Conceptual Plans and the DWOP may require the submission of similar information. However, the final rule will not significantly change the contents and requirements of the Project Conceptual Plan and the DWOP. This final rule clarifies the nature of the required information submitted with each Conceptual Plan and DWOP (see revisions to §§ 250.227 through 250.242). BSEE recognizes that the New and Unusual Technology Conceptual Plan and New and Unusual Barrier Equipment Technology Conceptual Plan have potentially similar requirements relative to the Project Conceptual Plan and DWOP. However, the Conceptual Plans require the general operational concepts and basis of design while the DWOP identifies the specific design, fabrication, installation, and operational requirements for the equipment.

Summary of comments: Multiple commenters requested that BSEE provide guidance for using alternate procedures or equipment requests for using industry standards not incorporated by BSEE. A commenter also recommended BSEE make the process for granting alternate procedures or equipment and departure requests transparent to the public.

Response: Current BSEE regulations already outline the requirements for alternate procedures or equipment and departures in accordance with §§ 250.141 and 250.142, respectively. In reference to the transparency of the alternate procedure or equipment and departure requests, BSEE posts approval information on the BSEE website at: https://www.data.bsee.gov/Company/Approvals/Default.aspx.

Summary of comments: A commenter requested that BSEE increase inspections, develop procedures to effectively enforce safety violations, and improve oversight measures to fulfill its mandate.

Response: This rulemaking clarifies the DWOP process to ensure BSEE receives proper information to evaluate and approve new or unusual technology. BSEE has an established inspection program independent of the DWOP process to help ensure compliance with the regulations and enforce safety requirements. The equipment approved by BSEE through the DWOP process will be inspected pursuant to the existing inspection program. This rule does not alter the existing inspection program for the actual operations. That inspection program is outside of the scope of this rulemaking. However, BSEE is always seeking to improve its regulatory oversight and enforcement and appreciates receiving relevant recommendations.

Summary of comments: A commenter expressed concern that the confidential and intellectual information submitted throughout the DWOP process should be safeguarded and not released to the public domain.

Response: BSEE agrees with the commenter's concerns about the release of confidential business information and will withhold such information from public disclosure in accordance with law (see, e.g., the Freedom of Information Act, 5 U.S.C. 552).

Summary of comment: A commenter requested that BSEE provide guidelines for how long DWOP process review is anticipated to take to better align schedules leading to first production.

Response: BSEE cannot provide timelines for DWOP process review. The review time for the DWOP process is handled on a case-by-case basis, as each process is unique to a particular project. The size of the project and complexity of the project, equipment, and processes all factor into the length of time necessary for DWOP process review.

Summary of Comments Related to Economic Data

A commenter stated that the Proposed Rule is expected to increase the cycle time by one to two years for new major capital projects due to the magnitude of detailed information that is required to be submitted with Conceptual Plans, both for projects of a conventional nature and for projects that involve the use of “new or unusual technology” (as defined in the Proposed Rule). The commenter asserted that this increased cycle time for a project will impact the economics and delay the schedule of the project.

The commenter also stated that the scope of Supplemental DWOP is expanded well beyond the current requirements, and Table 2 of the Initial Regulatory Impact Analysis does not take this into account since it holds flat the number of Supplement DWOPs (312) to the Baseline for DWOP Revisions for Equipment Change (312). The commenter asserted that the change in scope could well cause the number of Supplement DWOPs to double over the baseline. The commenter further asserted that this would cause the 10-year cost reported in Table 7 for both industry and government to be under reported.

Response: BSEE disagrees with the assertion that the rule will lead to substantial delays in capital projects. Industry is already submitting much of the project information for BSEE approval, so the burden is not anticipated to be significant. Based on the Final Regulatory Impact Analysis (RIA), the overall reporting burden on industry is expected to be an additional 67 hours per report compared to the baseline, which is not reasonably likely to delay or increase the cycle time for HPHT investment or deployment.

BSEE also disagrees with the commenter's assertion that the rule will expand the scope and lead to large increases in the number of Supplemental DWOP Reports compared to the baseline. BSEE has clarified that certain Conceptual Plans must be submitted for each piece of equipment at an assembly level. This final rule also clarifies the scope of § 250.247 and identifies what conditions require operators to submit Supplemental DWOPs consistent with the existing longstanding practice for submittal of a Supplemental DWOP. The DWOP process clarified in this rule is the same process that BSEE has been using to review new and unusual technologies and new and unusual technologies barriers for many years. Under existing regulations, BSEE has established conditions of approval for new technologies for more than 20 years through the DWOP process under the authority of § 250.141, “May I ever use alternate procedures or equipment?” BSEE expects that the increased clarity regarding requirements and submission expectations provided by this rule may in fact decrease the number of Supplemental DWOPs that will need to be submitted. A supplement to a DWOP is required for applicable development projects when there are certain changes or additions that have not been approved by BSEE. The Supplemental DWOP will only be as complex as the equipment or systems not covered in the approved DWOP. BSEE uses this supplemental process to ensure that all applicable equipment is properly reviewed and approved before installation, well completion, or production.

III. Section-by-Section Summary and Responses to Comments on the Proposed Rule

BSEE is finalizing revisions to the following regulations:

Subpart A—General

Definitions (§ 250.105)

Summary of Proposed Rule Revisions

BSEE proposed to add definitions for “BOP [blowout preventer] systems and related equipment” and “HPHT environment.”

The proposed definition of “BOP systems and related equipment” included all pressure controlling and pressure containing well control equipment that may or will be exposed to the well's maximum anticipated surface pressure (MASP) during any phase of operation (i.e., drilling, completion, workover, intervention, or abandonment). The proposed definition also explained that well control equipment includes equipment that is installed for the purpose of pressure control and containment when it becomes necessary to physically enter a well bore during drilling, completion, workover, intervention, or abandonment modes of operation. The proposed definition of “BOP systems and related equipment” is consistent with how BSEE defined the term in NTL No. 2019-G03.

The proposed definition of HPHT environment was moved from § 250.804(b) to this section and revised to refer to well conditions: (1) that require equipment assigned a pressure rating greater than 15,000 psia or temperature rating greater than 350 degrees Fahrenheit; (2) where the MASP or shut in tubing pressure (SITP) is greater than 15,000 psia at the seafloor for a well with a subsea wellhead or at the surface for a well with a surface wellhead; or (3) with a flowing temperature greater than 350 degrees Fahrenheit measured at the seafloor for a well with a subsea wellhead or at the surface for a well with a surface wellhead. The proposed definition is consistent with BSEE's current definition of HPHT environments in existing § 250.804(b) and is identical to the definition in NTL No. 2019-G03.

Summary of Final Rule Revisions

BSEE is finalizing the proposed revisions to § 250.105 with minor clarifications. BSEE is revising the proposed definition of BOP systems and related equipment to clarify that well control equipment includes equipment that is installed for the purpose of pressure control and “pressure” containment. This revision clarifies the original intent of the proposed definition.

BSEE is also revising the proposed definition of HPHT environment to clarify that the criteria for evaluating MASP, SITP, and flowing temperatures are evaluated “at” the seafloor instead of “on” the seafloor. The temperature measuring device may be several feet above the actual seafloor. The device is generally located on the subsea tree and can be as high as 25 feet above the mudline.

Summary of comments: A commenter expressed concerns that BSEE is not including in the rule all of the definitions contained in the existing BSEE NTL Nos. 2019-G02 and 2019-G03.

Response: BSEE does not agree that adding all of the definitions from the NTLs are necessary. BSEE has determined that some of the definitions in the NTL are more appropriate in the context of the associated guidance contained in the NTLs. However, as described in Section III of this preamble and in response to comments, BSEE has revised the definitions of “BOP systems and related equipment” and “HPHT environment” in the proposed rule for consistency with BSEE NTL Nos. 2019-G02 and 2019-G03. The referenced NTLs were created prior to significant BSEE HPHT reviews occurring. Now that BSEE has been reviewing HPHT projects for several years, we have identified what information is pertinent for regulation. BSEE will revise the existing NTLs, as necessary, to provide additional guidance for HPHT operations. The content of the existing applicable NTLs may still be relevant, but they may be revised to reflect the content incorporated into these regulations and updated processes.

Summary of comments: A commenter expressed concerns that the definition of BOP systems and related equipment is too broad and may be interpreted to include equipment beyond what is traditionally considered a BOP system.

Response: BSEE disagrees with the commenter. BSEE considers any piece of temporary equipment used to contain or control well bore fluids and pressure during drilling, completions, workover, intervention, or abandonment operations to be part of the BOP systems or related equipment. The concept of BOP system and related equipment has been utilized for many years in the existing BSEE regulations (see previous § 250.732(c) and existing § 250.735). The definition of BOP systems and related equipment provides clarity consistent with the use of the term as identified in the regulations and is not intended to significantly alter or expand the scope of the definition. If there are any questions about what equipment is properly defined as part of a BOP system or related equipment, please contact the appropriate BSEE Regional Supervisor.

Summary of comments: A commenter stated that the definition of HPHT environment needs further clarity regarding the terms MASP and “flowing temperature” to ensure it is applied appropriately.

Response: BSEE disagrees with the commenter that the definition needs to be revised to further explain the terminology of the definition. This definition of HPHT environment is consistent with the definition of an HPHT environment in current regulations (see § 250.804(b)) and with BSEE's longstanding approach for considering HPHT environment criteria, including the use of the NTLs that further clarify applicable terms like MASP (e.g., BSEE NTL No. 2019-G03). This rule is not changing the meaning of any terms used within that definition, and their meanings will continue consistent with the current regulations and guidance. If there are any questions about what is considered an HPHT environment, please contact the appropriate BSEE Regional Supervisor.

Service Fees (§ 250.125)

Summary of Proposed Rule Revisions

BSEE proposed to revise paragraph (a)(2) of § 250.125 by adding new service fees for BSEE review of submittals associated with the DWOP process. Specifically, BSEE proposed adding service fees for processing a Project Conceptual Plan, New or Unusual Technology Conceptual Plan, New or Unusual Technology Barrier Conceptual Plan, revised DWOP, Combined Conceptual Plan/DWOP, and Supplemental DWOP. BSEE also proposed revising the cost recovery fee amount for DWOP approval to reflect current BSEE review and processing timeframes. These service and cost recovery fees would cover BSEE's costs for administrative and technical review of each identified submittal and processing.

Summary of Final Rule Revisions

BSEE is finalizing the service fee categories as proposed with one minor textual revision in paragraph (a)(2) of § 250.125. BSEE revised the fourth category to include the word “Equipment” to make it consistent with the title of that Conceptual Plan. BSEE is also revising all the proposed service fee amounts listed in paragraph (a)(2) to more accurately reflect the revised processes and the estimated BSEE review time for the listed services. For example, BSEE now expects a separate New or Unusual Technology Barrier Equipment Conceptual Plan for each separate piece of applicable equipment and has reduced the service fee amount accordingly. Each project may require a different number of New or Unusual Technology Barrier Equipment Conceptual Plans based on the equipment being used. Accordingly, the new fee reflects the BSEE evaluation time per plan and not per project, which was the basis of the fee initially analyzed in the proposed rule. The service fee amounts are revised as follows:

Service—processing of the following: | Proposed fee amount | Final fee amount
(2) Deepwater Operations Plan (DWOP) Process:
(i) Project Conceptual Plan | $2,510 | $2,697
(ii) New or Unusual Technology Conceptual Plan | 32,611 | 7,964
(iii) New or Unusual Technology Barrier Equipment Conceptual Plan | 71,570 | 15,104
(iv) DWOP | 13,907 | 10,647
(v) Revised DWOP | 896 | 963
(vi) Combined Conceptual Plan/DWOP | 8,959 | 13,856
(vii) Supplemental DWOP | 8,959 | 9,626

Summary of comments: A commenter recommended that BSEE add a fee schedule for an Original Equipment Manufacturer (OEM) to submit a generic equipment plan.

Response: BSEE disagrees with the commenter regarding requiring an OEM to submit an equipment plan and to add a service fee for such a filing. The DWOP process requires submittal of the appropriate plans and permits (see § 250.201) by those entities who are covered under the definition of “you,” which includes a lessee or designated operator. BSEE is not including the OEM as an entity to submit plans because an OEM is not the end user of the equipment. BSEE will review plans specific to each project and prefers not to review generic equipment plans in addition to the project-specific plans, as doing so would duplicate the review burden on BSEE.

Summary of comments: A commenter expressed concerns that only one service fee should apply to each Conceptual Plan covering the whole project regardless of the number of pieces of equipment or components covered by the plan.

Response: BSEE agrees in part with the commenter as only one service fee is required for each applicable Conceptual Plan (see §§ 250.227(t), 250.228(a)(15), and 250.229(j)). BSEE, however, does not agree that all Conceptual Plans can cover multiple pieces of equipment. For example, BSEE now expects a separate New or Unusual Technology Barrier Equipment Conceptual Plan for each separate piece of applicable equipment and has reduced the service fee amount accordingly (see §§ 250.226(b)(5) and 250.226(c)(5)). Because the nature of plan submittals and the number of plans may vary for each project, BSEE has determined that a service fee for BSEE review on a per-plan basis more accurately reflects the resources expended than a service fee on a per-project basis.

Documents Incorporated by Reference (§ 250.198)

Summary of Proposed Rule Revisions

BSEE proposed to revise paragraph (e)(82) of § 250.198, which currently incorporates ANSI/API Spec. 6A, Specification for Wellhead and Christmas Tree Equipment, to add new references to §§ 250.518 and 250.619, making this standard applicable to completion and workover operations. The proposed changes to this paragraph are administrative and reflect the substantive changes made to §§ 250.518 and 250.619 that incorporate by reference this standard and are addressed further in the section-by-section discussion for these two sections.

BSEE also proposed to revise paragraph (e)(86) of § 250.198 to update the incorporation of ANSI/API Spec. 11D1 to the third edition of that standard. BSEE reviewed the new edition and the differences between the second and third editions of ANSI/API Spec. 11D1 and determined that the third edition is appropriate to incorporate into the regulations. The ANSI/API Spec. 11D1 third edition now includes an improved testing procedure for design verification and validation of packers and bridge plugs. The most significant change from the second edition to the third edition was the addition of the enhanced validation of the testing processes.

BSEE also proposed to revise paragraph (e)(91) of § 250.198, which currently incorporates ANSI/API Spec. 17D, Design and Operation of Subsea Production Systems—Subsea Wellhead and Tree Equipment, Second Edition, to add new references to §§ 250.518 and 250.619, making this standard applicable to completion and workover operations. The proposed changes to this paragraph are administrative and reflect the substantive changes made to §§ 250.518 and 250.619 that incorporate by reference this standard and are addressed further in the section-by-section discussion for these two sections.

BSEE also proposed to revise paragraph (i)(1) of § 250.198, which currently incorporates NACE Standard MR0175-2003, Standard Material Requirements, Metals for Sulfide Stress Cracking and Stress Corrosion Cracking Resistance in Sour Oilfield Environments, Revised January 17, 2003, to add new references to §§ 250.518 and 250.619, making this standard applicable to completion and workover operations. The proposed changes to this paragraph are administrative and reflect the substantive changes made to §§ 250.518 and 250.619 that incorporate by reference this standard and are addressed further in the section-by-section discussion for these two sections.

Summary of Final Rule Revisions

BSEE did not receive any comments on the incorporation by reference of the proposed industry standards in this section and is including the proposed language in the final rule without change.

Summary of comments: Multiple commenters expressed general support for BSEE updating out of date standards and requested BSEE to consider many additional standards to be incorporated into the regulations.

Response: BSEE supports the actions of ensuring referenced standards are not out of date and reflect the recent editions; however, BSEE cannot add new standards to this rulemaking without specifically identifying them for public comment. BSEE may consider all of the recommended standards for incorporation in future BSEE rulemaking actions.

Summary of comments: A commenter expressed concerns that reliance on industry standards undermines safety.

Response: BSEE follows the policies of OMB circular A-119, which directs agencies to use voluntary consensus standards in lieu of government-unique standards, except when they are inconsistent with law or otherwise impractical. BSEE recognizes the positive contribution of standards development and related activities. When properly conducted, standards development can increase productivity and efficiency in government and industry, expand opportunities for international trade, conserve resources, improve health and safety, and protect the environment. BSEE has reviewed the incorporated standards to ensure that they provide the necessary level of safety. BSEE also complies with the requirements to utilize standards according to the National Technology Transfer and Advancement Act (Pub. L. 104-113 (March 7, 1996)).

Subpart B—Plans and Information

This final rule will restructure Subpart B—Plans and Information, under the following undesignated headings to assist the reader in finding the subject matter provisions they are looking for in the regulations:

—GENERAL INFORMATION;

—BARRIER EQUIPMENT AND SYSTEMS;

—ACTIVITIES AND POST-APPROVAL REQUIREMENTS FOR THE EP, DPP, DWOP, AND DOCD;

—DEEPWATER OPERATIONS PLAN (DWOP) PROCESS;

—CONCEPTUAL PLANS; and

—DWOP APPROVAL.

General Information

Definitions (§ 250.200)

Summary of Proposed Rule Revisions

BSEE proposed to revise paragraph (a) of § 250.200 by adding the acronym HPHT. BSEE also proposed to revise paragraph (b) of § 250.200 by adding, revising, or removing the following definitions, as noted:

—Add a definition for Barrier categorization to identify barriers as one of the following two categories:

Category 1 Barrier, which would mean any equipment, component, or assembly that functions as part of a primary barrier during any operational phase of its life cycle. The operational phases of the barrier equipment, component, or assembly are drilling, completion, workover, intervention, injection, production, or abandonment; and

Category 2 Barrier, which would mean any equipment, component, or assembly that normally functions as part of a secondary barrier system in all operational phases of its life cycle, except when a primary barrier fails. The operational phases of the barrier equipment, component, or assembly are drilling, completion, workover, intervention, injection, production, or abandonment. BSEE may consider non-barrier structural components of a barrier system as Category 2 barriers if failure of that structural component could reasonably result in a primary barrier failure.

—Add a definition for Primary Barrier system, which would mean the component or group of components that are designated as the principle means of isolating the source of hydrocarbons and/or pressure from people and the environment.

—Add the definition for Secondary Barrier system, which would mean the component or group of components that are designated as the secondary means of isolating the source of hydrocarbons and/or pressure from people and the environment.

—Revise the definition for New or unusual technology to include equipment or procedures used for any drilling, completion, workover, intervention, injection, production, pipeline, platform, decommissioning, or abandonment operation that meets any of the following criteria:

(1) Has not been approved for use or used extensively in a BSEE OCS Region;

(2) Has not been approved for use or used extensively under the anticipated operating conditions;

(3) Has operating characteristics that are outside the performance parameters established in 30 CFR part 250;

(4) Will operate in an HPHT environment as defined in proposed § 250.105; or

(5) Is part of a primary or secondary barrier system that uses materials, design analysis techniques, validation testing methods, or manufacturing processes not addressed in existing industry standards.

—Replace the definition for non-conventional production or completion technology with subsea tieback development technology. The definition of subsea tieback development technology would still include the current examples of floating production systems, tension leg platforms, spars, Floating Production Storage and Offloading Vessel (FPSO) systems, guyed towers, compliant towers, subsea manifolds, and subsea production components, and would add subsea wells, hybrid wells, and other subsea completion components to the list of examples.

—Remove the definitions of modification, offshore vehicle, resubmitted OCS plan, revised OCS plan, and supplemental OCS plan.

Summary of Final Rule Revisions

BSEE received and considered comments on this section and is finalizing the proposed § 250.200 with the following clarifying revisions:

—Adding the acronym for Independent Third Party (I3P). This addition helps provide clarity for this common term used in the regulations.

—Revising the definition of Category 1 Barrier to remove “system” from the term. BSEE is removing this term because it is unnecessary to define from a system level and is sufficient to define on an individual level. BSEE wants to ensure the flexibility to review the appropriately identified equipment even if only a single piece of equipment.

—Revising the definition of Category 2 Barrier to clarify that it means any equipment, component, or assembly that normally functions as part of a secondary barrier “during any” operational phase instead of “in all” operational phases. This revision clarifies when a Category 2 Barrier should be used. BSEE also is clarifying that BSEE may consider non-barrier structural components of a barrier system as a Category 2 Barrier if failure of this structural component could reasonably result in a “primary” barrier failure. This revision clarifies the consideration of a Category 2 Barrier to be consistent with its definition and applicability only when there is a Primary Barrier failure instead of any barrier failure.

—Adding the definition of Fit for Purpose to mean a determination made by an I3P at the conclusion of I3P review that the barrier equipment design has been verified and validated in conformance with recognized engineering standards and any additional project specification requirements; that the material selection, design verification analysis, design validation testing, and quality control are appropriate to justify the technical specifications; and that the technical specifications meet or exceed a project's site specific functional requirements. The addition of this definition provides clarity about the expectations and actions of an I3P and is consistent with the associated revisions to §§ 250.226 and 250.230 through 250.233.

—Adding the definition of Fit for Service to mean a determination made by the operator that the material selection, design verification analysis, design validation testing, and quality control of the barrier equipment is appropriate to justify the technical specifications and that the technical specifications meet or exceed a project's site-specific functional requirements. This addition provides clarity about the expectations and actions of an operator when providing required determinations for a site-specific project and is consistent with the associated requirements of the DWOP process.

—Revising the definitions of Primary Barrier and Secondary Barrier by removing the terms “system”, “or group of components”, and “of hydrocarbons and/or pressure”, resulting in the defined terms meaning the equipment, material, component, or assembly that is designated as the primary or secondary means of isolating the hydrocarbon pressure source from people and the environment. These revisions provide clarity and consistency with other applicable definitions (e.g., Category 1 Barrier and Category 2 Barrier) and with how the terms are used in § 250.206. Also based on comments, BSEE clarified the applicability of the barriers encompassing those that isolate a “hydrocarbon pressure source.” This clarification confirms the original intent of the definitions, further ensuring personnel safety and environmental protection from the potential release of hydrocarbons.

—Revising the definition of Subsea Tieback Development Technology by removing an unnecessary acronym and adding production risers and export risers to the list of applicable technology. These identified risers have always been an integral part of subsea tieback development technology and BSEE is adding them for clarification.

Summary of comments: Multiple commenters expressed concerns that the definition of “New or unusual technology” is too broad and would unnecessarily expand the application of the DWOP process. Commenters also expressed concerns that the language “used extensively”, which is used in the definition for “New and unusual technology”, is vague and gives no criteria as to when equipment will no longer be considered new or unusual in the context of HPHT equipment. Some commenters recommended that the definition of new or unusual technology should not include equipment covered by industry standards.

Response: BSEE disagrees in part with the commenters' concerns. BSEE recognizes that the definition in this rule expands the scope of what is considered new or unusual technology; however, this expansion helps cover the critical projects, equipment, or procedures identified by BSEE that must follow the DWOP process. BSEE has determined that this expanded scope is necessary to ensure safe operations in HPHT environments.

To clarify the scope, BSEE has also revised other definitions in this final rule to clarify the equipment, materials, components, or assemblies that may be used (e.g., Category 1 and 2 Barriers, Primary and Secondary Barriers, and Subsea Tieback Development Technology). BSEE has also successfully used the longstanding definition of “New or unusual technology” in the current regulations in § 250.200, which already uses the language “used extensively” as part of the definition. Accordingly, BSEE does not agree that the term will be too vague for its intended purposes.

In this rule BSEE is not using industry standards as a criterion for determining new or unusual technology. Multiple standards could be used for one piece of equipment, and BSEE has not incorporated into the regulations every potential industry standard. Also, BSEE may not have reviewed or evaluated the standards not incorporated in the regulations prior to Conceptual Plan or DWOP submittal, and standards generally do not address site specific reviews of the equipment. New technology applications are individualized even when the same idea is used in different locations. BSEE needs to ensure the equipment or procedures are appropriate for the conditions in which they will be used. Once industry and BSEE understand the full risks and mitigations from the specific application and use, then BSEE may determine that the equipment no longer needs to be categorized as new or unusual technology.

Summary of comments: Multiple commenters expressed concerns with the expectations of the I3P and operators for determining what is “fit for purpose” and “fit for service,” respectively. The commenters recommended that BSEE clarify the differences between determining what is “fit for purpose” and what is “fit for service,” consistent with BSEE guidance.

Response: BSEE agrees with the commenters, and the final rule now includes definitions for both terms. The addition of these definitions provides clarity and certain expectations for the I3P or operator conducting the relevant determinations. The added definitions are consistent with the guidance of BSEE NTL Nos. 2019-G02 and 2019-G03, with minor corresponding edits to reflect their applicability specific to the DWOP process.

Summary of comments: A commenter expressed concerns that the proposed rule extends the barrier envelope beyond the scope of isolating pressure systems from hydrocarbons.

Response: BSEE agrees with the commenter. BSEE has revised the definitions of primary and secondary barriers to clarify applicability to hydrocarbon pressure sources. These revisions to the definitions clarify BSEEs original intent and limit the scope of the primary and secondary barriers to only hydrocarbon pressure sources.

What plans and information must I submit before I conduct any activities on my lease or unit? (§ 250.201)

Summary of Proposed Rule Revisions

BSEE proposed to revise existing paragraph (a) of § 250.201 to reflect the creation of the New or Unusual Technology Conceptual Plan, the New or Unusual Technology Barrier Conceptual Plan, and the Project Conceptual Plan. This section provides general information about each plan and identifies when BSEE approval is necessary. BSEE proposed paragraph (a) to clarify when each plan approval is required for certain activities. An operator is only required to submit the applicable Conceptual Plan(s). Each of these Conceptual Plans are standalone plans and are not contingent upon approval of each other.

BSEE also proposed to remove existing paragraph (c), which includes the limiting information provisions. The limiting information provisions allow the Regional Director to limit the amount of information or analyses required to be included with the submitted plans or documents, covered by Subpart B of 30 CFR part 250, under certain conditions. The narrower scope of the information described in the proposed rule aligns with the Bureau's roles, authorities, and regulations established in 2011 when BSEE separated from the Bureau of Ocean Energy Management (BOEM) (see 76 FR 64432).

Summary of Final Rule Revisions

BSEE received and considered comments on this section and is finalizing the proposed section with the following revisions based on the comments received:

—In paragraph (a), BSEE is adding “(or relevant portions thereof)” after the listed plans. This addition clarifies that certain lease activities can be conducted if the appropriate portions of the Conceptual Plans are submitted to BSEE and approved as identified in § 250.226;

—In the table under paragraph (a)(1), BSEE is revising the information under the heading “Additional information” to designate the first paragraph as (a)(1)(i) and clarifying that the New or Unusual Technology Conceptual Plan must be approved by BSEE before it will approve any associated application or permit involving the use of new or unusual technology. BSEE is also adding new paragraphs (a)(1)(ii), (iii), and (iv) to clarify that the New or Unusual Technology Conceptual Plan may be independent of a project Conceptual Plan or DWOP, that BSEE will not approve the Conceptual Plan until all associated I3P Reports (if required) are submitted and reviewed by BSEE, and that the Conceptual Plan may not contain equipment identified as a primary or secondary barrier;

—In the table under paragraph (a)(2), and throughout the rule, BSEE is revising the name of the New or Unusual Technology Barrier Conceptual Plan to New or Unusual Technology Barrier Equipment Conceptual Plan. This revision is made based on comments received to clarify the scope of the plan and to be consistent with the terminology and use of equipment covered by the plan. BSEE is also clarifying that the New or Unusual Technology Barrier Equipment Conceptual Plan requirements apply to new or unusual technology “that is identified” as barrier equipment. The final rule also revises paragraph (a)(2)(ii) to state that this type of plan must be approved “by BSEE before it will approve any associated application or permit application (e.g., pipeline, platform, APD, APM) involving the use of new or unusual technology identified as barrier equipment as applicable for the permit scope.” The final rule also adds new paragraph (a)(2)(iii), which states that BSEE will not approve this Conceptual Plan until all associated I3P Reports are submitted and reviewed by BSEE. These additions clarify the BSEE Conceptual Plan approval process and submittal requirements associated with the applicable Conceptual Plans. These additions are based on comments received and are consistent with the relevant revisions to the associated plans covered under § 250.226 (“When and how must I submit each applicable Conceptual Plan?”);

—In the table under paragraph (a)(3), BSEE is clarifying that the Project Conceptual Plan may include certain new or unusual technology. BSEE is also revising the information under the heading “Additional information” to designate the proposed paragraph as (a)(3)(i), removing the incorrect reference to the Application for Permit to Drill (APD), and adding new paragraph (a)(3)(ii) to clarify that BSEE must approve any relevant new or unusual technology associated with completion operations before BSEE approves the Project Conceptual Plan. These additions clarify the BSEE Project Conceptual Plan approval process and submittal requirements associated with the Project Conceptual Plans. These revisions ensure proper information has been approved or is included with in the applicable Conceptual Plan for BSEE approval. These additions are based on comments received and are consistent with the relevant revisions to the Conceptual Plans covered under § 250.226 (“When and how must I submit each applicable Conceptual Plan?”). BSEE removed the incorrect reference to the APD because it is not applicable to the Project Conceptual Plan and activities covered under that plan;

—In the table under paragraph (a)(4)(i), BSEE removed the reference to the new or unusual technology barrier equipment because it is redundant with the definition of new or unusual technology; and

—BSEE added new paragraph (d) to clarify that all DWOP process plans initially submitted after the effective date of this rule must comply with the requirements of this subpart.

Summary of comments: A commenter expressed concerns that the terms used in the table are not consistent with the definitions and requested that BSEE provide clarification on when lease activities can commence under each applicable plan.

Response: BSEE agrees with the commenter and has revised the table to reflect the additional information associated with the applicable plans. BSEE has also revised § 250.226 to further reflect the actions that may be taken at each step of each applicable plan (see the applicable discussions of § 250.226 in Section IV of this preamble). The revisions to this section and § 250.226 further clarify the original intent of the proposed rule and the ability to conduct certain lease activities associated with the applicable plans.

Summary of comments: A commenter requested that BSEE limit the request of additional information at the Conceptual Plan stage to the adequacy of the requirements included in the plan and the adequacy of the documentation or verification of details.

Response: BSEE agrees in part with the commenter and expects the request for additional information under paragraph (b) to be limited to that applicable information needed to evaluate the proposed plan or permit. However, no revisions to this paragraph are necessary as the context of the current provisions are limited already to the scope of the associated plan or permit covered under paragraph (a).

How must I protect the rights of the Federal government? (§ 250.202)

Summary of Proposed Rule Revisions

BSEE proposed to move the content of existing § 250.204 to this section without revision.

BSEE did not receive any comments on this proposed section and is including the proposed language in the final rule without change.

Are there special requirements if my well affects an adjacent property? (§ 250.203)

Summary of Proposed Rule Revisions

BSEE proposed to move the content of existing § 250.205 to this section without revision.

BSEE did not receive any comments on this proposed section and is including the proposed language in the final rule without change.

Requirements for High Pressure High Temperature (HPHT) Barrier Equipment (§ 250.204)

Summary of Proposed Rule Revisions

BSEE proposed this new section to clarify what information an operator would be required to submit to BSEE if the operator plans to install HPHT barrier equipment. This section cross-references the applicable DWOP process requirements associated with the New or Unusual Technology Barrier Equipment Conceptual Plan (e.g. §§ 250.229 and 250.242). These additions are necessary to help ensure that the equipment is fit for service in the specific HPHT environment. BSEE's review and approval of information submitted during the DWOP process is intended to occur in conjunction with BSEE's review and approval of associated applications or permits (e.g., APD, Application for Permit to Modify (APM), pipeline, and production safety system).

Summary of Final Rule Revisions

Based on comments received, BSEE is revising this section to reflect the sequential order of submission of the applicable plans and permits and clarify that if an operator plans to install HPHT barrier equipment, then it must submit information with its applicable Project Conceptual Plan, New or Unusual Technology Barrier Equipment Conceptual Plan, DWOP, and applicable permit(s). BSEE also clarified the last sentence of the section to include §§ 250.229 and 250.242 as examples “(e.g.,)” of the applicable DWOP Process requirements.

Summary of comments: A commenter expressed concerns that this section is inconsistent with other submittal requirements. The commenter also stated that certain uses of HPHT barrier equipment do not require every step in the DWOP Process.

Response: BSEE agrees in part with the commenter and is ensuring that this section lists all plans that would be applicable to the use of HPHT barrier equipment. BSEE disagrees with the commenter that revisions are necessary to demonstrate that only parts of the DWOP process apply. The last sentence of this section already states that the operator must follow the applicable DWOP process requirements. This does not mean that every DWOP process step must be followed as there are situations where certain parts may not be required. For example, certain New or Unusual Technology Barrier Equipment Conceptual Plans do not require submittal of a DWOP. BSEE is revising the last sentence of the paragraph to include a general reference to §§ 250.229 and 250.242 as examples of possible DWOP process requirements.

BSEE proposed to reserve § 250.205 and this section is reserved in this regulation.

Barrier Equipment and Systems

What equipment does BSEE consider to be a barrier? (§ 250.206)

Summary of Proposed Rule Revisions

BSEE proposed that this section codify some of the barrier concepts from BSEE NTL No. 2009-G36. Many parts of existing BSEE regulations under 30 CFR part 250, subparts D, E, F, G, H, J, and Q, are dedicated to establishing barrier requirements. This section would clarify that BSEE considers a barrier or barrier system to be any engineered equipment, materials, component, or assembly that is installed to contain a hydrocarbon pressure source(s) to prevent harm to people or the environment. BSEE recognizes barriers that are either non-mechanical or mechanical in nature, permanently or temporarily installed, pressure controlling, and/or pressure containing barriers. Pressure controlling barriers must be able to be activated on demand. The proposed rule also clarified that barriers or barrier systems are required to be able to function and/or be pressure tested repeatedly to defined acceptance criteria. If the barrier or barrier system is classified as Safety and Pollution Prevention Equipment (as described under § 250.801(a)), then it must also be compliant with the leak test requirements established in Subpart H of 30 CFR part 250. Any specific engineered equipment, materials, components, or assembly that exist within a barrier system that are not tested would not be considered a barrier. This section would not alter or impact any existing regulation; it only documents a principle that is the basis of many BSEE regulations.

Summary of Final Rule Revisions

BSEE received multiple comments on this section and has revised the language in the final rule with the following revisions based on those comments.

—BSEE is making this section consistent with the revisions to the definitions under § 250.200 and clarifying that barriers are installed to contain hydrocarbon pressure sources to prevent harm to people and the environment. This revision clarifies the purpose of barriers and provides consistent terminology;

—Removing the parenthetical that non-mechanical or mechanical in nature barriers are only recognized by BSEE as barriers. BSEE removed this parenthetical to avoid confusion and be consistent with the definitions and terms defined in Subpart B of 30 CFR part 250 and in § 250.200;

—Adding an example of activating a barrier on demand to include the parenthetical “(i.e., closed by an operator or automated safety system).” This was added to provide guidance and clarity to the intent of activation of a barrier and does not change the associated requirement;

—Revising the second to last sentence to clarify that operators must function test and pressure test any pressure controlling barriers and adding that the operator must also pressure test any pressure containing barrier to defined acceptance criteria that can be repeated. BSEE clarified these requirements to eliminate confusion about the types of testing that is applicable to only pressure controlling as opposed to pressure containing barriers. BSEE does not specify the exact testing requirements or testing timeframes in order to not limit the use of new or unusual technology, such as single use barrier technology. However, the operator must identify and demonstrate the defined acceptance criteria to ensure that the barrier or barrier system can be used as designated; and

—Removing the last proposed sentence because Safety and Pollution Prevention Equipment is already covered under 30 CFR part 250, subpart H and is unnecessary in Subpart B.

Summary of comments: A commenter recommended clarifying that the barriers discussed in this section apply to hydrocarbon sources to prevent the requirements being taken out of context for including other non-barrier pressure containing components.

Response: BSEE agrees with the commenter and removed the words “or other” to clarify that the barriers are installed to contain hydrocarbon pressure sources. BSEE has revised this section to ensure consistency with the definitions of applicable terms and clarify that the barrier envelope covered by these definitions is limited to hydrocarbon pressure sources. These revisions to this section and corresponding edits to the definitions section clarify BSEEs original intent and limit the applicable scope of the barrier or barrier system to only hydrocarbon pressure sources.

Summary of comments: A commenter requested BSEE to clarify the term “activated on demand.”

Response: BSEE agrees with the commenter and clarified the term “activated on demand” by providing a parenthetical that includes “closed by an operator or automated safety system.” This clarification does not change the meaning or intent of the proposed requirements and only provides two examples of what is meant by the term activated on demand.

Summary of comments: Multiple commenters expressed concerns with the purpose of function testing and pressure testing of barriers and suggested that function testing and pressure testing are only used for determining failures.

Response: BSEE agrees in part with the commenters that function testing and pressure testing help determine failures; however, BSEE also uses pressure testing and function testing to help ensure that the barrier or barrier system is capable of being used as designed for the specific conditions. This section does not specify any specific function testing or pressure testing acceptance criteria. BSEE clarified these requirements to eliminate confusion about the types of testing that is applicable to only pressure controlling as opposed to pressure containing barriers. BSEE does not want to limit the use of new or unusual technology, such as single use barrier technology, by specifying the exact testing requirements or testing timeframes. However, the operator must identify and demonstrate the defined acceptance standard to ensure that the barrier or barrier system can be used as designated.

How must barrier systems be used? (§ 250.207)

Summary of Proposed Rule Revisions

BSEE proposed to require operators to install and maintain a primary and secondary barrier system to prevent a loss of containment during any operational phase of a well, flowline, pipeline, production, or riser system. It is BSEE's goal to prevent loss of containment by minimizing single point failures wherever possible. Given the probability that any barrier may fail during its service life due to age, corrosion, wear, damage, the environment, or accidents, the best mitigation is redundancy. This section would not alter or impact any existing regulation; it only documents a principle that is the basis of many BSEE regulations.

Summary of Final Rule Revisions

BSEE did not receive any comments on this proposed section and is including the proposed language in the final rule without change.

Activities and Post-Approval Requirements for the EP (Exploration Plan), DPP (Development and Production Plan), DWOP, and DOCD (Development Operations Coordination Document)

How must I conduct activities under an approved EP, DPP, or DOCD? (§ 250.208)

Summary of Proposed Rule Revisions

BSEE proposed that this section be similar to the language in 30 CFR 550.280, How must I conduct activities under the approved EP, DPP, or DOCD? During the 2011 regulatory split between BSEE and BOEM, the content of this section was inadvertently removed from 30 CFR part 250; however, the content is still applicable to BSEE and should be included in 30 CFR part 250, as well as in 30 CFR part 550.

Summary of Final Rule Revisions

BSEE received and considered a comment regarding this proposed provision and includes the proposed language in the final rule with the minor wording change to paragraph (a)(2) to state that the actions “may” result in the lack of compensation and to fix an incorrect citation. BOEM removed 30 CFR 556.77 from the regulations; the new applicable regulation is 30 CFR 556.1102.

Summary of comment: A commenter expressed concerns that the proposed language does not reflect that lease cancellation and right-of-way forfeiture occur through a judicial process and that the last sentence in paragraph (a)(2) is not compatible with 30 CFR 550.185(b) and 30 CFR 556.77 because those provisions do not categorically preclude compensation in all circumstances.

Response: BSEE disagrees with the commenter in part. The language in paragraph (a)(2), like 30 CFR 550.280(a)(2), accurately reflects the language in 43 U.S.C. 1334(c) or (d), 30 CFR 550.185, and 30 CFR 556.1102. This addition to the BSEE regulations is not intended to alter any applicable judicial process or change the longstanding requirements of the BOEM regulations. Pursuant to the commenter's suggestion, BSEE has revised the regulation to reflect that the actions “may” result in the lack of compensation.

What must I do to conduct activities under the approved EP, DPP, or DOCD? (§ 250.209)

Summary of Proposed Rule Revisions

The content of this proposed section would be similar to the language in 30 CFR 550.281, What must I do to conduct activities under the approved EP, DPP, or DOCD?, paragraphs (a) and (b). During the 2011 regulatory split between BSEE and BOEM, the content of this section was inadvertently removed from this part; however, the content is still applicable to BSEE and should be included in 30 CFR part 250, as well as in 30 CFR part 550.

Summary of Final Rule Revisions

BSEE did not receive any comments on this proposed section and is including the proposed language in the final rule without change.

Do I have to conduct post-approval monitoring? (§ 250.210)

Summary of Proposed Rule Revisions

BSEE proposed to move this section from § 250.282. BSEE also proposed to add revisions to clarify that the Regional Supervisor may direct operators to conduct monitoring programs in association with their approved EP, DPP, DWOP, or DOCD.

Summary of Final Rule Revisions

BSEE received and considered a comment regarding this proposed provision and includes the proposed language in the final rule without change.

Summary of comment: A commenter stated that paragraph (b) is vague and ambiguous and fails to put industry on notice of the standards with which it must comply. The commenter recommended that BSEE revise this paragraph to clarify the requirements for preparing and submitting monitoring plans.

Response: BSEE disagrees with the commenter and has successfully used the language regarding monitoring programs as a longstanding requirement (see previous § 250.282). For example, BSEE has successfully directed the use of monitoring programs to minimize the risk of vessel strikes to protected species and provided clarifying guidance for implementing those monitoring programs (see BSEE NTL No. 2012-G01).

What are my new or unusual technology failure reporting requirements? (§ 250.211)

Summary of Proposed Rule Revisions

BSEE proposed to clarify the new or unusual technology failure reporting requirements. Currently, BSEE does not receive new or unusual technology failure data associated with approved DWOPs; however, BSEE has recently requested new or unusual technology failure data as a condition of DWOP approval. The proposed section would require an operator to notify BSEE within 30 days of a failure and provide a written report identifying the root causes of the failure. This new section is intended to provide BSEE with a better understanding of operational limitations of equipment associated with an approved DWOP.

Existing failure and incident reporting requirements in §§ 250.188, What incidents must I report to BSEE and when must I report them?; 250.730, What are the general requirements for BOP systems and system components?; and 250.803, What SPPE failure reporting procedures must I follow?, may be used to help fulfill the new or unusual technology failure reporting requirements of this section. This section is not a substitute for other currently applicable failure or incident reporting requirements.

Summary of Final Rule Revisions

Based on comments received, BSEE is revising this section by clarifying the definition of a failure to include any condition that prevents the equipment from meeting its functional specification. The final rule also removes the terms “recovered and repaired or replaced” as elements the proposed rule listed as triggering a requirement to notify the Regional Supervisor. BSEE is also revising the term “written report” to “failure analysis report” and clarifies that an operator must provide the failure analysis report as soon as it is available following the notification and that the failure analysis report must include any results and potential root causes. These revisions provide consistency with the same terminology and expectations for failure reporting used throughout BSEE regulations (e.g., §§ 250.188, 250.730 and 250.803).

Summary of comments: A commenter stated that the proposed rule is too broad and would capture non-failures. For example, the commenter stated that simply needing to recover equipment does not mean the equipment experienced a failure and does not provide a distinction between failure notification and submission of a failure report.

Response: BSEE agrees with the commenter and has revised the definition of failure in this section to mean any condition that prevents the equipment from meeting its functional specification. BSEE also removed the requirement for reporting if the new or unusual technology has to be recovered and repaired or replaced. This revision is necessary for consistency with similar terminology used throughout BSEE regulations and within the failure reporting requirements and submissions to BSEE. BSEE also revised this section to provide clarity that the failure analysis report must be submitted as soon as available following the notification. BSEE requires submittal of the failure notice first and then submittal of the failure analysis, thereby providing a clear order for submittal of failure information to BSEE.

Summary of comments: A commenter expressed concerns that a root cause analysis may not always be possible.

Response: BSEE agrees with the commenter and understands that there are circumstances where a root cause analysis may not be possible. Therefore, BSEE has revised this section to clarify that the report must include any results and potential root causes for the failure. BSEE values failure data and uses the failure information, including root causes, to identify failure trends and potential issues.

BSEE proposed to reserve §§ 250.212-250.219, and these sections are reserved in this regulation.

Deepwater Operations Plan (DWOP) Process

What is the DWOP process? (§ 250.220)

Summary of Proposed Rule Revisions

BSEE proposed to move the content from § 250.286 to this section and include the following revisions and additions:

Proposed paragraph (a) of § 250.220 would clarify that the DWOP process is not only used for review of subsea tieback development technology, but also applies to deepwater development projects and other projects or systems that use new or unusual technology during any phase of drilling, completion, workover, intervention, injection, production, pipeline, platform, decommissioning, or abandonment operations. These additions clarify when the DWOP process is necessary and correspond with the proposed additions of the new or unusual technology requirements.

Proposed paragraph (b) would add that the DWOP process does not replace other BSEE applications or permits (e.g., APD, APM, pipeline, and platform). Other minor revisions to this paragraph reflect the corresponding additions to the proposed new or unusual technology requirements for the DWOP process.

Proposed paragraph (c) would clarify that the DWOP process consists of two phases: the Conceptual Plans and the DWOP. The current DWOP regulations do not differentiate between the DWOP process and the DWOP plan itself, as they currently use the term DWOP to refer to both. This proposed section would clarify the terms and is intended to reduce confusion about the different phases of the DWOP process. The proposed DWOP requirements are not intended to require the submittal of a DWOP for operations not currently covered under the DWOP plan stage (e.g., drilling and decommissioning), but would require submittal of the appropriate Conceptual Plan. Proposed §§ 250.227 through 250.229 would identify the contents of the Conceptual Plans. Proposed §§ 250.236 through 250.242 would identify what the DWOP must contain.

Summary of Final Rule Revisions

Based on comments received, BSEE is finalizing this proposed section and including a new paragraph (d) to clarify that not all projects will require the submittal of all three Conceptual Plans and a DWOP. Specifically, this revision clarifies that projects requiring New or Unusual Technology Conceptual Plans or New or Unusual Technology Barrier Equipment Conceptual Plans may not be required to have an associated Project Conceptual Plan or DWOP.

Summary of comments: Multiple commenters expressed concerns that the proposed rule lacks clarity for how the DWOP process is fully used for all applicable types of operations and if each step of the DWOP process is required for every type of equipment or operation.

Response: BSEE agrees with the commenters and has revised this section by adding new paragraph (d) and the respective DWOP process sections to add clarity that not all projects will require the submittal of each Conceptual Plan and DWOP. There are circumstances when only a New or Unusual Technology Conceptual Plan or a New or Unusual Technology Barrier Equipment Conceptional Plan is required to be submitted to BSEE without a Project Conceptual Plan or DWOP. For applicability requirements, see § 250.225 for each Conceptual Plan and § 250.235 for the DWOP.

When must I use the DWOP process? (§ 250.221)

Summary of Proposed Rule Revisions

BSEE proposed to move the content from § 250.287 to this section and to clarify that the DWOP process is applicable to any project in water depths greater than 1000 feet and to any project that will include the use of subsea tieback development technology, regardless of water depth, or new or unusual technology for any drilling, completion, workover, intervention, injection, production, pipeline, platform, decommissioning, or abandonment operations. These revisions provide consistency and reflect corresponding additions to the proposed new or unusual technology and DWOP process requirements.

BSEE has always required DWOPs when a development is situated in water depths of 1000 feet or greater or when subsea tieback development technology is used in any water depth. BSEE proposes to promulgate regulations that include our existing practices regarding the expansion of new or unusual technology. BSEE also proposed to add requirements for the DWOP process when any new or unusual technology is used for drilling, completion, workover, intervention, injection, production, pipeline, platform, decommissioning, or abandonment projects. This would provide consistency for all new or unusual technology reviews.

Summary of Final Rule Revisions

BSEE received comments on this section as proposed and is finalizing it with a minor revision to paragraph (b) to remove the words “you must.” This paragraph was intended to be a suggestion for operators to contact BSEE if they have any questions about the classification of certain technology and is not a requirement.

Summary of comments: Multiple commenters requested that BSEE list or create a database that indicates what equipment, components, or procedures are considered new or unusual technology or new or unusual barrier technology.

Response: BSEE disagrees with this comment and is not developing a database to list every new or unusual technology. It is the operator's responsibility to ensure any new or unusual technology is appropriately identified and approved by BSEE before operational use. Also, such a database may be of limited use as each OEM may have unique equipment designs and individual components do not necessarily all work together for specific projects.

Summary of comments: A commenter expressed concerns that this section would unnecessarily expand the complete DWOP process to cover operations not previously covered by the process and would create redundant filings and impose undue burdens.

Response: BSEE disagrees with the commenter. BSEE has clarified in other sections (see § 250.220(d)) that projects requiring New or Unusual Technology Conceptual Plans or New or Unusual Technology Barrier Equipment Conceptual Plans (which may be used for drilling and decommissioning) may not be required to have an associated Project Conceptual Plan or DWOP. This clarification will eliminate any undue burden on industry by only requiring submission of the applicable plans in the DWOP process.

BSEE proposed to reserve §§ 250.222-250.224, and these sections are reserved in this regulation.

Conceptual Plans

What are the types of Conceptual Plans that I must submit? (§ 250.225)

Summary of Proposed Rule Revisions

BSEE proposed a new section that would identify the three types of proposed Conceptual Plans:

—A Project Conceptual Plan would be required for any project that is planned in water depths greater than 1000 feet or will include the use of subsea tieback development technology, regardless of water depth (see proposed § 250.221 paragraphs (a)(1) and (2));

—A New or Unusual Technology Conceptual Plan would be required for any project or system that involves equipment or systems that are considered new or unusual technology (see proposed § 250.200 for the definition of new or unusual technology); and

—A New or Unusual Technology Barrier Conceptual Plan would be required for any project or system involving new or unusual technology that is also identified as a primary or secondary barrier (see proposed § 250.200 for the definition of primary or secondary barriers).

This proposed section would add clarity by describing the proposed types of Conceptual Plans. The proposed requirements for each Conceptual Plan are discussed in the applicable corresponding sections, §§ 250.227 through 250.229. An operator must submit the applicable Conceptual Plan(s) based on specifics of the proposed project. The operator may be required to submit multiple Conceptual Plans.

Summary of Final Rule Revisions

BSEE received comments on this section and is finalizing the proposed content with the following revisions based on the comments:

—Paragraph (a) is revised by adding clarification that a Project Conceptual Plan is also required if the project will use new or unusual technology for completion, injection, production, pipeline, or platform projects. This addition clarifies the scope of the Project Conceptual Plan and how applicable new or unusual technology fits within that plan. A Project Conceptual Plan would not be needed when new or unusual technology is being used for drilling or decommissioning operations.

—Paragraph (b) is revised by making the first sentence consistent with the definition of new or unusual technology by changing the proposed phrase “involves equipment or systems” to “involves equipment or procedures”. BSEE is also adding the clarification that the New or Unusual Technology Conceptual Plan is applicable for drilling, completion, workover, intervention, injection, production, pipeline, platform, decommissioning, or abandonment operations. This revision clarifies the scope of operations covered under the New or Unusual Technology Conceptual Plan.

—Paragraph (c) is revised to also clarify that the New or Unusual Technology Barrier Equipment Conceptual Plan is applicable for drilling, completion, workover, intervention, injection, production, pipeline, platform, decommissioning, or abandonment operations. This revision clarifies the scope of operations covered under the New or Unusual Technology Barrier Equipment Conceptual Plan. BSEE also added “Equipment” to the title of the plan to clarify the distinctions between this plan and the New or Unusual Technology Conceptual Plan.

Summary of comments: Multiple commenters expressed concerns that the proposed activities of drilling and decommissioning cannot be covered under a Project Conceptual Plan and is outside the scope of previous BSEE guidance and practice. The commenters also expressed concerns that, if a Project Conceptual Plan is required for drilling operations, that requirement could not be met before drilling.

Response: BSEE agrees with the commenters and has revised this section to clarify that a Project Conceptual Plan is not required for certain operations (e.g., drilling and decommissioning). This clarification is consistent with BSEE guidance and the original scope of the Project Conceptual Plan. BSEE does not share the commenters' concerns about timing requirements prior to drilling the well because drilling operations are not covered under the Project Conceptual Plan. BSEE has also further clarified in § 250.226 when each applicable Conceptual Plan is required and the timing of conducting certain operations covered under each plan.

Summary of comments: A commenter asked if a non-site-specific voluntary equipment Conceptual Plan and the well design Conceptual Plan will still be part of the HPHT approval process (see BSEE NTL No. 2019-G02 and 2019-G03).

Response: Non-site-specific voluntary equipment Conceptual Plans are not required. Operators should plan to submit site-specific equipment qualification for their HPHT project pursuant to §§ 250.228 and 250.229 as applicable. The identified content of the Well Design Conceptual Plans is still part of the HPHT process pursuant to the applicable regulations referenced in BSEE NTL 2019-G02 (e.g., see §§ 250.420, 250.462, 250.505, 250.514, 250.518, 250.605, 250.613, 250.614, and 250.732).

Summary of comments: A commenter expressed concerns that the proposed rule is unclear regarding overlap between the proposed New or Unusual Technology Conceptual Plan and the New or Unusual Technology Barrier Conceptual Plan. The commenter requested that BSEE clarify that barrier equipment would only require the New or Unusual Technology Barrier Conceptual Plan and not the New or Unusual Technology Conceptual Plan.

Response: BSEE agrees in part with the commenter and has revised the name of the New or Unusual Technology Barrier Conceptual Plan to the New or Unusual Technology Barrier Equipment Conceptual Plan. This revision clarifies the scope of the New or Unusual Technology Barrier Equipment Conceptual Plan and uses consistent terminology and descriptions of equipment covered by the plan. If a New or Unusual Technology Barrier Equipment Conceptual Plan is required, the operator would not have to also submit a New or Unusual Technology Conceptual Plan for the same equipment (see revisions to § 250.201).

When and how must I submit each applicable Conceptual Plan? (§ 250.226)

Summary of Proposed Rule Revisions

BSEE proposed to move the content from §§ 250.288 and 250.290 to § 250.226, with revisions to clarify that an operator must submit its Conceptual Plans to the Regional Supervisor after the operator decides on the general concept(s) for a project or system, and before it begins final engineering design of the equipment, well, well safety control system, or subsea production systems. These revisions would help ensure that the operator considers the information associated with the proposed Conceptual Plans when submitting an associated application or permit application (e.g., APD, APM, pipeline, platform). BSEE proposed to add a table to organize and clarify information associated with the three types of proposed Conceptual Plans as follows:

Proposed paragraph (a) of § 250.226 would include content from § 250.290 and would further clarify that BSEE must approve a Project Conceptual Plan before an operator may complete a production or injection well or install a tree.

Proposed paragraph (b) would add the following requirements regarding a New or Unusual Technology Conceptual Plan:

—The operator may not install any new or unusual technology until BSEE approves the New or Unusual Technology Conceptual Plan;

—BSEE must approve the New or Unusual Technology Conceptual Plan before BSEE will approve any associated application or permit (e.g., pipeline, platform, APD, APM); and

—The Regional Supervisor may require the operator to use an I3P to perform certain functions and verifications in accordance with § 250.231, as applicable. This addition would allow I3P services to assist BSEE's review of new or unusual technology that may involve technically complex engineering and require a high degree of specialized engineering knowledge, expertise, and experience to evaluate thereby helping to ensure that BSEE conducts appropriate reviews of new or unusual technology plans.

Proposed paragraph (c) would add the following requirements regarding a New or Unusual Technology Barrier Conceptual Plan:

—The operator must submit a New or Unusual Technology Barrier Conceptual Plan for any project or system involving new or unusual technology that is also identified as a primary or secondary barrier;

—BSEE must approve the New or Unusual Technology Barrier Conceptual Plan prior to new or unusual technology barrier equipment installation;

—BSEE must approve the new or unusual technology barrier equipment before BSEE will approve any associated application or permit application (e.g., pipeline, platform, APD, APM); and

—An operator submitting a New or Unusual Technology Barrier Conceptual Plan must use an I3P to perform certain functions and verifications in accordance with proposed § 250.231,

What are the I3P review requirements for Conceptual Plan reviews?

Summary of Final Rule Revisions

Based on comments received, BSEE is finalizing the proposed content with the following revisions:

—Revising the introductory paragraph by removing the term “begin final” engineering design and replacing it with “finalize.” This revision clarifies the intent of the submittal timing requirement concerning Conceptual Plans. BSEE wants to ensure that engineering design is not complete before BSEE approves the concept in case any change is required.

—Paragraph (b)—Revising the order of content under the table heading “Additional information” and adding paragraphs (b)(1)(i), (ii), and (iii), paragraph (b)(3), and (b)(4) to read as follows: (1) Operations and approval timing requirements are as follows:

(i) You may not install any new or unusual technology until BSEE approves your New or Unusual Technology Conceptual Plan;

(ii) You may not complete any production or injection well or install a tree before BSEE has approved all New or Unusual Technology Conceptual Plans associated with all well completion equipment and the Project Conceptual Plan; and

(iii) BSEE must first approve your New or Unusual Technology Conceptual Plan associated with subsea production systems before the DWOP may be approved. You may install this new or unusual technology following BSEE permit approval (e.g., pipeline application) and prior to DWOP approval.

(2) The Regional Supervisor may require the operator to use an I3P to perform certain functions and verifications in accordance with § 250.231, as applicable.

(3) BSEE will not approve a New or Unusual Technology Conceptual Plan until you submit and BSEE reviews all I3P Reports (if any required).

(4) BSEE must approve your New or Unusual Technology Conceptual Plan before approval of any associated application or permit (e.g., pipeline application, platform application, APD, APM).

(5) You must submit separate New or Unusual Technology Conceptual Plans for each piece of equipment at an assembly level (e.g., BOP, tree, wellhead system, or tubing head spool).

These revisions clarify certain expectations and timing for applicable submittals associated with the New or Unusual Technology Conceptual Plan.

—Paragraph (c)—Revising paragraphs (c)(2), (c)(3), and (c)(4) and adding paragraphs (c)(2)(i), (ii), and (iii) and paragraph (c)(5) to read as follows:

(c)(2) Operations and approval timing requirements are as follows:

(i) BSEE must approve your New or Unusual Technology Barrier Equipment Conceptual Plan prior to you installing new or unusual technology identified as barrier equipment

(ii) You may not complete any production or injection well or install the tree before BSEE has approved all the New or Unusual Technology Barrier Equipment Conceptual Plans associated with all well completion equipment and the Project Conceptual Plan, and

(iii) BSEE must first approve your New or Unusual Technology Barrier Equipment Conceptual Plan associated with subsea production systems before the DWOP may be approved. You may install this equipment with BSEE permit approval (e.g., pipeline application) and prior to DWOP approval.

(3) BSEE must first approve your New or Unusual Technology Barrier Equipment Conceptual Plan before BSEE will approval any associated application or permit application (e.g., pipeline application, platform application, APD, APM).

(4) BSEE will not approve New or Unusual Technology Barrier Equipment Conceptual Plans until you submit and BSEE reviews all required I3P Reports pursuant to § 250.231.

(5) You must submit separate New or Unusual Technology Barrier Equipment Conceptual Plans for each piece of equipment at an assembly level (e.g. BOP, tree, wellhead system, tubing head spool).

These revisions clarify certain expectations and timing for applicable submittals associated with the New or Unusual Technology Barrier Equipment Conceptual Plan.

Summary of comments: Multiple commenters expressed concerns that it is unrealistic to submit all the applicable Conceptual Plan information before beginning final engineering design.

Response: BSEE agrees in part with the commenters and has revised this section to clarify the expectation that applicable Conceptual Plans require submittal of the plans before finalizing the engineering designs. This revision clarifies the intent of the submittal timing requirement concerning Conceptual Plans. BSEE wants to ensure that engineering design is not complete before BSEE approves the concept in case any change is required. This revision also provides latitude for the operators to make the determination of what constitutes a finalized engineering design.

Summary of comments: Multiple commenters expressed concerns that the proposed rule establishes unrealistic sequencing for Conceptual Plan approvals and requested clarification to ensure certain operations (e.g., drilling) can commence as appropriate before BSEE approval of certain plans (e.g., Project Conceptual Plan and DWOP).

Response: BSEE agrees in part with the commenter and has clarified the expectations in this section and timing requirements associated with each applicable Conceptual Plan. BSEE has also revised multiple other sections to also reflect the appropriate timing and submission requirements for all plans covered under the DWOP process (e.g., see revisions to §§ 250.201, 250.220, and 250.225).

What must the Project Conceptual Plan contain? (§ 250.227)

Summary of Proposed Rule Revisions

BSEE proposed to require a Project Conceptual Plan to include the basis of design that the operator would use to develop the field. Proposed paragraphs (a), (b), (c), and (i)(1) of § 250.227 would reflect the content of existing § 250.289. In addition, BSEE proposed that the section would require the operator to include certain information in the Project Conceptual Plan, including, but not limited to, information such as facility descriptions, schedule of development activities, certain schematics, and well information.

Summary of Final Rule Revisions

Based on comments received, BSEE is finalizing the content of proposed § 250.227 with the following revisions:

—Redesignating proposed paragraphs (i)(5) as (j), (j) through (q) as (k) through (r) respectively, and (r) as (t).

—Adding new paragraph (s) to list requests for any alternate procedures or equipment or departure requests associated with the applicable Conceptual Plans needed for well completion operations.

—Revising paragraphs (c), (d), (f), (i), (j), and (q) as follows:

Paragraph (c)—clarifies that BSEE expects the “estimated” distance from each well.

Paragraph (d)—changes the requirement from a confirmation that the subsea production safety system will comply with 30 CFR part 250, subpart H to a statement that the subsea production safety system will be designed to comply with Subpart H.

Paragraph (f)—clarifies that for a subsea tieback to an existing facility the operator must submit: a description of known structural modifications needed to accommodate the tieback, including a statement about whether these may be minor or major modifications; the BSEE-approved service life of the existing facility; and a description of how modifications will be evaluated for effects on the BSEE-approved service life.

Paragraph (i)—clarifies (i)(1) to include a “proposed” well location plat; (i)(2) to include a “conceptual” subsea field schematic containing infrastructure as applicable and adds additional examples, including manifolds, subsea booster pumps, and high integrity pressure protection systems; and (i)(4) to include “proposed” wellbore and completion schematics.

Paragraph (j)—clarifies that BSEE expects only a description of the drilling and completion systems.

Paragraph (q)—removes the term “activities” because some of the listed items are not activities but are physical objects. BSEE also added risers to the list of examples applicable to new or unusual technology.

BSEE understands that certain information is not finalized at this stage of a project, and these revisions clarify the BSEE intent to reflect information that is available or that can be available for the Project Conceptual Plan.

Summary of comments: Multiple commenters requested that BSEE clarify the informational requirements for the Project Conceptual Plan. The commenters expressed concerns that specific information may not be precisely known at this stage and may be more appropriate for the DWOP.

Response: BSEE agrees with the commenters that certain types of information may not be available at this stage of a project and has revised this section to better reflect the submission of information that is appropriate and available at the Project Conceptual Plan stage (e.g., the “estimated” distance from each well, a description of only “known” modifications to a facility, schematics including the “proposed” well locations, and a “description” of the drilling system). These revisions clarify the submission requirements and help alleviate the commenters' concerns regarding information availability for the Project Conceptual Plan.

Summary of comments: A commenter expressed concerns that the term “Basis of Design” means different things to different operators and recommended that BSEE remove the term.

Response: BSEE agrees that the term “Basis of Design” can mean different things depending on the components in question and their application. BSEE does not agree that removing the term is necessary because it is a common conceptual term well understood in the industry. BSEE is involved with operators in the early stages of HPHT projects, and uncertainties regarding terminology can easily be addressed on a case-by-case basis to ensure submittals fulfill regulatory requirements.

What must the New or Unusual Technology Conceptual Plan contain? (§ 250.228)

Summary of Proposed Rule Revisions

BSEE proposed paragraph (a) of § 250.228 to require certain information to be included in the New or Unusual Technology Conceptual Plan including, but not limited to, how the New or Unusual Technology Conceptual Plan fits within the overall site-specific project, a description of the technology, information on inspection and testing capabilities, risk assessments and failure mode analysis, operating procedures, and schematics.

BSEE proposed paragraph (b) to allow for the Regional Supervisor to require the use of an I3P according to proposed § 250.230 if the system or equipment requires a high degree of specialized or technically complex engineering knowledge, expertise, and experience to evaluate, or is not addressed in existing industry standards. This addition would help BSEE ensure that the equipment or process is appropriate for use in the specific environmental and operating conditions. In addition, the Regional Supervisor would be able to require operators to follow I3P requirements under § 250.231, on a case-by-case basis. Finally, this section proposed to instruct operators to direct any questions about I3P requirements for New or Unusual Technology Conceptual Plans to the Regional Supervisor.

Summary of Final Rule Revisions

Based on comments received, BSEE is finalizing the content of proposed § 250.228 with the following revisions:

—Paragraphs (a)(5) and (a)(5)(ii) add the requirement to describe not only the barrier, but also the “safety” system as applicable. Paragraph (a)(11) clarifies the detailed schematic is applicable to identifying all components. Paragraph (a)(13) clarifies that the list of alternate procedures or equipment requests and departure request required are those applicable to the new or unusual technology proposed in a New or Unusual Technology Conceptual Plan. And finally, paragraph (a)(14) removes the requirements for a “certification” and requires instead a statement that the technology is fit for service.

—Paragraphs (b) and (b)(1) fix incorrect cross references since the final rule updated the applicable section numbers, and make some grammatical improvements.

Summary of comments: A commenter suggested that BSEE should move this section and section § 250.229 outside of the DWOP process and expressed concerns that these sections expand the circumstances in which thew DWOP process is required.

Response: BSEE disagrees with the commenter that this section should be moved outside of the DWOP process. However, in light of these concerns, BSEE has clarified the applicability of each Conceptual Plan to relevant operations. BSEE has clarified in other sections (e.g., see § 250.220) that projects requiring certain New or Unusual Technology Conceptual Plans or New or Unusual Technology Barrier Equipment Conceptual Plans (which may be used for drilling and decommissioning) may not be required to have an associated Project Conceptual Plan or DWOP. This clarification helps limit the burden on industry as not every project using new or unusual technology requires every plan covered under the DWOP process.

Summary of comments: Multiple commenters expressed concerns that the proposed rule inadvertently requires I3P to certify “fit for service,” a standard ostensibly outside the I3P's expertise. The commenters also expressed concerns with the “certification” statement associated with both “fit for purpose” and “fit for service” determinations and suggested that BSEE remove the term “certification” from the requirements.

Response: BSEE agrees with the commenters that there is confusion surrounding the terminology of “fit for purpose” and “fit for service” and how the I3P provides appropriate verifications and reviews. BSEE has therefore added definitions of both “fit for purpose” and “fit for service” to clarify who is responsible for each statement. In response to the comments, BSEE has also removed the term “certification” as it pertains to fit for purpose and fit for service and is clarifying that a statement from the I3P or operator respectively is sufficient. Such a statement is within the scope of the I3P's expertise.

Summary of comments: A commenter expressed concern with the discretion of the Regional Supervisor to require an I3P. The commenter stated that this provision does not provide any regulatory certainty when an I3P will be required. The commenter also expressed concerns that the Regional Supervisor discretion for the use of an I3P may cause setbacks or inefficiencies to the Conceptual Plan process.

Response: The existing HPHT regulation (e.g., § 250.232) and NTLs provide guidelines for I3P report requirements. BSEE has incorporated most of the I3P guidance from the existing NTLs into these regulations, which provide clarity regarding when an I3P is required. Under § 250.228(b), BSEE may require I3P reports for this type of Conceptual Plan when the operator proposes to use a “system or equipment [that] requires a high degree of specialized or technically complex engineering knowledge, expertise, and experience to evaluate, or if existing industry standards do not address the system or equipment you propose to use.” BSEE is retaining this discretion to allow it to adjust to equipment development and maturation over time. BSEE encourages operators to reach out to the Regional Supervisor early in the project development process to get additional clarity regarding when an I3P will be necessary (§ 250.228(b)(2)). BSEE will notify the operator at the earliest possible stage to help ensure there are no setbacks or delays with I3P applicability in the Conceptual Plan approval.

What must the New or Unusual Technology Barrier Equipment Conceptual Plan include? (§ 250.229)

Summary of Proposed Rule Revisions

BSEE proposed this section to require the following information to be included in the New or Unusual Technology Barrier Conceptual Plan: a description of how the New or Unusual Technology Barrier Conceptual Plan fits within the overall site specific project; a diagram depicting the primary and secondary barriers; a list of the engineering standards that will be used in the equipment's material selection and qualification, design verification analysis, and design validation testing; a list of the functional requirements (i.e., environmental, and physical loads (magnitude and frequency)) for which the barrier equipment is being designed; a description of the barrier equipment's safety critical functions, (i.e., function(s) performed by or inherent to the equipment enabling it to achieve or maintain a safe state); an I3P nomination; an I3P verification plan; and I3P reports as required in proposed § 250.232.

BSEE also proposed paragraph (l) to clarify that, after BSEE receives all of the required I3P reports, the operator must submit a certification statement that the barrier equipment is fit for service in the applicable environment (for the specific project location).

Summary of Final Rule Revisions

Based on comments received, BSEE is finalizing the proposed content with the following revisions.

—Throughout the rule—renaming the New or Unusual Technology Barrier Conceptual Plan as the New or Unusual Technology Barrier Equipment Conceptual Plan. This revision clarifies that this Conceptual Plan applies only to barrier equipment.

—Paragraph (b)—requiring a detailed schematic instead of a diagram.

—Paragraph (e)—clarifying that the list of alternate procedures or equipment requests and departure requests required are those applicable to the new or unusual technology barrier equipment proposed in the New or Unusual Technology Barrier Equipment Conceptual Plan.

—Fixing incorrect cross references due to renumbering certain sections in this final rule.

—Removing the I3P reports under proposed paragraph (j) and the fit for service statement in proposed paragraph (l), then moving that information to its own new section (see § 250.230). As a result of removing the content, BSEE is also redesignating proposed paragraph (k) as (j).

Summary of comments: A commenter requested clarification that HPHT barrier equipment intended for 20K completions (for example, HPHT wellheads or production liners) can be installed during the 15K drilling phase prior to approval of the New or Unusual Technology Barrier Equipment Conceptual Plan.

Response: An operator may install HPHT barrier equipment prior to approval of the New or Unusual Technology Barrier Equipment Conceptual Plan prior to the HPHT phase of operations, if all wellheads and casings are approved by BSEE in the applicable application or permit (for example see § 250.410 for APDs and §§ 250.465 and 250.513 for APMs). However, all 20K well construction components are subject to equipment qualification review and BSEE approval prior to entering the HPHT phase of operations (see § 250.229). If components are installed but are denied Conceptual Plan approval, the well will not be allowed to enter the HPHT phase of operation.

When are you required to submit an I3P Report? (§ 250.230)

Summary of Final Rule Revisions

This is a new section for this final rule that contains the information previously covered under proposed § 250.229 paragraphs (j) and (l). This section clarifies that submittal of the I3P reports is required in § 250.229 and when required by BSEE pursuant to § 250.228. BSEE added this section because I3P reports can be applicable to both a New or Unusual Technology Barrier Equipment Conceptual Plan, as well as a New or Unusual Technology Conceptual Plan.

Summary of Comments

BSEE did not receive any comments on the proposed content covered in this new section. BSEE did receive other I3P-related comments, and those comments are discussed in the appropriate sections (e.g., see §§ 250.228 and 250.231).

What are the requirements for the Independent Third Party (I3P) nomination? (§ 250.231)

Summary of Proposed Rule Revisions

BSEE proposed this section to outline the requirements for the operator's nomination of an I3P to be used in conjunction with applicable Conceptual Plans. Paragraph (a) would add the nomination criteria for the I3P to review the design verification and design validation classification of the OEM, including that the I3P must be a technical classification society, a licensed professional engineering firm, or a registered professional engineer capable of providing the required certifications and verifications. This paragraph would also clarify that the I3P nomination must be submitted to BSEE for approval and must include the following information:

—Previous experience in third-party verification or experience in the design, fabrication, or installation of applicable offshore oil and gas equipment;

—Technical capabilities of the individual or the primary staff for the specific project;

—Size and type of organization or corporation;

—In-house availability of, or access to, appropriate technology to review the specific project (this should include computer programs, hardware, and testing materials and equipment as applicable);

—Ability to perform the I3P functions for the specific project considering current commitments (e.g., project timelines, schedules, and personnel availability); and

—Previous experience with BSEE requirements and procedures.

This proposed section would help ensure that BSEE is informed of the I3P competencies and show that the I3P is qualified to perform the required verifications and certifications of Subpart B.

Paragraph (b) would require that operators allow the I3P to access all associated documentation and equipment related to items in proposed § 250.229(i) to perform the complete reviews in accordance with proposed § 250.231. This may include OEM documents or access to the fabrication and manufacturing locations. The operator is responsible for ensuring that the I3P has the appropriate information to complete the required verifications and certifications. This documentation is necessary for the I3P to conduct its review and verify, as appropriate, that the equipment is designed and manufactured to operate within its specified operating limits.

Multiple I3Ps may be used to conduct the applicable verifications. These proposed revisions are not intended to limit the number of I3Ps, as operators may need multiple I3Ps to cover multiple types of equipment covered under all applicable Conceptual Plans.

Summary of Final Rule Revisions

Due to the addition of new § 250.230, BSEE is renumbering this section as § 250.231. Based on comments received and after review of comments, BSEE is also revising this section as follows:

—Paragraph (a) is removing the term “when required by BSEE” because it is redundant of the requirements for I3P nominations under the applicable Conceptual Plans. BSEE is also removing the reference to I3P “certifications” and clarifies that the I3P provides verifications and validations in line with the expectations of the I3P. BSEE is clarifying that the operator must submit the I3P nomination(s) within the applicable Conceptual Plan for separate BSEE acceptance before BSEE will approve the applicable Conceptual Plan. This clarification was added because I3P nominations can be applicable to both the New or Unusual Technology Barrier Equipment Conceptual Plan as well as the New or Unusual Technology Conceptual Plan. Lastly, BSEE is also clarifying the list of appropriate technology in paragraph (a)(4) by removing “testing materials” and that the appropriate technology is not limited to what is listed.

—Paragraph (b) is fixing certain cross references and clarifying that you must ensure the I3P has access to relevant OEM documentation, including relevant documentation and data labeled as confidential and proprietary. BSEE also wants to ensure the I3P has access to the OEM fabrication and manufacturing locations only if necessary to review the data. These revisions will help ensure the I3P has access to data necessary to provide the required verifications and validations.

—Paragraph (c) is added to clarify that an operator may propose to use an I3P previously accepted by BSEE for the same project, and not submit the items required under paragraph (a), if the BSEE-accepted I3P qualifications are still valid and applicable. The operator must also provide evidence of the previous I3P nomination acceptance. These additions help streamline the use of I3Ps within a project and reduce unnecessary submittal of duplicative information.

Summary of comments: A commenter expressed concerns with the term “when required by BSEE” and requested it to be removed. The commenter stated this change is necessary because the I3P requirements are sufficiently covered within the applicable Conceptual Plan requirements.

Response: BSEE agrees with the commenter and has removed the term “when required by BSEE” from the introductory paragraph to § 250.231. It is not necessary to include this term, as the I3P nomination requirement is sufficiently covered under the applicable Conceptual Plans.

Summary of comments: Multiple commenters requested clarification on the BSEE expectations and actions for the I3P nominations.

Response: BSEE agrees with the commenters and has revised § 250.231(a) to clarify that operators must submit the I3P nominations before BSEE will approve the applicable Conceptual Plan.

Summary of comments: Multiple commenters expressed concerns with allowing I3Ps unrestricted access to OEM fabrication and manufacturing locations.

Response: BSEE agrees in part with the commenters' concerns over I3P access to OEM locations and has revised this section to reflect that the I3P needs access to review equipment and data, particularly with respect to the elements described in § 250.229(i) concerning the I3P verification plan. BSEE wants to ensure that the appropriate equipment and data are available to the I3Ps to conduct the required verifications and validations of the project.

Summary of comments: A commenter expressed concerns with the in-house availability of testing materials. The commenter was concerned that the I3P can require re-verification and re-testing as part of the validation at their own facilities.

Response: BSEE agrees in part with the commenter's concerns and would not expect an I3P to require re-verification or re-testing at its own facility. BSEE has removed the reference to testing materials from the list of availability of appropriate I3P technology. BSEE is removing this reference to help limit any misconceptions regarding the I3P reviews. It is BSEE's expectation that I3Ps will have the appropriate technology to be able to conduct the required verifications and validations of the specific project.

Summary of comments: Multiple commenters expressed concerns with the term “certification” associated with I3P capabilities and suggested BSEE to remove the term “certification” from the requirements.

Response: BSEE agrees with the commenters that there is confusion surrounding the terminology of certification for I3Ps. BSEE has added definitions of “fit for purpose” to clarify I3P requirements and expectations. In response to the comments, BSEE has also removed the term “certification” as it pertains to I3P qualifications.

Summary of comments: A commenter expressed concerns that the I3P nomination process is too onerous and that BSEE should streamline the requirements to be more consistent with BSEE guidance.

Response: BSEE agrees in part with the commenter and is adding § 250.231(c) to clarify that the operators may propose to use a previously accepted I3P from the same project if the qualifications are still valid. This revision will help streamline the use of existing I3Ps within a project and help limit unnecessary duplicative submissions of the nomination information. This is consistent with current practice (previous § 250.732(b)) and BSEE guidance.

Summary of comments: A commenter expressed concerns that this section implies that multiple I3Ps can be nominated and that equipment, assembly, or systems should be verified and validated by the same I3P.

Response: BSEE disagrees with the commenter's concerns regarding use of multiple I3Ps for different verifications and validations. Only one I3P is required for nomination per applicable Conceptual Plan at a time for the requirements under this section (see, e.g., § 250.229(h)). This section defines the qualifications for acceptable I3Ps. However, the operator retains the ability to propose different I3Ps for different equipment or new technologies within the same project. For example, a classification society may be a better I3P for a floating production facility, and a professional engineering firm maybe a better I3P for a riser design.

What are the I3P review requirements for Conceptual Plan reviews? (§ 250.232)

Summary of Proposed Rule Revisions

BSEE proposed to identify the requirements for the I3P review. Paragraph (a) would require the I3P to review the following information regarding the applicable equipment or system:

—Basis of design, technical specification (if known at this point in the design process), and functional requirements (i.e., environmental and physical loads (magnitude and frequency));

—Risk assessment and failure mode analysis;

—Material specification, selection, qualification, and testing;

—Design verification analysis, including a structural/strength analysis and fatigue assessment and/or analysis;

—If fatigue is identified as a potential failure mode in the required fatigue assessment and/or analysis, the plan to record and gather data (i.e., load monitoring) in order to conduct a future fatigue analysis;

—Design validation testing; and

—Fabrication, quality management system, and inspection and test plan(s) that identifies the quality control/quality assurance process, and inspection of the final products.

Paragraph (b) would require the I3P to submit a report to BSEE documenting the review of each item covered under paragraph (a) of this section. This paragraph would also require each report to identify all OEM and operator documents used during the I3P reviews.

Paragraph (c) would require the I3P to submit a final report to BSEE that summarizes each of the review requirements covered under paragraph (a) of this section. This paragraph would also require the final report to include the equipment and/or system's technical specifications, including a certification statement that the equipment and/or system is fit for purpose for the technical specification by the I3P, and verification that the equipment's technical specifications meet or exceed the project's functional requirements, including a certification statement by the I3P that the equipment and/or system is fit for purpose for the proposed project.

Paragraph (d) would clarify that, for any subsequent I3P review of equipment and/or system's technical specification that was previously approved in the operator's New or Unusual Technology Barrier Conceptual Plan, the Regional Supervisor may accept a final report in accordance with § 250.231(c), including the existing certification covered under paragraph (c)(1) of this section, in lieu of reports required in paragraph (b). The I3P would be required to submit an updated certification statement in accordance with § 250.231(c)(2) for the specific project.

This section would require I3P review of all New or Unusual Technology Category 1 or Category 2 barrier equipment to help minimize the risk of loss of containment on new barrier equipment through reliance on the principle of qualified redundant barrier systems. The concept of using an I3P review process has been used in the regulations for various operations (e.g., §§ 250.420, 250.732, and 250.914 through 250.918). The I3P review process within § 250.231 would be the same process described in NTL 2019-G03, “Guidance for Information Submissions Regarding Site Specific and Non-Site Specific HPHT Equipment Design Verification Analysis and Design Validation Testing.” The industry is currently using this NTL for the design verification and validation analysis for HPHT barrier equipment that will be used in the Gulf of Mexico. The verification processes in this section would be similar to the basic engineering design and manufacturing methodologies found in many existing engineering standards.

Summary of Final Rule Revisions

Due to the addition of new § 250.230, BSEE is renumbering this section as § 250.232. Based on comments received and after review of comments, BSEE is also revising this section as follows:

—The introductory paragraph clarifies the applicability of I3P for the applicable Conceptual Plan. This revision is necessary to clarify that different Conceptual Plans may have I3P requirements (e.g., the New or Unusual Technology Conceptual Plan or the New or Unusual Technology Barrier Equipment Conceptual Plan);

—Paragraph (a)(1) clarifies the technical specifications are applicable to the equipment and the functional requirements are appliable to the specific project and changed the “i.e.” to an “e.g.” because the parenthetical provides examples;

—The contents under proposed paragraphs (c)(1) and (c)(2) are now located under paragraph (b), and the term “certification” was removed to clarify the I3P is required to provide statements regarding “fit for purpose” determinations; and

—The contents under proposed paragraph (d) are now redesignated as paragraph (c) and modified to clarify that for any new project, the operator may use previous I3P reviews of equipment or a system's technical specifications that was approved in a previous Conceptual Plan. This section would also clarify the intent of the proposed rule by adding paragraphs (d)(1), (d)(2), and (d)(3) to require the operator to submit certain information to the Regional Supervisor to demonstrate the previous I3P review is still valid (i.e., a statement that the previous summaries of paragraph (a) and the previous fit for purpose statement are still valid, verification that the equipment technical specifications meet or exceed the project's functional requirements, and a statement by the I3P that the equipment or system is fit for purpose for the proposed project).

Summary of comments: A commenter suggested that BSEE should explicitly state that equipment that has been previously verified and validated through appropriate industry standards and reviewed by an I3P should be exempted from further I3P review, unless there are substantive design changes, such as a major change to the technical specification.

Response: BSEE agrees in part with the commenter and has revised paragraph (d) to clarify the requirements for an operator to use previously approved I3P reviews for any new project. BSEE also clarified the information necessary to demonstrate that the previous I3P reviews are still valid for the project. These revisions would help streamline the use of previously approved I3Ps and limit unnecessary and duplicative submittals for I3P reviews and ensure that the proper information is submitted to demonstrate that previously approved I3P reviews are still valid.

Summary of comments: Multiple commenters expressed concerns with the “certification” statement associated with both fit for purpose and fit for service and suggested BSEE remove the term “certification” from the requirements.

Response: BSEE agrees with the commenters that there is confusion surrounding the terminology of certification for fit for purpose. In response to the comments, BSEE has removed the term “certification” as it pertains to “fit for purpose” determinations and is clarifying that a statement from the I3P is sufficient instead of a certification. This revision is consistent with the addition of the definition of “fit for purpose” and clarifies the role of the I3P for certain reviews.

Summary of comments: A commenter expressed concerns with the requirements to provide a fatigue assessment or analysis and that the requirements are ambiguous and unclear. The commentor believes that such ambiguity could lead to inefficiencies and additional work that will further delay field and lease development.

Response: BSEE views fatigue assessment or analysis as an important tool for HPHT qualification. Operators should engage early with equipment manufacturers to ensure the proper analysis is being performed. Fatigue assessment is not a new concept and is well understood by the industry. BSEE is not defining these terms because of the broad range of potential equipment or facilities covered under the project. BSEE has successfully used similar concepts for fatigue evaluation in existing regulations (see § 250.908) and does not expect the identified terms to delay field or lease development based on previous Conceptual Plan and DWOP experience.

General requirements for any I3P report. (§ 250.233)

Summary of Proposed Rule Revisions

BSEE proposed to clarify expectations for the I3P reports. The proposed rule proposed to require that an I3P report must be a standalone document that clearly summarizes the verification work performed and must contain a sufficient level of detail (i.e., quantitative information) and clarity to establish the basis of the I3P's findings and recommendation(s). Each report would be required to identify the OEM or operator documents reviewed, the detailed I3P review, and convey the results of the I3P's review without requiring BSEE to review any other referenced document. This section would establish basic expectations for I3P reports and provide consistency and uniformity for operator submittals and BSEE reviews. These reports are an important tool for BSEE to conduct appropriate reviews and it is imperative to ensure that these reports are comprehensive and clear. These reports also contain information necessary for audit purposes.

Summary of Final Rule Revisions

Due to the addition of new § 250.230, BSEE is renumbering this section as § 250.233 and fixing any applicable cross references. Based on comments received and after review of comments, BSEE is also revising this section to clarify that the I3P reports must clearly summarize the required verification and validation work of the I3P. BSEE is also removing the proposed requirement that the I3P reports need to include the I3P recommendations. These revisions clarify the role of the I3P and provide consistency with the expectations of the I3P actions throughout this rulemaking.

Summary of comments: Multiple commenters expressed concerns that the requirement to include I3P recommendations in the reports are beyond the scope of the I3P duties for reviewing for conformance with the specified requirements.

Response: BSEE agrees with the commenters and has removed the term “recommendations” from the regulatory requirements for I3P reports. BSEE wants to be consistent with the expectations and required actions for I3Ps when conducting required verifications and validations.

BSEE proposed to reserve § 250.234, and this section is reserved in this regulation.

DWOP Approval

When and how must I submit the DWOP? (§ 250.235)

Summary of Proposed Rule Revisions

BSEE proposed to move the content from § 250.291 and revise the section to clarify that a DWOP must be submitted to the Regional Supervisor after BSEE has approved the operator's project Conceptual Plan and the operator has substantially completed system design and before the operator conducts post-completion installation activities for a deepwater development project or for any project that will involve the use of subsea tieback development technology in any water depth, which may include new or unusual technology or new or unusual technology barrier equipment. This section would also clarify that operators cannot begin production from the well until BSEE approves the DWOP. The revisions to this section would help ensure that there is enough time for BSEE to review a DWOP, including resolution of any potential issues, prior to DWOP approval. The operator should consider the DWOP requirements when beginning to procure or fabricate the safety and operational systems (other than a tree, because operators may install a tree after Conceptual Plan approval), production platforms, pipelines, or other parts of the production system.

Summary of Final Rule Revisions

BSEE is reorganizing this section to provide clarification for the DWOP requirements. Based on comments received and after review of comments, BSEE is revising this section as follows:

Under newly designated paragraph (a), BSEE is clarifying that the operator must submit the DWOP before conducting installation activities post-well completion. BSEE is also adding paragraph (a)(3) to clarify that an operator must submit the DWOP for an HPHT development project, any project using Category 1 or 2 new or unusual technology barrier equipment, or any project that uses new or unusual technology that may impact the safety critical function of Category 1 or 2 barrier equipment regardless of water depth. These revisions clarify what projects are applicable to the DWOP submission and are consistent with BSEE experience and approvals of DWOPs.

BSEE is also clarifying under newly designated paragraph (b) that the operator may install subsea systems and associated pipelines once they have applicable BSEE permit and Conceptual Plan approval. This clarification helps establish the order of operations and actions that can be taken before DWOP approval.

Summary of comments: A commenter expressed concerns that this section is unclear about the use of the DWOP and the New or Unusual Technology Conceptual Plan or the New or Unusual Barrier Equipment Conceptual Plan and requested BSEE to clarify the DWOP requirements.

Response: BSEE agrees in part with the commenter and has revised this section to clarify that the DWOP submission is applicable to HPHT development projects, as well as any project that uses Category 1 or 2 new or unusual technology barrier equipment, or any project that uses new or unusual technology that may impact the safety critical function of Category 1 or 2 barrier equipment regardless of water depth. This clarification helps identify how the DWOP is applicable to certain project that use HPHT equipment and new or unusual technology barrier equipment. This revision also provides clarity and consistency with the definitions of certain barrier equipment and associated Conceptual Plan requirements.

Summary of comments: Multiple commenters expressed concerns with lack of clarity regarding which actions or operations can commence at various stages of DWOP approval.

Response: BSEE agrees with the commenters and has revised paragraph (a) of this section to clarify that the operator must submit the DWOP before conducting installation activities after well completion. BSEE is also revising paragraph (b) of this section to clarify that the operator may install subsea systems and associated pipelines once the operator has the approval of the applicable BSEE permit(s) and Conceptual Plan(s). However, the operator may not begin production from the well until BSEE approves the DWOP. These revisions provide clarity and consistency with current BSEE practices and expectations of the DWOP approval process.

What information must I submit with the DWOP? (§ 250.236)

Summary of Proposed Rule Revisions

This proposed section is organizational in nature and would identify the types of information that the operator must submit with the DWOP by adding a table that lists the applicable sections and the information to be included. In this section, BSEE would reorganize and breakout the DWOP requirements by topic, as reflected in paragraphs (a) through (f). These revisions would improve clarity for applicable information requirements.

Summary of Final Rule Revisions

BSEE did not receive any comments on these provisions of the proposed rule and includes the proposed language in the final rule without change.

What general information must my DWOP include? (§ 250.237)

Summary of Proposed Rule Revisions

BSEE proposed to identify the general information that an operator would be required to submit in the DWOP. The content of paragraphs (a) and (b) of this proposed section would be moved from current § 250.292(o) and (q). This section would add paragraph (c) to require the submission of a list of any associated industry standards not incorporated in the regulations that the operator will use for project design or operation.

Summary of Final Rule Revisions

Based on comments received and after review of comments, BSEE is revising paragraph (a) by clarifying that the DWOP must include a list of requests for any alternate procedures or equipment or departure requests in accordance with §§ 250.141 and 250.142, respectively, and a list of any identified alternate procedures or equipment or departures that the operator may request. BSEE is also clarifying that if a Conceptual Plan was previously approved for the project that already included the alternate procedures or equipment or departure requests in accordance with §§ 250.141 and 250.142 for the specific equipment identified in a Conceptual Plan, those do not need to be listed in the DWOP unless the same alternate procedure or equipment request or departure request is needed for a different piece of equipment for post completion activities. These revisions provide clarification of the context and expectations for including requests covered under §§ 250.141 and 250.142 in the DWOP.

Summary of comments: Multiple commenters expressed concerns with submittal of duplicative information regarding the applicable alternate procedures or equipment and departure requests already identified in approved associated Conceptual Plans.

Response: BSEE agrees with the commenters and has revised this section to clarify the required submittal of alternate procedures or equipment and departure requests. BSEE has also clarified that those requests approved in the associated Conceptual Plans do not need to be submitted in the DWOP unless the same alternate procedure or equipment or departure requests are needed for a different piece of equipment for post-completion activities. BSEE does not expect operators to submit information of which they are unaware. However, if an operator is aware that it is reasonably likely to submit such information or departure request in the future, it is beneficial to include it in the DWOP at this stage to help streamline DWOP approval.

What well or completions information must my DWOP include? (§ 250.238)

Summary of Proposed Rule Revisions

BSEE proposed to move the content from current § 250.292 and include a revision to paragraph (c) to clarify that this section requires information in the operator's DWOP about the design and fabrication of each wellbore riser system deployed from a floating production facility or TLP. This revision would clarify that these informational requirements apply to wellbore risers as components of the well and resolve confusion regarding the general term “riser” and its applicability of multiple types of risers (e.g., pipeline risers and wellbore risers) used on the OCS.

Summary of Final Rule Revisions

BSEE did receive a comment on these provisions of the proposed rule but is including the proposed language in the final rule without change.

Summary of comments: A commenter expressed concerns that the information requested in paragraphs (a) and (b) are duplicative and unclear.

Response: BSEE disagrees with the commenter. These are longstanding requirements and have been successfully used in each applicable DWOP. Paragraph (a) is typically a summary narrative with a graphical representation of the wellbore that identifies casing and completion components, among other characteristics. Paragraph (b) provides further detail on the systems used for drilling and completion that result in the final schematic configuration. These requirements are not duplicative and have been used in existing regulations to allow for variations in well proposals and information requests. The information identified in these paragraphs is essential to ensure consistency with the activities to be addressed in the associated well permits.

What structural information must my DWOP include? (§ 250.239)

Summary of Proposed Rule Revisions

BSEE proposed to move the content from current § 250.292 to this section and would include a revision to paragraph (b) to clarify that the design, fabrication, installation, and monitoring information would be required for the tendon or mooring systems, including the turret or buoy system, as applicable. This revision would reflect current equipment and operations common to DWOP approvals.

Summary of Final Rule Revisions

BSEE did not receive any comments on the content of the proposed provisions; however, BSEE moved the phrase “including any major modifications,” to the end of the introductory paragraph to clarify the intent of the paragraph.

What Production Safety System information must my DWOP include? (§ 250.240)

Summary of Proposed Rule Revisions

BSEE proposed in this section to identify the production safety system information that an operator would be required to submit in the DWOP, as applicable, to align with the activities the operator plans to address in the associated production safety systems application. The content of paragraphs (a), (b), (c), (d), and (e)(3) of this proposed section would be moved from current § 250.292. The additions to this proposed section would require submission of the following information:

—In paragraph (e)(1)—Methods, frequency, and acceptance criteria for testing the underwater safety valves (USVs), surface controlled subsurface safety valves (SCSSVs), and boarding shutdown valves;

—In paragraph (e)(2)—The function and testing of the host facility emergency shutdown device (ESD) system and its interface to the subsea system; and

—In paragraph (f)—Information on the design, operation, maintenance, personnel competency, and testing of the subsea leak detection system to protect the subsea field/infrastructure (e.g., trees, manifolds, jumpers). BSEE proposed that operators must include procedures for how to operate the system, ensure system functionality, identify a leak, and take action when a leak is identified.

Summary of Final Rule Revisions

Based on comments received and after review of comments, BSEE is removing the statement “including a table summarizing the curtailment of production and offloading based on operational considerations” from paragraph (a) and moving it to paragraph (b). This revision is necessary because those operations are covered under paragraph (b). BSEE is also revising paragraph (e) to remove the term “certification” to be consistent with other required statements and the use of certifications.

Summary of comments: A commenter expressed concerns that the information in paragraph (a) regarding the table summarizing the curtailment of production and offloading is unclear and may not be applicable.

Response: BSEE agrees with the commenter and is removing the statement “including a table summarizing the curtailment of production and offloading based on operational considerations” from paragraph (a) and moving it to paragraph (b). This information is more applicable to the contents of paragraph (b).

Summary of comments: Multiple commenters expressed concerns with the use of a certification statement for compliance with Subpart H.

Response: BSEE agrees with the commenters and has removed the term “certification” from paragraph (e). BSEE will still require a statement that the production safety systems will comply with Subpart H. Subpart H contains the requirements for production safety systems and a certification is not necessary at this stage. BSEE wants to ensure that the safety system requirements are considered at this stage of the DWOP process.

Summary of comments: A commenter requested that BSEE clarify if a description of the leak detection system or the actual procedures are required.

Response: BSEE disagrees with the commenter that the language is unclear. The regulations in § 250.240(f) require the submittal of information concerning both the leak detection system itself and procedures for how to operate the system, ensure system functionality, identify a leak, and the actions to take when a leak is identified.

What subsea systems and pipeline information must my DWOP include? (§ 250.241)

Summary of Proposed Rule Revisions

BSEE proposed to identify the subsea systems and associated pipeline systems information that must be included in a DWOP. The content of paragraphs (c)(2)(i), (ii), and (iii) of this proposed section would be moved from current § 250.292. Proposed paragraph (a) would require the operator to identify the information common to the subsea system and the associated pipeline system, which constitute all or part of a single project development covered by the DWOP and is consistent with activities addressed in an associated pipeline application, and would require the submission of the following:

—A subsea field schematic depicting the planned subsea development equipment and infrastructure, including wells/trees, non-pipe subsea equipment, pipeline route(s), pipeline riser systems, umbilical(s), and platform footprint;

—A description of the subsea development project detailing the subsea and pipeline equipment design criteria and analysis procedures (including industry standards, pressure and temperature ratings, materials selection), testing methods, and general operational procedures;

—A description of the fabrication and assembly/testing location of subsea trees, pipelines, and non-pipe subsea equipment (manifold, pipeline end manifold, pipeline end termination, subsea umbilical termination assembly, subsea pumps, suction piles, etc.);

—A summary of the subsea tieback development technologies' Integrity Management Program, including a plan for inspection and monitoring to support assessment of system condition. This should include, but not be limited to, the in-service inspections or surveys of hull and topsides structures, tendons, moorings, and pipelines and/or wellbore riser systems to assess and analyze component condition after each significant environmental event (e.g., hurricane, earthquake, loop and eddy currents, or mudslide) impacting the system, or once every 10 years, whichever occurs first; and

—A summary of safety and environmental controls.

Proposed paragraph (b) would require submission of the following information about subsea systems that constitute all or part of a single project development covered by the DWOP, as applicable:

—System control type (i.e., direct hydraulic or electro-hydraulic);

—Well tree(s), wellhead, and non-pipe equipment general arrangement drawings and schematics, with size and valve type annotations to illustrate the tree and other equipment in operation;

—Estimated shut-in tubing pressure for the proposed well(s), including the calculations used to arrive at the estimate, specifying true vertical depth, reservoir pressure, and the fluid gradient used, or a brief discussion of the pressure volume temperature (PVT) data used for estimation;

—Wellbore static bottomhole temperature and the estimated flowing temperature at the tree, including a description of the method used to calculate this estimate;

—A description of the umbilical(s) and umbilical connection(s), including an umbilical cross-section schematic;

—A description of the chemical or other injection systems and/or enhanced recovery systems the operator plans to use;

—A description of the corrosion monitoring and prevention/inhibition processes;

—Details of any re-furbished and/or re-certified equipment that would be used; and

—A schedule of development activities, including well completion, facility installation, and anticipated date of first oil.

Proposed paragraph (c) would require an operator to include pipeline information in its DWOP to align with the activities to be addressed in the associated pipeline application(s), including:

—Design and fabrication information for each pipeline riser system;

—For projects that will use a pipeline free standing hybrid riser (FSHR) on a permanent installation that uses a buoyancy air can suspended from the top of the riser, the operator would be required to provide the following information in its DWOP as part of the discussion required by paragraph (b)(1) and (2) of § 250.241: a detailed description and drawings of the FSHR, buoy, and the associated connection system; detailed information regarding the system used to connect the FSHR to the buoyancy air can, and associated redundancies; and descriptions of the monitoring system and monitoring plan for the pipeline FSHR and the associated connection system for fatigue, stress, and any other abnormal condition (e.g., corrosion) that may negatively impact the riser system's integrity; and

—Pipeline and pipeline riser installation methods.

Submission of this information is consistent with what BSEE currently requires in the DWOP (and has historically required). The proposed requirements would clarify general language in the existing regulation by adding specificity regarding scope.

Summary of Final Rule Revisions

Based on comments received and after review of comments, BSEE is revising paragraph (a)(4) to clarify that the operator must also include in the integrity management plan a description of how it will determine when a significant environmental event has occurred and how it will respond to such an event. This revision would help identify and properly account for integrity management through significant environmental events. BSEE is also revising paragraph (c)(1) to only require “general” design and fabrication information for pipelines. This revision addresses a situation where some of the specific design and fabrication information may not be available at this stage. For the purposes of the DWOP, the general design and fabrication information is sufficient.

Summary of comments: Multiple commenters expressed concerns that certain information requested in this section is duplicative with information covered under Conceptual Plans or the associated permits or applications.

Response: BSEE disagrees with this comment. This section covers the DWOP submittal, which presents information from a whole project perspective. Conversely, Conceptual Plans focus on an individual component or assembly.

Summary of comments: A commenter recommended that BSEE require that operators' integrity management plans state their process for determining significant environmental events.

Response: BSEE agrees with the commenter and has revised paragraph (a)(4) to require the operator to also provide a description in the integrity management plan of how it will determine that significant environmental events have occurred, and how it will respond to such an event. This revision clarifies the scope of the integrity management plan. It is BSEE's intent to ensure that operators discuss, plan for, and address the impacts of the significant environmental events.

Summary of comments: A commenter asked for clarification as to the source of the 10-year assessment.

Response: Based on BSEE experience with assessing facilities or equipment through their entire lifecycle, the assessment cycle of 10 years in paragraph (a)(4) of this section is an incremental approach to platform service life extension and monitoring. Often, operators ask for infinite or significant years of increased life. BSEE's approach has been to approve fewer years—either 5 or 10—and revisit the calculations and inspection data later to ensure there are no significant changes. BSEE will remain consistent with that approach and utilize the identified assessment cycle. As BSEE gains more experience with the assessments, BSEE will evaluate the efficiency of the assessment cycle and may revise it as appropriate.

Summary of comments: A commenter asked if the NTLs help define the affected area for inspections and assessments after a significant environmental event.

Response: BSEE will continue to use the guidance of an NTL to help identify the affected area of the significant environmental event (e.g., see NTL No. 2021-G02). This information is very useful to focus the inspections and assessments to those areas potentially impacted by the significant environmental events.

Summary of comments: A commenter expressed concerns that it is not practical to directly monitor stress and fatigue in all components. The commenter also stated that the assessment for stress should be determined based on observed responses and analytical assessment.

Response: BSEE disagrees with the commenter's concerns and is not revising this section based on this comment. It is BSEE's expectations that the operator must identify how it will monitor the FSHR and associated connection system. BSEE does not want to limit how an operator conducts the appropriate monitoring to ensure riser system integrity.

What new or unusual technology information must my DWOP include? (§ 250.242)

Summary of Proposed Rule Revisions

BSEE proposed in this section to identify the new or unusual technology information that must be included in the DWOP, including the information referenced in the applicable Conceptual Plan. Proposed paragraph (a) would require the submission of a description of any new or unusual technology being used in a development project, including a reference to previously approved New or Unusual Technology Conceptual Plans or New or Unusual Technology Barrier Conceptual Plans.

Proposed paragraph (b) would require submission of a description of any new or unusual technology not covered under the New or Unusual Technology Conceptual Plan or New or Unusual Technology Barrier Conceptual Plan. It would also require an operator to include the same applicable information as required in §§ 250.228 or 250.229.

Summary of Final Rule Revisions

BSEE did not receive any comments on the substance of the provision of this section and is finalizing the proposed revisions with administrative changes to reflect the revisions to the name of the New or Unusual Technology Barrier Equipment Conceptual Plan, as discussed previously in this preamble.

Summary of comments: A commenter asked what service fee would be required if an operator needed to submit the description of any new or unusual technology not previously approved in the applicable Conceptual Plan.

Response: BSEE will require the service fees listed in § 250.125 for the plans required under the DWOP Process for the specific project proposed.

BSEE proposed to reserve §§ 250.243-250.244, and these sections are reserved in this regulation.

May I combine the Project Conceptual Plan and the DWOP? (§ 250.245)

Summary of Proposed Rule Revisions

BSEE proposed to move to this section the content from current § 250.294, which addresses when an operator may submit a combined Conceptual Plan and DWOP, and proposed to include the following revisions:

The introductory paragraph would be revised to clarify that, if the operator's development project meets the criteria in proposed paragraphs (a) and (b) of this section, an operator may submit a combined Conceptual Plan and DWOP that complies with all applicable requirements for both, on or before the deadline for submitting the Conceptual Plan, as described in proposed § 250.226. Existing paragraph (a), which allows the operator to submit a combined Conceptual Plan and DWOP if the project is located in water depths of less than 400 meters (1,312 feet), would be removed.

Existing paragraph (a) would be replaced with existing paragraph (b), which allows a combined plan if the project is similar to projects involving subsea tieback development technology for which the operator has obtained approval previously. BSEE proposed to add a new paragraph (b) to allow for the submission of a combined Conceptual Plan and DWOP if the project does not involve either new or unusual technology or a new platform. As previously stated at the beginning of the paragraph, the operator must meet the criteria in paragraph (a) and (b) of proposed § 250.245 in order to be able to submit a combined Conceptual Plan and DWOP.

These revisions would provide clarity for operators to streamline the process, when appropriate, and would reflect conforming edits for new or unusual technology. These revisions would reflect current BSEE acceptance of combined submission of the Conceptual Plan and DWOP in certain situations.

Summary of Final Rule Revisions

BSEE received a comment on these provisions and is making a revision based on that comment. BSEE is changing the heading to read: “May I combine the Project Conceptual Plan and the DWOP?” and is revising the introductory paragraph accordingly. BSEE is clarifying that that the “Project” Conceptual Plan can be combined with the DWOP.

Summary of comments: A commenter suggested that BSEE add the term “project” to the reference to the Conceptual Plans.

Response: BSEE is revising this section to clarify that a Project Conceptual Plan may be combined with the DWOP if the project meets the required criteria. This revision is consistent with paragraph (b) that prohibits the combination of a Conceptual Plan and DWOP if the project involves new or unusual technology.

When must I revise my DWOP? (§ 250.246)

Summary of Proposed Rule Revisions

BSEE proposed to move to this section the content from current § 250.295 and to clarify when revision to an approved Conceptual Plan or DWOP is necessary. Revision is necessary when there are changes in the development project that alter the proposed plan or procedures, but that do not involve a physical alteration of the equipment on the platform or the seabed. As explained below, a supplement is required when changes involve a physical alteration of the equipment on the platform or the seabed. This section and the following section are intended to reduce confusion by helping operators determine when a revision or a supplement to the applicable Conceptual Plan or DWOP is necessary.

Summary of Final Rule Revisions

Based on comments received and review of the comments, BSEE is revising this section to clarify when a revision to a DWOP is necessary. BSEE removed the reference to revising the Conceptual Plan as it is not applicable to this section and clarified that revisions are necessary only to the approved DWOP to reflect any material change to the plan.

Summary of comments: A commenter expressed concerns that requiring a revision to the plan for “any changes” is too broad and burdensome.

Response: BSEE disagrees with the commenter and wants to ensure the information contained in the DWOP is accurate and consistent with the applicable approved permit or application. BSEE has clarified the difference between a revision and supplement and has revised the service fees to adequately reflect the appropriate level of actions necessary to complete the revision or supplement. However, BSEE also clarified that any material change to the plan would require a revision. This clarification is consistent with the language of the previous regulations (see previous § 250.295).

Summary of comments: A commenter expressed concerns that revisions to the Conceptual Plans are not applicable to this section and should be removed.

Response: BSEE agrees with the commenter and is removing the reference to Conceptual Plan revisions. Revisions to the Conceptual Plans are outside the scope of this section and it is unnecessary to include them in this section.

When must I supplement my DWOP? (§ 250.247)

Summary of Proposed Rule Revisions

BSEE proposed in this section to identify when an operator must supplement the approved DWOP to reflect additions or changes in the development project.

Proposed paragraph (a) would require the operator to submit a supplement to the DWOP to reflect any additions or changes in the development project that physically alter the platform, process facilities, equipment, or systems approved in the original Conceptual Plan or DWOP. If a Supplemental DWOP proposes the addition of any wells (e.g., a new subsea field) not approved in the original DWOP, the operator may not complete or produce from the new well(s) until BSEE approves the Supplemental DWOP.

Proposed paragraph (b) would require a supplement to the DWOP for additions or changes that involve the addition of any new or unusual technology to the project that was not previously approved under the New or Unusual Technology Conceptual Plan, New or Unusual Technology Barrier Conceptual Plan, or DWOP. This proposed paragraph would also clarify that the operator may not install any new or unusual technology until BSEE approves the Supplemental DWOP.

This section would be added to clarify when operators must submit supplemental DWOPs. This section and the section above are intended to reduce confusion by helping operators determine when a revision or a supplement to the DWOP is necessary.

Summary of Final Rule Revisions

Based on comments received and review of the comments, BSEE is revising paragraph (a) by removing the references to “platform” and “process facilities” from the list of items that, if physically altered, would require a supplement to the DWOP and then clarifying that it applies to equipment or systems upstream of the boarding shutdown valve approved in the DWOP. BSEE is also removing the reference of supplementing the DWOP based on the equipment and systems approved in the original Conceptual Plan as it is not applicable to this section.

BSEE is also revising paragraph (b) to clarify that under the situation where there is an addition of new or unusual technology not previously covered under an applicable Conceptual Plan or DWOP, an operator may not install any new or unusual technology until BSEE approves the applicable Conceptual Plan and supplemental DWOP. This revision is necessary to ensure the new or unusual technology follows the appropriate process including the applicable Conceptual Plan approval.

Summary of comments: Multiple commenters expressed concerns that the language describing a supplement to the DWOP is too broad and needs clarification concerning when a supplement is required.

Response: BSEE agrees in part with the commenters and is revising this section to clarify when a supplement to the DWOP is required by removing the references to “platform” and “process facility” and clarifying that a supplement requirement applies only when there is a physical change to the equipment or systems upstream of the boarding shutdown valve. This clarification establishes when a supplemental DWOP is necessary based on the scope of the equipment listed. For example, BSEE would not expect a supplement of your DWOP for changing decking on a platform.

What information must I include in my Supplemental DWOP? (§ 250.248)

Summary of Proposed Rule Revisions

BSEE proposed to describe the information that must be included in the supplement to the DWOP referenced in proposed § 250.247.

Proposed paragraph (a) would require the same information for the wells or equipment as required in the applicable Conceptual Plan and DWOP requirements in Subpart B. This addition would ensure consistency between the initial and supplemental submissions.

Proposed paragraph (b) would describe information for each applicable Conceptual Plan or DWOP section that is being impacted by the addition or change.

Proposed paragraph (c) would require documents demonstrating payment of the new service fee for BSEE's review and processing of a supplemental DWOP, as listed in the proposed revisions to § 250.125.

Summary of Final Rule Revisions

BSEE did not receive any comments on the content of this section and is finalizing the provision as proposed.

Subpart D—Oil and Gas Drilling Operations

Hydrogen sulfide (§ 250.490)

Summary of Proposed Rule Revisions

BSEE proposed to revise paragraph (p) of this section, which addresses metallurgical properties of equipment used in an H2S environment. BSEE proposed revising the paragraph to state that if operating in a zone with H2S present or when the concentration of H2S in the produced fluid may exceed 0.05 pounds per square inch (psi) partial pressure of H2S, the operator must use equipment that is constructed of materials with metallurgical properties that resist or prevent sulfide stress cracking (also known as hydrogen embrittlement, stress corrosion cracking, or H2S embrittlement), chloride-stress cracking, hydrogen-induced cracking, and other failure modes.

BSEE also proposed to revise this section to be consistent with the requirements of NACE Standard MR0175-2003, “Standard Material Requirements, Metals for Sulfide Stress Cracking and Stress Corrosion Cracking Resistance in Sour Oilfield Environments, ”Revised January 17, 2003, incorporated by reference at existing §§ 250.490 and 250.901 and NTL 2009-G31. Section 250.490 paragraph (p) currently requires that the tubing and casing be designed for NACE requirements, but incorrectly refers only to “H2S present” as the concentration necessary to trigger this requirement. “H2S present” is defined in existing § 250.490 paragraph (b) as “could potentially result in atmospheric concentration of 20 ppm or more of H2S.” BSEE proposed language to clarify that in either “H2S present” conditions or when H2S concentrations in the produced fluid exceed 0.05 psi partial pressure of H2S, the operator must use equipment that is constructed of materials with certain metallurgical properties, in accordance with NACE Standard MR0175-2003.

Summary of Final Rule Revisions

BSEE is including the proposed language in the final rule without change.

Summary of comments: A commenter recommended that BSEE reference NACE MR0175 in the introductory text to paragraph (p).

Response: BSEE is not including the reference to NACE MR0175 in the introductory text to this paragraph in the final rule because it is currently referenced in existing paragraph (p)(2). BSEE already requires BOP system components, wellhead, pressure-control equipment, and related equipment exposed to H2S-bearing fluids to be in conformance with NACE Standard MR0175. BSEE also requires conformance with NACE MR0175 in other subparts of the BSEE regulations as it pertains to other equipment (e.g., see §§ 250.518(a)(2) and 250.619(a)(2) for tubing requirements).

Subpart E—Oil and Gas Well-Completion Operations

Tubing and wellhead equipment (§ 250.518)

Summary of Proposed Rule Revisions

BSEE proposed to revise paragraph (a) of § 250.518 to include the following:

—The tubing string must be evaluated for burst, collapse, and axial loads with appropriate safety and design factors for the pressure and temperature environments of the completion, production, shut-in, and injection load cases;

—The tubing string materials must be appropriate for the environment. The operator must follow NACE Standard MR0175-2003 (as incorporated by reference in § 250.198) when H2S concentration may equal or exceed 0.05 psi partial pressure; and

—The tubing string threaded connectors must be appropriate for the loads identified in proposed paragraph (a)(1).

These revisions would reflect essential well design elements addressed in industry standards. Current regulations discuss well design specific to casing, but little is provided for tubing design, which is equally critical for well integrity. Regulations currently establish H2S concentrations that constitute a specific threat to personnel and establish concentrations that trigger enactment of H2S protocols. Additional requirements added to this section would address H2S impacts to equipment integrity, as these components must function as barriers to personnel and the environment. Section 250.490 paragraph (p) currently requires that the tubing and casing be designed for NACE requirements, but incorrectly refers only to “H2S present” as the concentration necessary to trigger this requirement. “H2S present” is defined in existing § 250.490 paragraph (b) as “could potentially result in atmospheric concentration of 20 ppm or more of H2S.” BSEE proposed to clarify that, in either “H2S present” conditions or when H2S concentrations in the produced fluid exceed 0.05 psi partial pressure of H2S, the operator must use equipment that is constructed of materials with certain metallurgical properties, in accordance with NACE Standard MR0175-2003.

BSEE also proposed to revise paragraph (c) of this section to include the design and testing of the wellhead, tree, and related equipment in accordance with ANSI/API Spec. 6A (as incorporated by reference in § 250.198) or ANSI/API Spec. 17D (as incorporated by reference in § 250.198), as applicable. The proposed rule would also add paragraphs (c)(1), (2), and (3) to clarify that:

—Newly completed dry trees (e.g., fixed, hybrid, or mudline suspension) for production or injection wells must be equipped with a minimum of one master valve and one surface safety valve (SSV), installed above the master valve, in the vertical run of the tree;

—Newly completed subsea production or injection wells must be equipped with a minimum of one USV installed in the horizontal or vertical run of the tree (e.g., vertical or horizontal subsea trees); and

—Newly completed wells with a mudline suspension conversion to a subsea tree must have a minimum of two casing strings tied back and sealed below the tubing head. At a minimum, the production casing and the next outer casing must be tied back to the wellhead to ensure annular isolation.

BSEE proposed adding paragraph (c)(3) because ANSI/API Spec. 17D does not address mudline suspension conversion to a subsea tree with more than one casing tieback. The proposed revisions would also codify similar language from NTL 2006 G-20, which would establish a requirement for a minimum of two casing strings tied back and sealed below the tubing head for a mudline suspension conversion to a subsea tree.

BSEE proposed revising paragraph (d) to clarify that both the subsurface safety equipment and surface safety equipment must comply with applicable requirements of Subpart H.

Summary of Final Rule Revisions

BSEE received a comment on this section, but is not making any revisions based on that comment. BSEE is finalizing the proposed content with a clarification in paragraph (a)(1) that the tubing string must be evaluated with appropriate safety factors and material design factors. This revision clarifies this regulation with the correct usage of terms for engineering analysis.

Summary of comments: A commenter expressed concerns that certain content in this section is redundant of the requirements of Subpart D and should be removed.

Response: BSEE disagrees with the commenter and is not removing the content. Finalizing the regulation based on the proposed language helps ensure consistency among the different subparts and considerations for operations when H2S is present.

Subpart F—Oil and Gas Well-Workover Operations

Tubing and wellhead equipment (§ 250.619)

Summary of Proposed Rule Revisions

BSEE proposed to revise paragraph (a) of § 250.619 to include the following:

—The tubing string must be evaluated for burst, collapse, and axial loads with appropriate safety and design factors for the pressure and temperature environments of the completion, production, shut-in, and injection load cases;

—The tubing string materials must be appropriate for the environment. The operator must follow NACE Standard MR0175-2003 (as incorporated by reference in § 250.198) when H2S concentration may equal or exceed 0.05 psi partial pressure; and

—The tubing string threaded connectors must be appropriate for the loads identified in proposed paragraph (a)(1).

Additional requirements BSEE proposed to add to this section address H2S impacts to equipment integrity, as these components must function as barriers to personnel and the environment. BSEE proposed to clarify that in either “H2S present” conditions or when H2S concentrations in the produced fluid exceed 0.05 psi partial pressure of H2S, the operator must use equipment that is constructed of materials with certain metallurgical properties, in accordance with NACE Standard MR0175-2003.

BSEE also proposed to revise paragraph (c) to include the design and testing of the wellhead, tree, and related equipment in accordance with ANSI/API Spec. 6A (as incorporated by reference in § 250.198) or ANSI/API Spec. 17D (as incorporated by reference in § 250.198), as applicable. This section would also add paragraphs (c)(1), (2), and (3) to clarify that:

—Newly completed dry trees (e.g., fixed, hybrid, or mudline suspension) for production or injection wells must be equipped with a minimum of one master valve and one SSV, installed above the master valve, in the vertical run of the tree;

—Newly completed subsea production or injection wells must be equipped with a minimum of one USV installed in the horizontal or vertical run of the tree (for vertical or horizontal subsea trees); and

—Newly completed wells with a mudline suspension conversion to a subsea tree must have a minimum of two casing strings tied back and sealed below the tubing head. At a minimum, the production casing and the next outer casing must be tied back to the wellhead, to ensure annular isolation.

BSEE proposed to revise paragraph (d) to clarify that surface safety equipment must be installed, maintained, and tested in accordance with applicable sections of Subpart H, in addition to the subsurface safety equipment.

Summary of Final Rule Revisions

BSEE did not receive any comments on this section and is finalizing the proposed content with the same clarification identified in § 250.518 in paragraph (a)(1) that the tubing string must be evaluated with appropriate safety factors and material design factors. This revision clarifies this regulation with the correct usage of terms for engineering analysis and is consistent with similar requirements in § 250.518.

Subpart G—Well Operations and Equipment

What information must I submit for BOP systems and system components? (§ 250.731)

Summary of Proposed Rule Revisions

BSEE proposed to revise existing paragraph (c)(4) of § 250.731 to update a cross-reference to the definition of HPHT in accordance with proposed § 250.105.

Summary of Final Rule Revisions

BSEE did not receive any comments on this provision of the proposed rule and is including the proposed language in the final rule without change.

What are the independent third party requirements for BOP systems and system components? (§ 250.732)

Summary of Proposed Rule Revisions

BSEE proposed to revise existing paragraph (c) of § 250.732 to reflect the addition of the new or unusual technology and new or unusual technology barrier requirements in Subpart B. BSEE proposed to delete the independent third-party requirements under existing paragraph (c) because that information would be covered under the new DWOP process requirements. These proposed revisions would connect the HPHT permitting (e.g., APD) requirements and the DWOP process requirements and would improve BSEE's review and decision process. BSEE proposed these revisions to help ensure that the specified equipment is fit for service in the environmental conditions reasonably expected at the operation's site.

BSEE also proposed to remove duplicative requirements now covered under the DWOP new or unusual technology barrier requirements and would provide greater detail considering that the Conceptual Plan review occurs before use of HPHT equipment and would occur before application review. BSEE proposed to consolidate the language and refer to the applicable new or unusual technology barrier requirements and would specify that BSEE would require Conceptual Plan and appropriate permit approval before equipment installation. This addition would provide clarification to operators unfamiliar with the applicable DWOP requirements.

Summary of Final Rule Revisions

Based on comments received and review of the comments, BSEE is revising paragraphs (c)(4) and (c)(5) to remove the term “certification” to be consistent with other required statements and the use of certifications. BSEE is also revising paragraph (c) to clarify that the operator may not deploy the proposed BOP system and related equipment that will or may be exposed to an HPHT environment until BSEE approves the appropriate Conceptual Plan and permits (e.g., APD and APM). This clarification helps ensure the correct use of terminology and description of equipment or systems. For example, BSEE does not have a definition of “HPHT BOP system,” so that term was removed.

BSEE also fixed incorrect cross references throughout this section based on the updates to Subpart B.

Summary of comments: Multiple commenters expressed concerns with the use of the term “related equipment” as it relates to BOP systems and asserted that this section is limited to BOP equipment.

Response: BSEE disagrees with the commenters, as “BOP systems and related equipment” has been defined in § 250.105, and BSEE is not making changes to this section based on this comment. BSEE defines “BOP systems and related equipment” to be all pressure controlling and pressure containing well control equipment that may or will be exposed to the well's MASP during drilling, completion, workover, intervention, or abandonment. Well control equipment includes equipment that is installed for the purpose of pressure control and pressure containment when it becomes necessary to physically enter a well bore during drilling, completion, workover, intervention, or abandonment modes of operation. This definition makes it clear what is included in “BOP systems and related equipment.”

Summary of comments: A commenter expressed concerns that it is unclear how MASP is determined for all the stated operations and requested BSEE clarify how to determine MASP.

Response: BSEE disagrees with the commenter and is not making changes to this section based on this comment. Information regarding how to determine MASP is already identified in multiple BSEE regulations (e.g., see § 250.730).

Summary of comments: Multiple commenters expressed concerns with the use of a certification statement for compliance with Subpart H.

Response: BSEE agrees with the commenters and has removed the term “certification” from paragraph (c). BSEE will still require a statement in accordance with §§ 250.230 and 250.232. BSEE wants to ensure consistency with the use of I3P statements.

Summary of comments: A commenter requested clarification about when the Conceptual Plans are required for HPHT operations discussed in this section.

Response: BSEE has determined that no clarification is needed in this section. As stated in this section, the operator cannot deploy the proposed HPHT BOP system and related equipment until BSEE approves the New or Unusual Technology Barrier Equipment Conceptual Plan and appropriate permit. Also, BSEE requires certain actions listed in paragraph (c) before beginning any operation in an HPHT environment. If the operations are not in an HPHT environment as defined by BSEE, then paragraph (c) is not applicable. This section is only applicable to operations in an HPHT environment and all non-HPHT new or unusual technology will need to follow the New or Unusual Technology Barrier Equipment Conceptual Plan process in Subpart B.

Subpart H—Oil and Gas Production Safety Systems

Additional Requirements for Subsurface Safety Valves (SSSVs) and Related Equipment Installed in High Pressure High Temperature (HPHT) Environments (§ 250.804)

Summary of Proposed Rule Revisions

BSEE proposed to remove and reserve this section. The existing requirements from this section would be addressed under proposed §§ 250.105 and 250.204.

Summary of Final Rule Revisions

BSEE did not receive any comments on this proposed section and is finalizing the proposed removal and reservation of this section without change.

IV. Derivation Table

The following table is intended to provide information about the derivation of the requirements in Subpart B. This table provides guidance on the following:

—The destination of various existing requirements.

—The organization and content of the proposed revisions.

This table does not provide definitive or exhaustive guidance and should be used in conjunction with the section-by-section discussion and regulatory text of this proposed rule.

The proposed rule would make changes as outlined in the following table:

Current regulations section | Final rule section | Nature of change
Subpart A:
250.804 | 250.105 | Moves the definition of HPHT to make it applicable to all operations, not just production.
Subpart B:
250.200 | 250.200 | Adds definitions for “barrier categorization,” “primary barriers,” “secondary barriers,” and “new or unusual technology”.
250.201 | 250.201 | Adds information about the three new Conceptual Plans and when submittal of each plan is required.
250.204 | 250.202 | Moved without revision.
250.205 | 250.203 | Moved without revision.
New | 250.204 | Clarifies what information must be submitted to BSEE if an operator plans to install HPHT barrier equipment.
New | 250.206 | Codifies some of the barrier concepts from existing BSEE guidance.
New | 250.207 | Requires the installation and maintenance of a primary and secondary barrier system to contain the source.
550.280 | 250.208 | Includes similar content with minor formatting changes to reflect BSEE applicability.
550.281(a) and (b) | 250.209 | Includes similar content with minor formatting changes to reflect BSEE applicability.
250.282 | 250.210 | Includes similar content with minor formatting changes to reflect BSEE applicability.
New | 250.211 | Clarifies the new or unusual technology failure reporting requirements.
250.286 | 250.220 | Clarifies the addition of new or unusual technology, and the operations that could be covered under the DWOP Process.
250.287 | 250.221 | Includes similar content and clarify when the DWOP Process is applicable.
New | 250.225 | Identifies the 3 new Conceptual Plans.
250.288 and 250.290 | 250.226 | Includes similar content and clarify when to submit the applicable Conceptual Plans.
250.289 | 250.227 | Includes content from existing paragraphs (a), (b), (c), (i)(1), and specify the content of the Project Conceptual Plan.
New | 250.228 | Specifies the content of the New or Unusual Technology Conceptual Plan.
New | 250.229 | Specifies the content of the New or Unusual Technology Barrier Equipment Conceptual Plan.
New | 250.230 | Specifies the submittal timing for I3P Reports.
New | 250.231 | Specifies the I3P nomination requirements.
New | 250.232 | Specifies the I3P requirements for applicable Conceptual Plan review.
New | 250.233 | Clarifies the I3P Report expectations.
250.291 | 250.235 | Includes similar content and clarify DWOP submittals to reflect new or unusual technology additions.
New | 250.236 | Adds a table listing the applicable sections with corresponding information for the DWOP content.
250.292 | 250.237 | Includes content from existing paragraphs (a), (b) and clarify the general DWOP requirements.
250.292 | 250.238 | Includes content from existing paragraphs (a), (b), (c) and clarify the completions information DWOP requirements.
250.292 | 250.239 | Includes content from existing paragraphs (a), (b), (c) and clarify the structural information DWOP requirements.
250.292 | 250.240 | Includes content from existing paragraphs (a), (b), (c), (d), (e)(3) and clarify the production safety system information DWOP requirements.
250.292 | 250.241 | Includes content from existing paragraphs (c)(2)(i), (ii), (iii) and clarify the subsea systems and pipeline information DWOP requirements.
New | 250.242 | Clarifies the new or unusual technology information DWOP requirements.
250.294 | 250.245 | Includes similar content and clarify when an operator can combine the Project Conceptual Plan and the DWOP.
250.295 | 250.246 | Includes similar content and clarify when a revised DWOP is necessary.
New | 250.247 | Clarifies when a supplemental DWOP is necessary.
New | 250.248 | Clarifies the content of a supplemental DWOP.

V. Procedural Matters

Regulatory Planning and Review (Executive Orders (E.O.) 12866, 14094, and 13563).

E.O. 12866, Regulatory Planning and Review, as amended by E.O. 14094, provides that OMB's Office of Information and Regulatory Affairs (OIRA) will review all significant regulatory actions. A significant regulatory action is one that is likely to result in a rule that:

• Has an annual effect on the economy of $200 million or more (adjusted every 3 years by the Administrator of OIRA for changes in gross domestic product); or adversely affect in a material way the economy, a sector of the economy, productivity, competition, jobs, the environment, public health or safety, or State, local, territorial, or tribal governments or communities;

• Creates a serious inconsistency or otherwise interferes with an action taken or planned by another agency;

• Materially alters the budgetary impacts of entitlement grants, user fees, loan programs or the rights and obligations of recipients thereof; or

• Raises legal or policy issues for which centralized review would meaningfully further the President's priorities or the principles set forth in E.O. 12866, as specifically authorized in a timely manner by the Administrator of OIRA in each case.

OIRA has determined that this final rule is not significant under E.O. 12866.

In support of that conclusion, BSEE prepared a final Regulatory Impact Analysis (RIA) to assess the anticipated costs and potential benefits of the rulemaking. The RIA estimates that the increase in annualized costs, compared with the baseline in the absence of the proposed rule, is $6.6 million per year. Over the period 2025-2034, those costs are estimated to have a total present value of $64.0 million undiscounted, $57.5 million discounted at 2 percent, and $59.3 million discounted at 2 percent with a capital displacement adjustment. The RIA for this rulemaking can be found in the docket at https://www.regulations.gov/ (Docket ID: BSEE-2021-0003).

As required by the Independent Offices Appropriation Act (IOAA), as amended (31 U.S.C. 9701), the rule will establish new fees for BSEE's review and processing of several types of operator submissions and reports. This rule will add service fees for processing a Project Conceptual Plan, New or Unusual Technology Conceptual Plan, New or Unusual Technology Barrier Equipment Conceptual Plan, revised DWOP, Combined Conceptual Plan/DWOP, and Revised or Supplemental DWOP. This rule will also revise the cost recovery fee amount for DWOP review. The final rule will increase, and not adversely affect, the government's receipt of user fees. BSEE's economic analysis projects that, altogether, the fees anticipated to be collected under the proposal over a 10-year period (2025-2034) would exceed the baseline fees collected by approximately $1.6 million (undiscounted).

The rulemaking will improve operational and environmental safety and human health for deepwater development projects and other projects or systems that use new or unusual technology, not only by providing clarity and regulatory certainty regarding the information submission process, but also by ensuring that additional regulatory requirements and that New or Unusual Technology Barrier Equipment Conceptual Plans are reviewed by I3Ps, as well as providing BSEE discretion to require I3P review of New or Unusual Technology Conceptual Plans. BSEE has not monetized or quantified the benefits of the new submission process, the new requirements for new or unusual technology projects, including HPHT projects, and I3P reviews. BSEE believes that by updating references to industry standards and giving greater clarity to requirements for submissions for new or unusual technology and HPHT projects and plans, the final rule promotes the objectives of E.O. 13563, including a reasoned determination that its benefits justify its costs (recognizing that some benefits and costs are difficult to monetize or quantify).

Executive Order 13563, Improving Regulation and Regulatory Review, reaffirms the principles of E.O. 12866 while calling for improvements in the Nation's regulatory system to promote predictability, to reduce uncertainty, and to use the best, most innovative, and least burdensome tools for achieving regulatory ends. E.O. 13563 directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this final rule in a manner consistent with these requirements.

Regulatory Flexibility Act

The Regulatory Flexibility Act (RFA), 5 U.S.C. 601-612, requires agencies to analyze the economic impact of regulations when there is likely to be a significant economic impact on a substantial number of small entities and allows an agency to certify a rule, in lieu of preparing an analysis, if the regulation will not have such an economic impact.

BSEE considers a rule to have an impact on a “substantial number of small entities” when the total number of small entities impacted by the rule is equal to or exceeds 10 percent of the relevant universe of small entities in a given industry. The relevant small-size criteria for affected operators and firms likely to help prepare reports are presented in Table 1 below.

Table 1—Small-Entity Criteria for Affected Firms
Industry sector | Small-entity criteria
211120 Crude petroleum extraction | 1,250 employees.
211130 Natural gas extraction | 1,250 employees.
213111 Drilling oil and gas wells | 1,000 employees.
541330 Engineering services (for the I3P or other reports) | $16.5 million/year revenues.

Using these criteria, BSEE estimates that the final rule will affect about 23 companies over the next 10 years (2025-2034), of which approximately 12 (52 percent) of the potentially impacted businesses are considered small; the rest are considered large businesses. All of the operating businesses meeting the U.S. Small Business Administration classification are potentially impacted; therefore, BSEE expects that the rule will affect a substantial number of small entities.

As noted in the E.O. 12866 discussion, the final rule will result in increased costs to firms from HPHT and new or unusual technology reporting requirements and increased service fees, including mandatory I3P nominations and reports. The increase in cost borne by industry includes cost of submissions, preparation, and cost recovery fees. BSEE has evaluated quantifiable costs and benefits and has estimated that there are quantified costs to industry from the final provisions. BSEE has estimated the annualized industry costs by business size in Table 2. The percent of the total industry cost impacts to small operators was estimated based on their percentage of overall revenues. These revenues were estimated by applying Census Statistics of U.S. Businesses revenue estimates by employment ranges to each impacted operator. Based on historical information, BSEE estimates that small companies will bear 8 percent of the industry costs from this rule and large companies will bear the remaining 92 percent.

Table 2—Total 10-Year Industry Costs Associated With Final Rule (2025-2034)
[Undiscounted annualized $]
Company size | Percent of revenues | Industry rulemaking costs
Small Companies | 8 | $505,733
Large Companies | 92 | 5,812,764
Total | 100 | 6,318,497

Table 3 presents the average industry cost and revenue per firm and the numbers of firms classified as small or large. This is presented in Table 3, which illustrates that on a per-firm basis the new reporting costs that will be imposed on small firms by the new requirements, at $42,123 per year, will represent approximately 0.015 percent of revenue. BSEE uses a threshold of 1 percent of annual revenues to determine the significance of costs on entities; therefore, the new reporting costs are not deemed to be a significant impact. BSEE therefore projects that the final rule is not likely to have a significant economic impact on a substantial number of small entities. Although it is not likely required because of this projection, BSEE has conducted a regulatory flexibility analysis (RFA), which provides information on the impact of the final rule on small entities. It is contained in the RIA, which can be found in the docket at https://www.regulations.gov/ (Docket ID: BSEE-2021-0003).

Table 3—Average Annual Industry Cost and Revenue per Firm
[Undiscounted annualized $]
Company size | Count | Average annualized industry cost per firm | Average annual revenue per firm | Cost as percent of revenue
Small Companies | 12 | $42,123 | $283,524,338 | 0.015
Large Companies | 11 | 528,456 | 3,555,005,441 | 0.015

Unfunded Mandates Reform Act of 1995

This final rule would not impose an unfunded mandate on State, local, or tribal governments or the private sector of more than $195 million per year. The final rule will not have a significant or unique effect on State, local, or tribal governments or the private sector. A statement containing the information required by Unfunded Mandates Reform Act (2 U.S.C. 1531 et seq.) is not required.

Takings Implication Assessment (E.O. 12630)

Under the criteria in E.O. 12630, this final rule does not have significant takings implications. The rule is not a governmental action capable of interference with constitutionally protected property rights. A Takings Implication Assessment is not required.

Federalism (E.O. 13132)

Under the criteria in E.O. 13132, this final rule does not have federalism implications. This final rule will not substantially and directly affect the relationship between the Federal and State governments. To the extent that State and local governments have a role in OCS activities, this final rule will not affect that role. A federalism assessment is not required.

Civil Justice Reform (E.O. 12988)

This final rule complies with the requirements of E.O. 12988. Specifically, this rule:

(1) Meets the criteria of section 3(a) requiring that all regulations be reviewed to eliminate errors and ambiguity and be written to minimize litigation; and

(2) Meets the criteria of section 3(b)(2) requiring that all regulations be written in clear language and contain clear legal standards.

Consultation With Indian Tribes (E.O. 13175)

BSEE strives to strengthen its government-to-government relationships with Tribal Nations and Alaska Natives through a commitment to consultation with the Tribes and recognition of their right to self-governance and Tribal sovereignty. BSEE is also respectful of its responsibilities for consultation with Alaska Native Claims Settlement Act (ANCSA) Corporations. In 2022, BSEE notified Tribal Nations and ANCSA Corporations of multiple BSEE rulemakings in development, including this final rule, and invited further government-to-government consultations on any subjects in the regulatory agenda at a Tribe's or ANCSA Corporation's request. BSEE received written comments on the regulatory agenda from the Mashpee Wampanoag Tribe, Native Village of Kotzebue, and Choctaw Nation of Oklahoma, and held a subsequent informational meeting with the Choctaw Nation of Oklahoma. None of the Tribes submitted comments or requested further consultations pertaining to this final rule. Under the criteria in E.O. 13175 and DOI's Policies on Consultation with Indian Tribes and Consultation with Alaska Native Claims Settlement Act Corporations (512 DM 4 and 512 DM 6, respectively), we have evaluated this final rule and determined that it has no substantial direct effects on federally recognized Indian Tribes.

National Technology Transfer and Advancement Act (NTTAA)

BSEE complies with the National Technology Transfer and Advancement Act (NTTAA) (15 U.S.C. 3701 et seq.) requirement that an agency “use standards developed or adopted by voluntary consensus standards bodies rather than government-unique standards, except where inconsistent with applicable law or otherwise impractical.” (OMB Circular A-119 at p. 13). BSEE also complies with the Office of the Federal Register (OFR) regulations governing incorporation by reference. (See, 1 CFR part 51.) Those regulations also specify the process for updating an incorporated standard at 1 CFR 51.11(a), and BSEE complies with those requirements, including seeking approval by OFR for a change to a standard incorporated by reference in a final rule.

Paperwork Reduction Act (PRA) of 1995

This final rule contains existing and new information collection (IC) requirements for regulations at 30 CFR part 250, subpart B, Plans and Information, and submission to the OMB for review under the Paperwork Reduction Act of 1995 (44 U.S.C. 3501 et seq.) is required. Therefore, BSEE will submit an IC request to OMB for review and approval and request a new OMB control number. Once the 1014-AA49 final rule is effective, we will discontinue the hour burdens and non-hour cost burdens from current 1014-0024 (22,458 hours, $32,391 non-hour cost burden, expiration December 31, 2024), 30 CFR part 250, subpart B, Plans and Information. BSEE will keep the new number associated with this rulemaking. We may not conduct or sponsor, and you are not required to respond to, a collection of information, unless it displays a currently valid OMB control number.

The final regulations will establish new and/or revise current requirements in Subpart B, Plans and Information, by revising regulations regarding the Deepwater Operations Plan (DWOP) Process and information submittal and approval process, which includes Conceptual Plans and DWOPs; adding requirements for HPHT barrier equipment and systems and new or unusual technology; and requiring, or providing BSEE with the option to require, independent third-party reviews of Conceptual Plans and DWOPs.

This final rule revises all the proposed service fees listed in § 250.125(a)(2) to reflect the revised processes more accurately, as identified in the other applicable discussions in Section III of this preamble and the estimated BSEE review time for the listed services.

The following provides a breakdown of the paperwork hour burdens and non-hour cost burdens for this final rule. While some sections are being moved from existing Subpart B requirements, it is noted that the burden in proposed § 250.210 (current § 250.282) is covered under BOEM's 1010-0151. Accordingly, new burdens for BSEE are being added.

As discussed in the Section-by-Section analysis above, and in the supporting statement available at RegInfo.gov, this rule will add/revise:

[New requirements, due to the final rule, are shown in bold]

250.210—This section will be revised and moved from existing § 250.282. It will include minor revisions to clarify that the Regional Supervisor may direct operators to conduct monitoring programs in association with their approved EP, DPP, DWOP, or DOCD (+12 burden hours).

250.211—This section is new and will clarify the new or unusual technology failure reporting requirements and will require notification to BSEE within 30 days of the failure and provision of a written report identifying the root causes of the failure (+400 burden hours and $47,216 in non-hour cost burdens).

250.221(b)—This section will be revised and moved from existing § 250.287. It will clarify that the DWOP process is applicable to any project that will include the use of new or unusual technology (+6 burden hours).

250.226—This section will be revised and moved from existing §§ 250.288 and 250.290. It will add two new Conceptual Plans: New or Unusual Technology Conceptual Plan and New or Unusual Technology Barrier Equipment Conceptual Plan. There are also three new Cost Recovery Fees (§ 250.125—Service Fees) associated with each Conceptual Plan (+39 burden hours and $297,568 non-hour cost burdens).

250.227—This section will be revised and moved from existing § 250.289. It will list additional information to be submitted with a Project Conceptual Plan and will add new Independent Third Party (I3P) costs for various reviews, certifications, verifications, etc. (+320 burden hours and $37,776 non-hour costs burden).

250.228—This section is new and will list the various submissions required with a New or Unusual Technology Conceptual Plan and will add new I3P costs for various reviews, certifications, verifications, etc. (+3,600 burden hours and $676,130 non-hour costs burden).

250.229—This section is new and lists the various submissions required with a New or Unusual Technology Barrier Equipment Conceptual Plan and will add new I3P costs for various reviews, certifications, verifications, etc. (+9,360 burden hours and $2,955,719 non-hour costs burden).

250.230—This section is new and will require operators submit I3P Reports for any equipment identified in the New or Unusual Technology Barrier Equipment Conceptual Plan and when required by Regional Supervisor (Fit for service statement) (+25 burden hours).

250.231(a)—This section is new and will outline the requirements for the operator to nominate an I3P to be used in conjunction with applicable Conceptual Plans, including that the I3P must be a technical classification society, a licensed professional engineering firm, or a registered professional engineer capable of providing the required certifications and verifications (+9 burden hours).

250.231(b)—This section is new and will add the required information that the I3P is to review (+16,660 burden hours).

250.231(c)—This section is new and will require operators to provide evidence of previous I3P nomination acceptance to utilize a previously BSEE accepted I3P from the same project (+100 burden hours).

250.232(b); 250.233—These sections are new and will require the I3P to submit a report documenting the review of each item and identify all OEM and operator documents used during the reviews (+60 burden hours).

250.232(c), (d); 250.233—These sections are new and will require the I3P to submit a final report that summarizes each review requirement under (a) of this section and will also require the summary report to include the equipment and/or system's technical specifications, including a statement that the equipment and/or system is fit for purpose for the technical specification by the I3P, and verification that the equipment's technical specifications meet or exceed the project's functional requirements including a statement that the equipment and/or system is fit for purpose (+9 burden hours).

250.235; 250.236; 250.237; 250.238; 250.239; 250.240; 250.241; 250.242; 250.204; and 732(c)—These sections will be revised and moved from existing §§ 250.291 and 250.292. These will identify when and how to submit a DWOP; and what general information, well or completions information, structural information, production safety system information, subsea systems, and pipeline information to submit with DWOPs (+1,070 burden hours and $756,210 non-hour costs burden).

250.245—This section will be revised and moved from existing § 250.294. It will be revised to clarify that operators may submit a combined Project Conceptual Plan/DWOP, with all applicable requirements for both, on or before the deadline for submitting the Conceptual Plan (+428 burden hours and $27,712 non-hour costs burden).

250.246—This section will be revised and moved from existing § 250.295. It will be revised to clarify when a revision to a Conceptual Plan or DWOP is necessary (+80 burden hours and $1,926 non-hour costs burden).

250.247; 250.248—This section is new and will identify when an operator must supplement the DWOP to reflect additions or changes in the development project and will add the required information that must be included in the supplement to the DWOP. It will also require a supplement to the DWOP when a project change involves the addition of any new or unusual technology that was not previously covered under the New or Unusual Technology Conceptual Plan, New or Unusual Technology Barrier Equipment Conceptual Plan, or DWOP (+3,990 burden hours and $756,210 non-hour costs burden).

This rule also edits and updates citations to §§ 250.731(c) and 250.732(c). No burden changes are being requested.

Burden Breakdown
Citation 30 CFR part 250, subpart B and NTLs | Reporting & recordkeeping requirement | Hour burden | Average number of annual responses annual | Burden hours
|  | Non-hour cost burdens
General Information
200 thru 248 | General departure and alternative compliance requests not specifically covered elsewhere in subpart B regulations | Burden covered under 1014-0022. |  | 0
201 thru 248 | Submission of plans, documents/information with applicable permit (New or Unusual Technology (NUT) Conceptual Plans (CPs), NUT Barrier Equipment CP, Project CP, and DWOP); any additional information required by Reg. Sup | Burden included with specific requirements below. |  | 0
Post-Approval Requirements for the EP (Exploration Plan), DPP (Development and Production Plan), Deep Water Operations Plan (DWOP), and DOCD (Development Operation Coordination Document) [for BSEE apps/permits which include drilling, workovers, production, pipelay, facility installation, and decommissioning, etc.]
210 | Retain monitoring data/information; make available to BSEE if requested | .5 | 2 retentions | 1
| Submit monitoring plan for approval | .5 | 2 plans | 1
| Submit monitoring reports and data | 5 | 2 reports | 10
211 | Notify Reg. Sup. w/in 30-days of NUT failure; provide failure analysis report including and results & findings of root cause analysis | 200 | 2 reports | 400
|  |  | $23,608 I3P × 2 reports = $47,216.
Deepwater Operations Plan (DWOP) Process
221(b) | Contact the Reg. Sup. for guidance if you are unsure if your project contains subsea tieback development technology or NUT | 15 min | 25 inquiries | 6
226 | Submit Project CP for approval including additional information requested | 2 | 8 plans | 16
|  |  | $2,697 Fee × 8 plans = $21,576.
| Submit NUT CP for approval including additional information requested | 1 | 10 plans | 10
|  |  | $7,964 Fee × 10 plans = $79,640.
| Submit NUT Barrier Equipment CP for approval including additional information requested | 1 | 13 plans | 13
|  |  | $15,104 Fee × 13 plans = $196,352.
227; 226; 201; 204 | Submit w/Project Conceptual Plan, an explanation of the general design basis and philosophy, and all required information, including but not limited to: overviews, system control type, estimated distances, subsea production safety Statement, descriptions, structural modifications, installation information, modification statements, schedules, schematics, estimated pressures or discussion of PVT, temperature ratings, etc., the pay.gov confirmation receipt and any additional information required | 40 | 8 plans | 320
|  |  | $4,722 I3P costs × 8 plans = $37,776.
228; 226; 201; 204 | Submit w/NUT CP, all required information, including but not limited to descriptions, discussions, demonstrations, inspection and testing capabilities, risk assessment, operating procedures, history of the technology, design verifications/testing, schematics, justifications, certifications, list alternative compliance procedures/departures, and any additional information required. Use of an I3P if required, Contact Reg. Sup., for questions related to I3P verifications, the pay.gov confirmation receipt and any additional information required | 360 | 10 plans | 3,600
|  |  | $67,613 I3P costs × 10 plans = $676,130.
229; 226; 201; 204 | Submit w/NUT Barrier Equipment CP, all required information, including but not limited to: detailed schematics, lists of barriers, engineering standards, functional requirements, descriptions, I3P nominations and verification plans, I3P Reports, certification statements, the pay.gov confirmation receipt and any additional information required | 720 | 13 plans | 9,360
|  |  | $227,363 I3P costs × 13 plans = $2,955,719.
230; 732(c) | Submit I3P Reports required for any equipment identified in NUT Barrier Equipment CP and when required by Regional Supervisor. (Fit for service statement) | .5 | 50 reports | 25
231(a) | Submit I3P nomination capable to certify and verify documentation, I3P must be technical class. Society, licensed PE firm, or registered PE. Make all documentation and equipment available to I3P | 30 min | 17 nominations | 9
231(b) | I3P must review information of the applicable equipment and/or system; including but not limited to basis of design, technical specs., & function requirements, etc., all required info | 980 | 17 submissions | 16,660
231(c) | Provide evidence of previous I3P nomination acceptance to utilize a previously BSEE accepted I3P from the same project | 5 | 20 nominations | 100
232(b); 233 | Submit report documenting the review of each item covered under 250.232(a). Report must identify all OEM and Operator documents reviewed | 30 min | 119 reports | 60
232(c), (d); 233; 732(c) | Submit a final report summarizing the review requirements, including equipment and/or system's technical specifications, certification statements and verifications w/sufficient level of detail (e.g., quantitative information). (Fit for purpose statement) | 30 min | 17 reports | 9
235; 236; 237; 238; 239; 240; 241, 242, 204; 732(c) | Submit DWOP for approval; include all required information, and the pay.gov confirmation receipt | 214 | 5 plans | 1,070
|  |  | $10,647 Cost Recovery Fee × 5 plans = $53,235.
|  |  | $25,024 I3P costs × 5 plans = $125,120.
245 | Submit a combined Project CP/DWOP for approval on or before deadline for submitting CP | 214 | 2 plans | 428
|  |  | $13,856 Cost Recovery Fee × 2 plans = $27,712.
246 | Submit a revised DWOP | 40 | 2 plan revisions | 80
|  |  | $963 Cost Recovery Fee × 2 plan revs. = $1,926.
247 248 | Submit supplements to DWOP reflecting additions or changes; include same information for wells or equipment as required per CP and DWOP, descriptions for each CP or DWOP section being impacted, and the pay.gov confirmation receipt | 133 | 30 supp | 3,990
|  |  | $9,626 Cost Recovery Fee × 30 supp. = $288,780.
|  |  | $15,581 I3P costs × 30 submissions = $467,430.
Total for Subpart B |  |  | 374 responses | 36,168 Burden hours.
|  |  | $4,978,612 Non-hour Cost Burdens.

Title of Collection: 30 CFR part 250, subpart B, Plans and Information.

OMB Control Number: 1014-0032.

Form Number: None.

Type of Review: New.

Respondents/Affected Public: Potential respondents comprise Federal OCS oil, gas, and sulfur lessees/operators and holders of pipeline rights-of-way.

Total Estimated Number of Annual Respondents: Currently there are approximately 555 Federal OCS oil, gas, and sulfur lessees and holders of pipeline rights-of-way. Not all the potential respondents will submit information at any given time, and some may submit multiple times.

Total Estimated Number of Annual Responses: 374.

Estimated Completion Time per Response: Varies from 15 minutes to 980 hours depending on activity.

Total Estimated Number of Annual Burden Hours: 36,168.

Respondent's Obligation: Responses are mandatory.

Frequency of Collection: Generally, on occasion and as required in the regulations.

Total Estimated Annual Non-hour Burden Cost: $4,978,612.

In addition, the PRA requires agencies to estimate the total annual reporting and recordkeeping non-hour cost burden resulting from the collection of information, and we solicit your comments on this item. For reporting and recordkeeping only, your response should split the cost estimate into two components: (1) total capital and startup cost component; and (2) annual operation, maintenance, and purchase of service component. Your estimates should consider the cost to generate, maintain, and disclose or provide the information. You should describe the methods you use to estimate major cost factors, including system and technology acquisition, expected useful life of capital equipment, discount rate(s), and the period over which you incur costs. Generally, your estimates should not include equipment or services purchased: (1) before October 1, 1995; (2) to comply with requirements not associated with the information collection; (3) for reasons other than to provide information or keep records for the Government; or (4) as part of customary and usual business or private practices.

As part of our continuing effort to reduce paperwork and respondent burdens, we invite the public and other Federal agencies to comment on any aspect of this information collection, including:

(1) Whether the collection of information is necessary, including whether the information will have practical utility;

(2) The accuracy of our estimate of the burden for this collection of information;

(3) Ways to enhance the quality, utility, and clarity of the information to be collected; and

(4) Ways to minimize the burden of the collection of information on respondents.

Send your comments and suggestions on this information collection by the date indicated in the DATES section to the Desk Officer for the Department of the Interior at OMB-OIRA at (202) 395-5806 (fax) or via the RegInfo.gov portal (online). You may view the information collection request(s) at http://www.reginfo.gov/public/do/PRAMain. Please provide a copy of your comments to the BSEE Information Collection Clearance Officer (see the ADDRESSES section). You may contact Kye Mason, BSEE Information Collection Clearance Officer at kye.mason@bsee.gov with any questions. Please reference Final Rule 1014-AA49, Oil and Gas and Sulfur Operations in the Outer Continental Shelf—30 CFR part 250, subpart B, Plans and Information (OMB Control No. 1014-0032), in your comments.

National Environmental Policy Act of 1969 (NEPA)

BSEE determined that this action is covered under a Categorical Exclusion as defined by NEPA at 43 CFR 46.205. Pursuant to 43 CFR 46.210(i) and 516 Departmental Manual 15.4(C)(1), BSEE determined that the final action is categorically excluded from detailed review under NEPA (42 U.S.C. 4321 et seq.). BSEE has determined that the final rule meets the criteria set forth at 43 CFR 46.210(i) for a Departmental Categorical Exclusion in that this final rule is “of an administrative, financial, legal, technical, or procedural nature. . . .” Further, BSEE has determined that the final rule does not involve any of the extraordinary circumstances listed in 43 CFR 46.215 that would require further analysis under NEPA. The final rule is an administrative change and does not authorize any activities on the OCS. It involves the review of Conceptual Plans and specialized requirements associated with deepwater needs (e.g., special moorings, fittings, production equipment, HPHT items, etc.); however, actual approval of Conceptual Plans and DWOPs is for administrative purposes and does not directly lead to OCS activity that can result in environmental impacts. The Conceptual Plans and DWOPs only lead to an action once they are included and addressed in an Exploration Plan (EP), Development Operations Coordination Document (DOCD), or Development and Production Plan (DPP) and subsequent permit applications. EPs, DOCDs, DPPs, as well as the subsequent well and facility permit applications, are reviewed under site-specific NEPA analyses. Only EPs, DOCDs, and DPPs include the detailed information to fully assess future environmental impacts. If an operator chooses to modify their Conceptual Plans, DWOPs, or proposed technology or submit a new one for an activity that has already been reviewed and approved under the respective EP, DOCD, or DPP, then the operator must submit a revised EP, DOCD, or DPP in accordance with 30 CFR 550.283, which may trigger additional NEPA analysis.

Data Quality Act

In developing this rule, we did not conduct or use a study, experiment, or survey requiring peer review under the Data Quality Act (Pub. L. 106-554, app. C, sec. 515, 114 Stat. 2763, 2763A-153-154).

Effects on the Nation's Energy Supply (E.O. 13211)

This final rule is not a significant energy action under the definition in E.O. 13211 and it is not likely to have a significant adverse effect on the supply, distribution, or use of energy. A Statement of Energy Effects is not required.

Severability

If a court holds any section or paragraph of this rule or their applicability to any person or circumstance invalid, the remainder of this rule and their applicability to other persons or circumstances will not be affected.

List of Subjects in 30 CFR Part 250

Administrative practice and procedure, Continental shelf, Environmental impact statements, Environmental protection, Government contracts, Incorporation by reference, Investigations, Oil and gas exploration, Outer continental shelf—mineral resources, Outer continental shelf—rights-of-way, Penalties, Pipelines, Reporting and recordkeeping requirements, Sulfur.

This action by the Deputy Assistant Secretary is taken herein pursuant to an existing delegation of authority.

Steven H. Feldgus,
Principal Deputy Assistant Secretary, Land and Minerals Management.

For the reasons stated in the preamble, the Bureau of Safety and Environmental Enforcement (BSEE) amends 30 CFR part 250 as follows:

PART 250—OIL AND GAS AND SULFUR OPERATIONS IN THE OUTER CONTINENTAL SHELF

1. The authority citation for part 250 continues to read as follows:

Authority: 30 U.S.C. 1751, 31 U.S.C. 9701, 33 U.S.C. 1321(j)(1)(C), 43 U.S.C. 1334.

Subpart A—General

2. Amend § 250.105 by adding definitions for “BOP systems and related equipment” and “HPHT environment” in alphabetical order to read as follows:

§ 250.105 Definitions.

* * * * *

BOP systems and related equipment includes all pressure controlling and pressure containing well control equipment that may or will be exposed to the well's MASP during drilling, completion, workover, intervention, or abandonment. Well control equipment includes equipment that is installed for the purpose of pressure control and pressure containment when it becomes necessary to physically enter a well bore during drilling, completion, workover, intervention, or abandonment modes of operation.

* * * * *

HPHT environment means when one or more of the following well conditions exist:

(1) The drilling, completion, workover, intervention, injection, production, or abandonment of the well requires pressure controlling or pressure containing equipment, including well control equipment, assigned a pressure rating greater than 15,000 psia or a temperature rating greater than 350 degrees Fahrenheit;

(2) The MASP or SITP is greater than 15,000 psia at the seafloor for a well with a subsea wellhead or at the surface for a well with a surface wellhead; or

(3) The flowing temperature is greater than 350 degrees Fahrenheit at the seafloor for a well with a subsea wellhead or at the surface for a well with a surface wellhead.

* * * * *

3. Amend § 250.125 by revising paragraph (a)(2) to read as follows:

§ 250.125 Service fees.

(a) * * *

Service—processing of the following: | Fee amount | 30 CFR citation (§)
* * * * * * *
(2) Deepwater Operations Plan (DWOP) Process:
(i) Project Conceptual Plan | $2,697 | 250.226
(ii) New or Unusual Technology Conceptual Plan | 7,964 | 250.226
(iii) New or Unusual Technology Barrier Equipment Conceptual Plan | 15,104 | 250.226
(iv) DWOP | 10,647 | 250.235
(v) Revised DWOP | 963 | 250.246
(vi) Combined Project Conceptual Plan/DWOP | 13,856 | 250.245
(vii) Supplemental DWOP | 9,626 | 250.247
* * * * * * *

* * * * *

4. Amend § 250.198 by revising the introductory text and paragraphs (e)(82), (86), (91), and (i)(1) to read as follows:

§ 250.198 Documents incorporated by reference.

Certain material is incorporated by reference into this part with the approval of the Director of the Federal Register in accordance with 5 U.S.C. 552(a) and 1 CFR part 51. All approved material is available for inspection at BSEE and at the National Archives and Records Administration (NARA). Contact BSEE at: the Houston BSEE office at 1919 Smith Street Suite 14042, Houston, Texas 77002; 1-844-259-4779. For information on the availability of this material at NARA, visit www.archives.gov/federal-register/cfr/ibr-locations or email: fr.inspection@nara.gov. The material may be obtained from the following sources:

* * * * *

(e) * * *

(82) ANSI/API Spec. 6A, Specification for Wellhead and Christmas Tree Equipment, Twentieth Edition, October 2010; Addendum 1, November 2011; Errata 2, November 2011; Addendum 2, November 2012; Addendum 3, March 2013; Errata 3, June 2013; Errata 4, August 2013; Errata 5, November 2013; Errata 6, March 2014; Errata 7, December 2014; Errata 8, February 2016; Addendum 4, June 2016; Errata 9, June 2016; Errata 10, August 2016; incorporated by reference at §§ 250.518(c), 250.619(c), 250.730, 250.802(a), 250.803(a), 250.833, 250.873(b), 250.874(g); 250.1002(b).

* * * * *

(86) ANSI/API Spec. 11D1, Packers and Bridge Plugs, Third Edition, April 2015; including Errata 1, August 2019; incorporated by reference at §§ 250.518(e), 250.619(e); 250.1703.

* * * * *

(91) ANSI/API Spec. 17D, Design and Operation of Subsea Production Systems—Subsea Wellhead and Tree Equipment, Second Edition, Reaffirmed November 2018; Addendum 1, September 2015; Errata, September 2011; Errata 2, January 2012; Errata 3, June 2013; Errata 4, July 2013; Errata 5, October 2013; Errata 6, August 2015; Errata 7, October 2015; incorporated by reference at §§ 250.518(c); 250.619(c); 250.730.

* * * * *

(i) * * *

(1) NACE Standard MR0175-2003, Standard Material Requirements, Metals for Sulfide Stress Cracking and Stress Corrosion Cracking Resistance in Sour Oilfield Environments, Revised January 17, 2003; incorporated by reference at §§ 250.490; 250.518(a); 250.619(a); 250.901.

* * * * *

5. Revise subpart B to read as follows:

Subpart B—Plans and Information
General Information
Sec.
250.200 Definitions.
250.201 What plans and information must I submit before I conduct any activities on my lease or unit?
250.202 How must I protect the rights of the Federal government?
250.203 Are there special requirements if my well affects an adjacent property?
250.204 Requirements for high pressure high temperature (HPHT) barrier equipment.
250.205 [Reserved]
Barrier Equipment and Systems
250.206 What equipment does BSEE consider to be a barrier?
250.207 How must barrier systems be used?
Activities and Post-Approval Requirements for the EP, DPP, DWOP, and DOCD
250.208 How must I conduct activities under an approved EP, DPP, or DOCD?
250.209 What must I do to conduct activities under the approved EP, DPP, or DOCD?
250.210 Do I have to conduct post-approval monitoring?
250.211 What are my new or unusual technology failure reporting requirements?
250.212-250.219 [Reserved]
Deepwater Operations Plan (DWOP) Process
250.220 What is the DWOP process?
250.221 When must I use the DWOP process?
250.222-250.224 [Reserved]
Conceptual Plans
250.225 What are the types of Conceptual Plans that I must submit?
250.226 When and how must I submit each applicable Conceptual Plan?
250.227 What must the Project Conceptual Plan contain?
250.228 What must the New or Unusual Technology Conceptual Plan contain?
250.229 What must the New or Unusual Technology Barrier Equipment Conceptual Plan include?
250.230 When are you required to submit an I3P Report?
250.231 What are your requirements for the Independent Third Party (I3P) nomination?
250.232 What are the I3P review requirements for Conceptual Plan reviews?
250.233 General requirements for any I3P Report.
250.234 [Reserved]
DWOP Approval
250.235 When and how must I submit the DWOP?
250.236 What information must I submit with the DWOP?
250.237 What general information must my DWOP include?
250.238 What well or completions information must my DWOP include?
250.239 What structural information must my DWOP include?
250.240 What production safety system information must my DWOP include?
250.241 What subsea systems and pipeline information must my DWOP include?
250.242 What New or Unusual Technology information must my DWOP include?
250.243-250.244 [Reserved]
250.245 May I combine the Project Conceptual Plan and the DWOP?
250.246 When must I revise my DWOP?
250.247 When must I supplement my DWOP?
250.248 What information must I include in my Supplemental DWOP?

Subpart B—Plans and Information

General Information

§ 250.200 Definitions.

Acronyms and terms used in this subpart have the following meanings:

(a) Acronyms used frequently in this subpart are listed alphabetically below:

(1) BOEM means Bureau of Ocean Energy Management of the U.S. Department of the Interior.

(2) BSEE means Bureau of Safety and Environmental Enforcement of the U.S. Department of the Interior.

(3) CID means Conservation Information Document.

(4) CZMA means Coastal Zone Management Act.

(5) DOCD means Development Operations Coordination Document.

(6) DPP means Development and Production Plan.

(7) DWOP means Deepwater Operations Plan.

(8) EIA means Environmental Impact Analysis.

(9) EP means Exploration Plan.

(10) ESA means Endangered Species Act.

(11) HPHT means High Pressure High Temperature

(12) I3P means Independent Third Party

(13) MMPA means Marine Mammal Protection Act.

(14) NPDES means National Pollutant Discharge Elimination System.

(15) NTL means Notice to Lessees and Operators.

(16) OCS means Outer Continental Shelf.

(b) Terms used in this subpart are listed alphabetically below:

Amendment means a change you make to an EP, DPP, or DOCD that is pending before BOEM for a decision (see 30 CFR 550.232(d) and 30 CFR 550.267(d)).

Barrier categorization includes identifying barriers as one of the following two types of categories:

Category 1 Barrier means any equipment, component, or assembly that functions as part of a primary barrier during any operational phase of its life cycle. The operational phases of the barrier equipment, component, or assembly are drilling, completion, workover, intervention, injection, production, or abandonment.

Category 2 Barrier means any equipment, component, or assembly that normally functions as part of a secondary barrier during any operational phase of its life cycle, except when a primary barrier fails. The operational phases of the barrier equipment, component, or assembly are drilling, completion, workover, intervention, injection, production, or abandonment. BSEE may consider non-barrier structural components of a barrier system as a Category 2 Barrier if failure of this structural component could reasonably result in a Primary Barrier failure.

Fit for Purpose means a determination made by an I3P at the conclusion of I3P review that the barrier equipment design has been verified and validated in conformance with recognized engineering standards and any additional project specification requirements; that the material selection, design verification analysis, design validation testing, and quality control are appropriate to justify the technical specifications; and that the technical specifications meet or exceed a project's site specific functional requirements.

Fit for Service means a determination made by the operator that the material selection, design verification analysis, design validation testing, and quality control of the barrier equipment is appropriate to justify the technical specifications and that the technical specifications meet or exceed a project's site-specific functional requirements.

New or unusual technology means equipment or procedures used for any drilling, completion, workover, intervention, injection, production, pipeline, platform, decommissioning, or abandonment operations that meet any of the following criteria:

(1) Has not been approved for use or used extensively in a BSEE OCS Region;

(2) Has not been approved for use or used extensively under the anticipated operating conditions;

(3) Has operating characteristics that are outside the performance parameters established in this part;

(4) Will operate in an HPHT environment as defined in § 250.105; or

(5) Is part of a primary or secondary barrier system that uses materials, design analysis techniques, validation testing methods, or manufacturing processes not addressed in existing industry standards.

Primary Barrier means the equipment, material, component, or assembly that is designated as the principal means of isolating the hydrocarbon pressure source from people and the environment.

Secondary Barrier means the equipment, material, component, or assembly that is designated as the secondary means of isolating the hydrocarbon pressure source from people and the environment.

Subsea tieback development technology means, but is not limited to, floating production systems, tension leg platforms, spars, Floating Production Storage and Offloading (FPSO) systems, guyed towers, compliant towers, subsea manifolds, subsea wells, hybrid wells, production risers, export risers, and other subsea completion or production components that rely on a remote site or host facility for utility and well control services.

§ 250.201 What plans and information must I submit before I conduct any activities on my lease or unit?

(a) Plans and permits. Before you conduct the activities on your lease or unit listed in the following table, you must submit, and BSEE must approve, the listed plans (or relevant portions thereof), and any applicable permits. Your plans and applicable permits may cover one or more leases or units.

You must have BSEE approval of a(n) . . . | Before you . . . | Additional information
(1) New or Unusual Technology Conceptual Plan | install the new or unusual technology | (i) Must be approved by BSEE before it will approve any associated application or permit (e.g., pipeline, platform, APD, APM) involving the use of new or unusual technology. (ii) May be independent of a project Conceptual Plan or DWOP. (iii) BSEE will not approve this Conceptual Plan until all associated I3P Reports (if required) are submitted and are reviewed by BSEE. (iv) May not contain equipment identified as a primary or secondary barrier.
(2) New or Unusual Technology Barrier Equipment Conceptual Plan | install the new or unusual technology that is identified as barrier equipment | (i) Is required for any project or system involving new or unusual technology that is also identified as a primary or secondary barrier. (ii) Must be approved by BSEE before it will approve any associated application or permit (e.g., pipeline, platform, APD, APM) involving the use of new or unusual technology identified as barrier equipment as applicable for the permit scope. (iii) BSEE will not approve this Conceptual Plan until all associated I3P Reports are submitted and reviewed by BSEE.
(3) Project Conceptual Plan | conduct post-drilling installation or well completion activities for a deepwater development project, or for any project that will involve the use of a subsea tieback development technology in any water depth, which may include new or unusual technology | (i) Must be approved before well completion permit approval (e.g., APM). (ii) Any relevant new or unusual technology associated with completion operations must be approved by BSEE before project Conceptual Plan approval.
(4) Deepwater Operations Plan (DWOP) | (i) conduct post-completion installation activities for a deepwater development project, or for any project that will involve the use of a subsea tieback development technology in any water depth, which may include new or unusual technology; and (ii) initiate production activities | Must include reference to all applicable, previously approved Conceptual Plans for the associated development project.

(b) Submitting additional information. On a case-by-case basis, the Regional Supervisor may require you to submit additional information if the Regional Supervisor determines that it is necessary to evaluate your proposed plan or permit.

(c) Referencing. In preparing your proposed plan or permit, you may reference information and data discussed in other plans or permits you previously submitted or that are otherwise readily available to BSEE.

(d) All plans listed under paragraph (a) of this section that are initially submitted after October 29, 2024 must comply with the requirements of this subpart.

§ 250.202 How must I protect the rights of the Federal government?

(a) To protect the rights of the Federal government, you must either:

(1) Drill and produce the wells that the Regional Supervisor determines are necessary to protect the Federal government from loss due to production on other leases or units or from adjacent lands under the jurisdiction of other entities (e.g., State and foreign governments); or

(2) Pay a sum that the Regional Supervisor determines as adequate to compensate the Federal government for your failure to drill and produce any well.

(b) Payment under paragraph (a)(2) of this section may constitute production in paying quantities for the purpose of extending the lease term.

(c) You must complete and produce any penetrated hydrocarbon-bearing zone that the Regional Supervisor determines is necessary to conform to sound conservation practices.

§ 250.203 Are there special requirements if my well affects an adjacent property?

For wells that could intersect or drain an adjacent property, the Regional Supervisor may require special measures to protect the rights of the Federal government and objecting lessees or operators of adjacent leases or units.

§ 250.204 Requirements for high pressure high temperature (HPHT) barrier equipment.

If you plan to install HPHT barrier equipment, you must submit information with your applicable Project Conceptual Plan, New or Unusual Technology Barrier Equipment Conceptual Plan, DWOP, and applicable permit(s) that demonstrates the equipment is fit for service in the applicable HPHT environment. You must follow the applicable DWOP Process requirements (e.g., §§ 250.229 and 250.242).

§ 250.205 [Reserved]

Barrier Equipment and Systems

§ 250.206 What equipment does BSEE consider to be a barrier?

A barrier or barrier system is any engineered equipment, material, component, or assembly that is installed to contain a hydrocarbon pressure source(s) to prevent harm to people or the environment. BSEE only recognizes barriers that are either permanently or temporarily installed, pressure controlling, and/or pressure containing. You must be able to activate pressure controlling barriers on demand (i.e., closed by an operator or automated safety system). You must function test and pressure test any pressure controlling barriers or barrier systems to defined acceptance criteria that can be repeated. You must pressure test any pressure containing barrier or barrier system to defined acceptance criteria that can be repeated.

§ 250.207 How must barrier systems be used?

You must install and maintain a primary and a secondary barrier system (redundant barriers) to prevent a loss of containment during any operational phase of a well, flowline, pipeline, production, or riser system.

Activities and Post-Approval Requirements for the EP, DPP, DWOP, and DOCD

§ 250.208 How must I conduct activities under an approved EP, DPP, or DOCD?

(a) Compliance. You must conduct all of your lease and unit activities according to your approved EP, DPP, or DOCD and any approval conditions. If you fail to comply with your approved EP, DPP, or DOCD:

(1) You may be subject to BSEE enforcement action, including civil penalties; and

(2) The lease(s) involved in your EP, DPP, or DOCD may be forfeited or cancelled under 43 U.S.C. 1334(c) or (d). If this happens, you may not be entitled to compensation under 30 CFR 550.185(b) and 30 CFR 556.1102.

(b) Emergencies. Nothing in this subpart or in your approved EP, DPP, or DOCD relieves you of or limits your responsibility to take appropriate measures to meet emergency situations. In an emergency situation, the Regional Environmental Officer may approve or require departures from your approved EP, DPP, or DOCD.

§ 250.209 What must I do to conduct activities under the approved EP, DPP, or DOCD?

(a) Approvals and permits. Before you conduct activities under your approved EP, DPP, or DOCD you must obtain the following approvals and or permits, as applicable, from the District Manager or BSEE Regional Supervisor:

(1) Approval of Applications for Permits to Drill (APDs) (see § 250.410);

(2) Approval of production safety systems (see § 250.800);

(3) Approval of new platforms and other structures (or major modifications to platforms and other structures) (see § 250.905);

(4) Approval of applications to install lease term pipelines (see § 250.1007); and

(5) Other permits, as required by applicable law.

(b) Conformance. The activities proposed in these applications and permits must conform to the activities described in detail in your approved EP, DPP, or DOCD.

§ 250.210 Do I have to conduct post-approval monitoring?

The Regional Supervisor may direct you to conduct monitoring programs, including monitoring in accordance with the ESA and the MMPA, in association with your approved EP, DPP, DWOP, or DOCD. You must retain copies of all monitoring data obtained or derived from your monitoring programs and make them available to BSEE upon request. The Regional Supervisor may require you to:

(a) Submit monitoring plans for approval before you begin work; and

(b) Prepare and submit reports that summarize and analyze data and information obtained or derived from your monitoring programs. The Regional Supervisor will specify requirements for preparing and submitting these reports.

§ 250.211 What are my new or unusual technology failure reporting requirements?

If you have an approved new or unusual technology and it experiences a failure (i.e., any condition that prevents the equipment from meeting its functional specification) during or post-installation, you must notify the applicable Regional Supervisor within 30 days of the failure. You must also provide a failure analysis report as soon as it is available following notification. The failure analysis report must include any results of and potential root cause(s) of the failure. You must also follow all applicable failure or incident reporting requirements associated with the failure (e.g., §§ 250.188, 250.730, and 250.803).

§ § 250.212-250.219 [Reserved]

Deepwater Operations Plan (DWOP) Process

§ 250.220 What is the DWOP process?

(a) The DWOP process consists of providing sufficient information from a total system approach for BSEE to review:

(1) A deepwater development project,

(2) A subsea tieback development technology, or

(3) Any other project or system that uses new or unusual technology during any phase of the following operations: drilling, completion, workover, intervention, injection, production, pipeline, platform, decommissioning, or abandonment.

(b) The DWOP process does not replace but complements other submittals required by the regulations, such as BOEM EPs, DPPs, and DOCDs, or BSEE applications and/or permits (e.g., APD, Application for Permit to Modify (APM), pipeline application, and platform application). BSEE will use the information in your DWOP process to determine whether the project will be developed in an acceptable manner, particularly with respect to operational safety and environmental protection involved with a deepwater development project, subsea tieback development technology, or new or unusual technology.

(c) The DWOP process consists of two phases:

(1) The Conceptual Plans. The Conceptual Plans outline certain equipment and process specifications, operational concepts, and basis of design that you plan to use for project development, and for applicable equipment design, installation, and operation. Sections 250.227 through 250.229 prescribe what each of the Conceptual Plans must contain. Each Conceptual Plan may be submitted separately or combined as applicable; and

(2) The DWOP. The DWOP identifies specific design, fabrication, installation and operational requirements for equipment, systems, and activities as applicable in §§ 250.236 through 250.242.

(d) You must submit to BSEE the applicable plan(s) covered under the DWOP process as appropriate (see § 250.225 for Conceptual Plan requirements and § 250.235 for DWOP requirements). Certain projects requiring New or Unusual Technology Conceptual Plans or New or Unusual Technology Barrier Equipment Conceptual Plans may not be required to have an associated Project Conceptual Plan or DWOP.

§ 250.221 When must I use the DWOP process?

(a) You must use the DWOP process for any project that meets any of the following criteria:

(1) Is planned in water depths greater than 1000 ft;

(2) Will use subsea tieback development technology, regardless of water depth; or

(3) Will use any new or unusual technology for any drilling, completion, workover, intervention, injection, production, pipeline, platform, decommissioning, or abandonment project.

(b) If you are unsure if your project will use subsea tieback development technology or new or unusual technology, contact the Regional Supervisor for guidance.

§ § 250.222-250.224 [Reserved]

Conceptual Plans

§ 250.225 What are the types of Conceptual Plans that I must submit?

There are three types of Conceptual Plans:

(a) A Project Conceptual Plan is required for any project that is planned in water depths greater than 1000 feet, will use subsea tieback development technology, or will use new or unusual technology for completion, injection, production, pipeline, or platform operations;

(b) A New or Unusual Technology Conceptual Plan is required for any project or system that involves equipment or procedures that are considered new or unusual technology (see § 250.200 for the definition of new or unusual technology) for drilling, completion, workover, intervention, injection, production, pipeline, platform, decommissioning, or abandonment operations; and

(c) A New or Unusual Technology Barrier Equipment Conceptual Plan is required for any project or system involving new or unusual technology that is also identified as a primary or secondary barrier (see § 250.200 for the definition of primary and secondary barriers) for drilling, completion, workover, intervention, injection, production, pipeline, platform, decommissioning, or abandonment operations.

§ 250.226 When and how must I submit each applicable Conceptual Plan?

You must submit each applicable Conceptual Plan to the Regional Supervisor after you have decided on the general concept(s) for a project or system, and before you finalize engineering design of the equipment, well, well safety control system, or subsea production systems. You must submit, for BSEE approval, each Conceptual Plan according to the following table:

Conceptual plan type | Where to find the description (§) | Additional information
(a) Project Conceptual Plan | 250.227 | You may not complete any production or injection well or install the tree before BSEE has approved the Project Conceptual Plan.
(b) New or Unusual Technology Conceptual Plan | 250.228 | (1) Operations and approval timing requirements are as follows: (i) You may not install any new or unusual technology until BSEE approves your New or Unusual Technology Conceptual Plan,
|  | (ii) You may not complete any production or injection well or install a tree before BSEE has approved all New or Unusual Technology Conceptual Plans associated with all well completion equipment and the Project Conceptual Plan, and
|  | (iii) BSEE must first approve your New or Unusual Technology Conceptual Plan associated with subsea production systems before the DWOP may be approved. You may install this new or unusual technology following BSEE permit approval (e.g., pipeline application) and prior to DWOP approval.
|  | (2) The Regional Supervisor may require the operator to use an I3P to perform certain functions and verifications in accordance with § 250.231, as applicable.
|  | (3) BSEE will not approve a New or Unusual Technology Conceptual Plan until you submit and BSEE reviews all I3P Reports (if any required).
|  | (4) BSEE must approve your New or Unusual Technology Conceptual Plan before it will approve any associated application or permit application (e.g., pipeline application, platform application, APD, APM).
|  | (5) You must submit separate New or Unusual Technology Conceptual Plans for each piece of equipment at an assembly level (e.g., BOP, tree, wellhead system, or tubing head spool).
(c) A New or Unusual Technology Barrier Equipment Conceptual Plan | 250.229 | (1) You must submit a New or Unusual Technology Barrier Equipment Conceptual Plan for any project or system involving new or unusual technology that is also identified as a primary or secondary barrier.
|  | (2) Operations and approval timing requirements are as follows:
|  | (i) BSEE must first approve your New or Unusual Technology Barrier Equipment Conceptual Plan prior to you installing new or unusual technology identified as barrier equipment,
|  | (ii) You may not complete any production or injection well or install the tree before BSEE has approved all the New or Unusual Technology Barrier Equipment Conceptual Plans associated with all well completion equipment and the Project Conceptual Plan, and
|  | (iii) BSEE must first approve your New or Unusual Technology Barrier Equipment Conceptual Plan associated with subsea production systems before the DWOP may be approved. You may install this equipment after BSEE permit approval (e.g., pipeline application) and prior to DWOP approval.
|  | (3) BSEE must first approve your New or Unusual Technology Barrier Equipment Conceptual Plan before it will approve any associated application or permit application (e.g., pipeline application, platform application, APD, APM).
|  | (4) All new or unusual technology identified as barrier equipment requires the use of an Independent Third Party (I3P) to perform certain functions and verifications in accordance with § 250.231. BSEE will not approve New or Unusual Technology Barrier Equipment Conceptual Plans until you submit and BSEE reviews all required I3P Reports pursuant to § 250.231.
|  | (5) You must submit separate New or Unusual Technology Barrier Equipment Conceptual Plans for each piece of equipment at an assembly level (e.g., BOP, tree, wellhead system, tubing head spool).

§ 250.227 What must the Project Conceptual Plan contain?

In the Project Conceptual Plan, you must explain the basis of design that you will use to develop the field. You must include the following information:

(a) An overview of the development concept(s);

(b) The system control type (i.e., direct hydraulic or electro-hydraulic);

(c) The estimated distance from each of the wells to the host platform, and umbilical length(s);

(d) A statement that the subsea production safety system will be designed to comply with Subpart H of this part;

(e) For a new facility, a description of the type of facility you plan to install (e.g. spar, tension leg platform (TLP), FPSO, etc.);

(f) For a subsea tie back to an existing facility:

(1) A description of known structural modifications that you will need to make to accommodate the tieback, including a statement about whether these accommodations constitute minor or major modifications,

(2) The BSEE-approved service life of the existing facility, and

(3) A description of how you will evaluate whether the modifications may affect the BSEE-approved service life.

(g) A statement regarding whether the host facility will be manned or unmanned;

(h) A schedule of development activities, including well completion, facility installation, and date of first oil;

(i) Schematics, including:

(1) A proposed well location plat,

(2) A conceptual subsea field schematic depicting the planned development infrastructure that contains (as applicable) the wells, pipelines, manifolds, subsea booster pumps, high integrity pressure protection system, riser systems, umbilical(s), and facility footprint,

(3) The surface or subsea tree, and

(4) A proposed wellbore and completion schematic for a typical well (including Surface Controlled Subsurface Safety Valve (SCSSV) location and chemical injection points; and depiction or description of gas zones, if any, behind the production casing or production liner and how those gas zones will be isolated).

(j) A description of the drilling and completion systems;

(k) The estimated shut-in tubing pressure for the proposed well(s), including the calculation used to arrive at the estimate, specifying true vertical depth (TVD), reservoir pressure, and the fluid gradient used, or a brief discussion of the pressure volume temperature (PVT) data used for estimation;

(l) The wellbore static bottomhole temperature and the estimated flowing temperature at the tree;

(m) The pressure and temperature rating of the tree and wellhead;

(n) Whether there will be corrosive production (e.g., hydrogen sulfide (H2S), Carbon dioxide (CO2), Mercury (Hg) or injection fluids (e.g., acid)), including concentrations;

(o) Whether any of the proposed equipment will be re-furbished and re-certified;

(p) Whether enhanced recovery is planned for the early life of the project;

(q) Whether any new or unusual technology will be used to develop your project involving the following: drilling, completion, injection, production, risers, pipelines, or platforms;

(r) Whether the well(s) will include smart completion technology;

(s) A list of requests for any alternate procedures or equipment in accordance with § 250.141 and request for departures in accordance with § 250.142 associated with your applicable Conceptual Plans; and

(t) Documentation demonstrating payment of the service fee listed in § 250.125.

§ 250.228 What must the New or Unusual Technology Conceptual Plan contain?

(a) You must include the following information, as applicable, in your New or Unusual Technology Conceptual Plan:

(1) How the New or Unusual Technology Conceptual Plan fits within your overall site specific project, if applicable, including an overview of the project development concepts.

(2) A description of the technology and specific conditions under which it will be used;

(3) A description of shut-in capabilities and procedures;

(4) A description of redundancies of critical components or systems that will be used;

(5) A discussion of how the new or unusual technology could impact the barrier or safety system, if any, including:

(i) The detection method for new or unusual technology failure;

(ii) A description of how barriers or safety systems function to a fail-safe state when impacted by tew or unusual technology failure;

(6) Information on inspection and testing capabilities;

(7) A risk assessment and failure mode analysis;

(8) Operating procedures;

(9) A history of development and application of the technology;

(10) The basis of design, including design verification and validation testing;

(11) Detailed schematics identifying all components;

(12) A justification for new or unusual technology use, and any additional information required for a complete review;

(13) A list of requests for alternate procedures or equipment in accordance with § 250.141 and request for departures in accordance with § 250.142 needed for the new or unusual technology proposed in your New or Unusual Technology Conceptual Plan;

(14) A statement that the technology is fit for service in the applicable environment (for the specific project at location); and

(15) Documentation demonstrating payment of the service fee listed in § 250.125.

(b) The Regional Supervisor may require the use of an I3P according to § 250.231 if the system or equipment you propose to use requires a high degree of specialized or technically complex engineering knowledge, expertise, and experience to evaluate, or if existing industry standards do not address the system or equipment you propose to use.

(1) The Regional Supervisor may also require you to follow the I3P requirements according to § 250.232, as applicable, on a case-by-case basis.

(2) If you have any questions about I3P requirements for the New or Unusual Technology Conceptual Plan, contact the applicable Regional Supervisor.

§ 250.229 What must the New or Unusual Technology Barrier Equipment Conceptual Plan include?

Your New or Unusual Technology Barrier Equipment Conceptual Plan must include the following information:

(a) A description how the New or Unusual Technology Barrier Equipment Conceptual Plan fits within your overall site-specific project, if applicable. You must include an overview of the project development concepts and a proposed schedule for submittal of associated Conceptual Plans;

(b) Detailed schematics depicting the primary and secondary barriers that include all components, assemblies, or sub-assemblies, each labeled and categorized as a Category 1 barrier or Category 2 barrier;

(c) A list of the primary and secondary barriers that includes all components, assemblies, or sub-assemblies specifying each assigned barrier as either a Category 1 barrier or Category 2 barrier;

(d) A list of the engineering standards that will be used in the equipment's material selection and qualification, design verification analysis, and design validation testing;

(e) A list of requested alternate procedures or equipment in accordance with § 250.141 and requested departures in accordance with § 250.142 needed for the new or unusual technology barrier equipment proposed in your New or Unusual Technology Barrier Equipment Conceptual Plan;

(f) A list of the functional requirements (e.g., environmental and physical loads (magnitude and frequency)) for which the barrier equipment is being designed;

(g) A description of the equipment's safety critical functions, (e.g., function(s) performed by or inherent to the equipment enabling it to achieve or maintain a safe state);

(h) An I3P nomination, in accordance with § 250.231(a);

(i) An I3P verification plan that includes the following:

(1) A discussion of the equipment's material selection and qualification;

(2) A discussion of the equipment's design verification analyses;

(3) A discussion of the equipment's design validation testing;

(4) An explanation of why the analyses, processes, and procedures ensure that the equipment is fit for service in the applicable environment; and

(5) Details regarding how the I3P will address the additional items listed in § 250.232.

(j) Documentation demonstrating payment of the service fee listed in § 250.125.

§ 250.230 When are you required to submit an I3P Report?

You must submit to BSEE any I3P reports required in § 250.232 for any equipment identified in your New or Unusual Technology Barrier Equipment Conceptual Plan and when required by the Regional Supervisor. BSEE will not approve your associated Conceptual Plan until BSEE reviews the required I3P Reports.

§ 250.231 What are your requirements for the Independent Third Party (I3P) nomination?

In accordance with each applicable Conceptual Plan, you must:

(a) Nominate I3P(s) to review the design verification and design validation documentation of the Original Equipment Manufacturer (OEM). Your I3P must be a technical classification society, a licensed professional engineering firm, or a registered professional engineer capable of providing the required verifications and validations. You must submit your I3P nomination(s) within the applicable Conceptual Plan for separate BSEE acceptance before BSEE will approve the applicable Conceptual Plan. Your I3P nomination must include the following descriptions:

(1) Previous experience in third-party verification and validation or experience in the design, fabrication, and installation of applicable offshore oil and gas equipment;

(2) Technical capabilities of the individual or the primary staff for the specific project;

(3) Size and type of organization or corporation;

(4) In-house availability of, or access to, appropriate technology to review the specific project. This should include, but not limited to, computer programs, hardware, and equipment as applicable;

(5) Ability to perform the I3P functions for the specific project considering current commitments (e.g., project timelines, schedules, and personnel availability); and

(6) Previous experience with BSEE requirements and procedures.

(b) You must ensure that the I3P has access to all associated documentation and equipment related to items listed on the I3P verification plan defined at § 250.229(i) and necessary for performance of complete reviews in accordance with § 250.232, including relevant OEM documentation (including documentation and data labeled as confidential and proprietary) and access to the OEM fabrication and manufacturing locations if such access is necessary to review the data.

(c) If your project involves submittal of multiple Conceptual Plans, you may propose to use the services of an I3P previously accepted by BSEE for the same project, and not submit the items required under paragraph (a), if the BSEE-accepted I3P's qualifications are still valid and applicable to provide the required verifications and validations. You must submit documentation regarding the previous I3P nomination acceptance.

§ 250.232 What are the I3P review requirements for Conceptual Plan reviews?

In accordance with each applicable Conceptual Plan, the I3P must:

(a) Review the following information regarding the applicable equipment and/or system:

(1) Basis of Design, technical specification of the equipment (if known at this point in the design process) and functional requirements of the specific project (e.g., environmental and physical loads (magnitude and frequency));

(2) Risk assessment and failure mode analysis;

(3) Material specification, selection, qualification, and testing;

(4) Design verification analysis, including:

(i) Structural/strength analysis, and

(ii) Fatigue assessment and/or analysis.

(5) If fatigue is identified as a potential failure mode, as identified in the fatigue assessment and/or analysis in paragraph (a)(4) of this section, the plan to record and gather data (load monitoring) in order to conduct a future fatigue analysis;

(6) Design validation testing; and

(7) A fabrication, quality management system, and inspection and test plan that identifies the quality control/quality assurance process, and inspection of the final products.

(b) Submit a report to BSEE documenting the review of each item covered under paragraph (a) of this section. Each report must clearly identify all OEM and operator documents used during the I3P review. The report must also include:

(1) The equipment and/or system's technical specifications, including a statement that the equipment and/or system is fit for purpose for the technical specification by the I3P; and

(2) Verification that the equipment's technical specifications meet or exceed the project's functional requirements, including a statement that the equipment and/or system is fit for purpose for the proposed project by the I3P.

(c) For any new project, you may use previous I3P reviews of equipment and/or systems technical specification that was approved in a previous Conceptual Plan. The Regional Supervisor may accept a final report in accordance with paragraph (c) of this section that includes the following:

(1) A statement that the previous report submitted pursuant to of paragraph (b) of this section remains valid;

(2) Verification that the equipment's technical specifications meet or exceed the proposed project's functional requirements; and

(3) A statement by the I3P that the equipment and/or system is fit for purpose for the proposed project.

§ 250.233 General requirements for any I3P Report.

An I3P Report as required in § 250.232 must be a standalone document that clearly summarizes the required verification and validation work performed and must contain a sufficient level of detail (e.g., quantitative information) and clarity to establish the basis of the I3P's findings. Each report must identify the OEM or operator documents reviewed, describe the detailed I3P review, and convey the results of the I3P's review without requiring BSEE to review of any other referenced documents.

§ 250.234 [Reserved]

DWOP Approval

§ 250.235 When and how must I submit the DWOP?

(a) You must submit the DWOP to the Regional Supervisor after BSEE has approved your Project Conceptual Plan and you have substantially completed system design, and before you conduct installation activities post-well completion for:

(1) A deepwater development project;

(2) A project that will use subsea tieback development technology in any water depth; or

(3) An HPHT development project, any project that uses Category 1 or 2 new or unusual technology barrier equipment, or any project that uses new or unusual technology that may impact the safety critical function of Category 1 or 2 barrier equipment regardless of the water depth.

(b) You may install subsea systems and associated pipelines after you have received applicable BSEE permit(s) and Conceptual Plan approvals. However, you may not begin production from the well until BSEE approves your DWOP.

§ 250.236 What information must I submit with the DWOP?

Your DWOP must contain the following information, as applicable:

Information that you must include with your DWOP | Where to find the description (§)
(a) General information | 250.237
(b) Well or completion information | 250.238
(c) Structural information | 250.239
(d) Production safety system information | 250.240
(e) Subsea system and pipeline information | 250.241
(f) New or unusual technology information | 250.242

§ 250.237 What general information must my DWOP include?

You must include the following general information in your DWOP, as applicable:

(a) A list of requests for any alternate procedures or equipment in accordance with § 250.141 and requests for departures in accordance with § 250.142 applicable to the DWOP, and a list of any identified alternate procedures or equipment or departures for which you may request approval in any future applicable permit or application. You do not need to list alternative procedures or equipment or departure requests that were previously submitted and approved for the same project's Conceptual Plans unless the same alternate procedures or equipment or departure requests are needed for a different piece of equipment for post-completion activities.

(b) Documentation demonstrating payment of the service fee listed in § 250.125; and

(c) A list of any associated industry standards not incorporated in the regulations that you are using for your project design or operation.

§ 250.238 What well or completions information must my DWOP include?

You must include the following information in your DWOP, as applicable, to be consistent with the activities to be addressed in the associated well permit(s):

(a) A description and schematic of the typical wellbore, casing, and completion;

(b) Information concerning the drilling and completion systems; and

(c) Design and fabrication information for each wellbore riser system (e.g., drilling, completion, workover, intervention, injection, or production) deployed from a floating production facility or TLP.

§ 250.239 What structural information must my DWOP include?

You must include the following information in your DWOP, as applicable, to align with the activities to be addressed in the associated platform application, including any major modifications:

(a) Structural design, fabrication, and installation information;

(b) Design, fabrication, installation, and monitoring information on the tendon, or mooring systems, including the turret or buoy system, if applicable; and

(c) Information on any active station keeping system(s) involving thrusters or other means of propulsion.

§ 250.240 What production safety system information must my DWOP include?

You must include the following information in your DWOP, as applicable, to be consistent with the activities you plan to address in the associated production safety system application:

(a) A general description of the operating procedures;

(b) Information about the design, fabrication, and operation of an offtake system for transferring produced hydrocarbons to a transport vessel, including a table summarizing the curtailment of production and offloading based on operational considerations;

(c) A description of the process facility installation and commissioning procedure;

(d) A safety analysis flow diagram of the production system from the SCSSV downstream to the first item of separation equipment;

(e) A statement that the surface and/or subsea safety system and emergency support systems will comply with Subpart H of this part. This statement must include:

(1) The methods, frequency, and acceptance criteria for testing the underwater safety valves (USVs), SCSSVs, and boarding shutdown valves;

(2) A description of the function and testing of the host facility Emergency Shutdown Device (ESD) system and its interface to the subsea system; and

(3) If applicable, a description of the surface and/or subsea safety system and emergency support systems not covered in Subpart H of this part. If you propose to use systems not covered in Subpart H of this part, you must request an approval of alternate procedures or equipment according to § 250.141, and you must also include a table that depicts what valves will close, at what times, and for what events or reasons; and

(f) Information regarding the design, operation, maintenance, personnel competency, and testing of your subsea leak detection system to protect your subsea field/infrastructure (e.g., trees, manifolds, jumpers). You must include a description of the procedures regarding how you will operate the system, ensure system functionality, identify a leak, and the actions you will take if a leak is identified.

§ 250.241 What subsea systems and pipeline information must my DWOP include?

(a) You must include the following information common to the subsea system and the associated pipeline systems, which constitute all or part of a single project development covered by the DWOP and/or is consistent with activities addressed in your associated pipeline application, as applicable:

(1) The subsea field schematic depicting the planned subsea development equipment and infrastructure, including wells/trees, non-pipe subsea equipment, pipeline route(s), pipeline riser systems, umbilical(s), and platform footprint;

(2) A description of the subsea development project detailing the subsea and pipeline equipment design criteria and analysis procedures (including industry standards, pressure and temperature ratings, materials selection), testing methods, and general operational procedures;

(3) A description of the fabrication and assembly/testing location of subsea trees, pipelines, and non-pipe subsea equipment (manifold, Pipeline End Manifold (PLEM), Pipeline End Termination (PLET), Subsea Umbilical Termination Assembly (SUTA), subsea pumps, suction piles, etc.);

(4) A summary of the Integrity Management Program for subsea tieback development technologies, including a plan for inspection and monitoring to support assessment of the condition of the systems a minimum of once every 10 years. This should include, but is not limited to, the in-service inspections or surveys of hull and topsides structures, tendons, mooring, and pipeline and/or wellbore riser systems to assess component condition by inspection and analysis after each significant environmental event (e.g., hurricane, earthquake, loop and eddy currents, or mudslide) impacting the system, or once every 10 years, whichever occurs first. You must also include in your Integrity Management Plan a description of how you will determine significant environmental events; and

(5) A summary of safety and environmental controls.

(b) You must include the following information about subsea systems that constitute all or part of a single project development covered by the DWOP:

(1) The system control type (e.g., direct hydraulic or electro-hydraulic);

(2) Well tree(s), wellhead, and non-pipe equipment general arrangement drawings and schematics, with size and valve type annotations to illustrate the tree and other equipment in operation;

(3) The estimated shut-in tubing pressure for the proposed well(s), including the calculation used to arrive at the estimate, specifying TVD, reservoir pressure, and the fluid gradient used, or a brief discussion of the PVT data used for estimation;

(4) The wellbore static bottomhole temperature and the estimated flowing temperature at the tree, including a description of the method used to calculate this estimate;

(5) A description of the umbilical(s) and umbilical connection(s), including an umbilical cross-section schematic;

(6) A description of the chemical or other injection systems and/or enhanced recovery systems you plan to use;

(7) A description of the corrosion monitoring and prevention/inhibition processes;

(8) Details of any re-furbished and/or re-certified equipment you plan to use; and

(9) A schedule of development activities, including well completion, facility installation, and anticipated date of first oil.

(c) You must include the following pipeline information in your DWOP, as applicable, to be consistent with your associated pipeline application(s):

(1) General design and fabrication information for each pipeline riser system;

(2) If you propose to use a pipeline free standing hybrid riser (FSHR) on a permanent installation that uses a buoyancy air can suspended from the top of the riser, you must provide the following information in your DWOP as part of the discussions required by paragraphs (b)(1) and (2) of this section:

(i) A detailed description and drawings of the FSHR, buoy, and the associated connection system;

(ii) Detailed information regarding the system used to connect the FSHR to the buoyancy air can, and associated redundancies; and

(iii) Descriptions of your monitoring system and monitoring plan for the pipeline FSHR and the associated connection system for fatigue, stress, and any other abnormal condition (e.g., corrosion), that may negatively impact the riser system's integrity.

(3) Pipeline and pipeline riser installation methods.

§ 250.242 What New or Unusual Technology information must my DWOP include?

You must include the following new or unusual technology information in your DWOP, as applicable:

(a) A description of any new or unusual technology being used in your development project, including a reference to previously approved New or Unusual Technology Conceptual Plans or New or Unusual Technology Barrier Equipment Conceptual Plans.

(b) A description of any new or unusual technology not covered under the New or Unusual Technology Conceptual Plan or New or Unusual Technology Barrier Equipment Conceptual Plan. You must include the same applicable information as required in §§ 250.228 or 250.229.

§ § 250.243 and 250.244 [Reserved]

§ 250.245 May I combine the Project Conceptual Plan and the DWOP?

If your development project meets the following criteria, you may submit a combined Project Conceptual Plan/DWOP that complies with all applicable requirements for both, on or before the deadline for submitting the Project Conceptual Plan, as described in § 250.226:

(a) The project is similar to projects involving subsea tieback development technology for which you have obtained approval previously, and

(b) The project does not involve either new or unusual technology or a new platform.

§ 250.246 When must I revise my DWOP?

You must revise your approved DWOP to reflect any material change to the plan that does not involve a physical alteration of the equipment on the platform or the seabed.

§ 250.247 When must I supplement my DWOP?

You must supplement your DWOP to reflect additions or changes in your development project that:

(a) Physically alter the equipment or systems upstream of your boarding shut down valve, approved in your DWOP. If a Supplemental DWOP includes the addition of a well or wells (e.g., a new subsea field) not approved in your original DWOP, you may not complete or produce from the new well(s) until BSEE approves the Supplemental DWOP; or

(b) Involves the addition of any new or unusual technology to your project that was not previously covered under the New or Unusual Technology Conceptual Plan, New or Unusual Technology Barrier Equipment Conceptual Plan, or DWOP. You may not install any new or unusual technology until BSEE approves the applicable Conceptual Plan and Supplemental DWOP.

§ 250.248 What information must I include in my Supplemental DWOP?

You must include the following information, as applicable, in your Supplemental DWOP:

(a) The same information for your wells or equipment as required in the applicable Conceptual Plan and DWOP requirements in this subpart;

(b) A description of each applicable Conceptual Plan or DWOP section that is being impacted by the addition or change; and

(c) Documentation demonstrating payment of the service fee listed in § 250.125.

Subpart D—Oil and Gas Drilling Operations

6. Amend § 250.490 by revising paragraph (p) introductory text to read as follows:

§ 250.490 Hydrogen sulfide.

* * * * *

(p) Metallurgical properties of equipment. When operating in a zone with H2S present or when the concentration of H2S in the produced fluid may exceed 0.05 psi partial pressure of H2S, you must use equipment that is constructed of materials with metallurgical properties that resist or prevent sulfide stress cracking (also known as hydrogen embrittlement, stress corrosion cracking, or H2S embrittlement), chloride-stress cracking, hydrogen-induced cracking, and other failure modes. You must do all of the following:

* * * * *

Subpart E—Oil and Gas Well-Completion Operations

7. Amend § 250.518 by revising paragraphs (a), (c), and (d) to read as follows:

§ 250.518 Tubing and wellhead equipment.

(a) No tubing string may be placed in service or continue to be used unless such tubing string has the necessary strength and pressure integrity and is otherwise suitable for its intended use.

(1) The tubing string must be evaluated for burst, collapse, and axial loads with appropriate safety factors and material design factors for the pressure and temperature environments of the completion, production, shut-in, and injection load cases.

(2) The tubing string materials must be appropriate for the environment. You must follow NACE Standard MR0175-2003 (incorporated by reference in § 250.198) when H2S concentration may equal or exceed 0.05 psi partial pressure.

(3) The tubing string threaded connectors must be appropriate for the loads identified in paragraph (a)(1) of this section.

* * * * *

(c) You must design and test the wellhead, tree, and related equipment in accordance with ANSI/API Spec. 6A (incorporated by reference in § 250.198) or ANSI/API Spec. 17D (incorporated by reference in § 250.198), as applicable. The wellhead, tree, and related equipment must have a pressure rating greater than the maximum anticipated surface pressure and must be designed, installed, operated, maintained, and tested to achieve and maintain pressure containment and pressure control.

(1) Newly completed dry trees (e.g., fixed, hybrid, or mudline suspension) for production or injection wells must be equipped with a minimum of one master valve and one surface safety valve (SSV), installed above the master valve, in the vertical run of the tree.

(2) Newly completed subsea production or injection wells must be equipped with a minimum of one USV installed in the horizontal or vertical run of the tree (e.g., vertical or horizontal subsea trees).

(3) Newly completed wells with a mudline suspension conversion to a subsea tree must have a minimum of two casing strings tied back and sealed below the tubing head. At a minimum, the production casing and the next outer casing must be tied back to the wellhead, to ensure annular isolation.

(d) You must install, maintain, and test surface and subsurface safety equipment in accordance with the applicable requirements in subpart H of this part.

* * * * *

Subpart F—Oil and Gas Well-Workover Operations

8. Amend § 250.619 by revising paragraphs (a), (c), and (d) to read as follows:

§ 250.619 Tubing and wellhead equipment.

* * * * *

(a) No tubing string may be placed in service or continue to be used unless such tubing string has the necessary strength and pressure integrity and is otherwise suitable for its intended use.

(1) The tubing string must be evaluated for burst, collapse, and axial loads with appropriate safety factors and material design factors for the pressure and temperature environments of the completion, production, shut-in, and injection load cases.

(2) The tubing string materials must be appropriate for the environment. You must follow NACE Standard MR0175-2003 (incorporated by reference in § 250.198) when H2S concentration may equal or exceed 0.05 psi partial pressure.

(3) The tubing string threaded connectors must be appropriate for the loading identified in paragraph (a)(1) of this section.

* * * * *

(c) You must design and test the wellhead, tree, and related equipment in accordance with ANSI/API Spec. 6A (incorporated by reference in § 250.198) or ANSI/API Spec. 17D (incorporated by reference in § 250.198), as applicable. The wellhead, tree, and related equipment must have a pressure rating greater than the shut-in tubing pressure and must be designed, installed, operated, maintained, and tested so as to achieve and maintain pressure containment and pressure control.

(1) Dry trees (e.g., fixed, hybrid, or mudline suspension) for production or injection wells must be equipped with a minimum of one master valve and one surface safety valve (SSV), installed above the master valve, in the vertical run of the tree.

(2) Subsea production or injection wells must be equipped with a minimum of one USV installed in the horizontal or vertical run of the tree (for vertical or horizontal subsea trees).

(3) Wells with a mudline suspension conversion to a subsea tree must have a minimum of two casing strings tied back and sealed below the tubing head. At minimum, the production casing and the next outer casing must be tied back to the wellhead, to ensure annular isolation.

(d) You must install, maintain, and test surface and subsurface safety equipment in accordance with the applicable requirements in subpart H of this part.

* * * * *

Subpart G—Well Operations and Equipment

9. Amend § 250.731 by revising paragraph (c)(4) to read as follows:

§ 250.731 What information must I submit for BOP systems and system components?

* * * * *

You must submit: | Including:
* * * * * * *
(c) * * * | (4) If using a subsea BOP, a BOP in an HPHT environment as defined in § 250.105, or a surface BOP on a floating facility, the BOP has not been compromised or damaged from previous service.
* * * * * * *

10. Amend § 250.732 by revising paragraph (c) to read as follows:

§ 250.732 What are the independent third party requirements for BOP systems and system components?

* * * * *

(c) Before you begin any operations in an HPHT environment, as defined by § 250.105, with the proposed equipment, you must include the following in your applicable permit:

(1) The I3P certification required in § 250.731(c);

(2) A description of any new or unusual technology being used;

(3) A reference to the previously approved associated New or Unusual Technology Barrier Equipment Conceptual Plan;

(4) The final report and statements in accordance with § 250.232(c); and

(5) The fit for service statement required in § 250.230.

You may not deploy your proposed BOP systems and related equipment that will or may be exposed to an HPHT environment until BSEE approves the New or Unusual Technology Barrier Equipment Conceptual Plan and appropriate permits (e.g., APD and APM).

* * * * *

Subpart H—Oil and Gas Production Safety Systems

§ 250.804 [Removed and Reserved]

11. Remove and reserve § 250.804.

[FR Doc. 2024-18598 Filed 8-29-24; 8:45 am]

BILLING CODE 4310-VH-P